DEPARTMENT OF HOUSING AND URBAN DEVELOPMENT

[Docket No. FR-5415-FA-17]

Announcement of Funding Awards for the Continuum of Care Program for Fiscal Year (FY) 2010

AGENCY: Office of the Assistant Secretary for Community Planning and Development, HUD.

ACTION: Announcement of funding awards.

SUMMARY: In accordance with Section 102(a)(4)(C) of the Department of Housing and Urban Development Reform Act of 1989, this announcement notifies the public of past funding decisions made by the Department in a competition for funding under the FY2010 Notice of Funding Availability (NOFA) for the Homeless Assistance Grants program. This announcement contains the names of the awardees and the amounts of the awards made available by HUD in 2010. A Federal Register notice on this action was not published at the time; however, the public was advised of these grant selections since they were posted on HUD's Web site. The posting contained a listing of the selected applicants, including descriptions of the projects.

FOR FURTHER INFORMATION CONTACT: Ann M. Oliva, Director, Office of Special Needs Assistance Programs, Office of Community Planning and Development, 451 Seventh Street, SW., Room 7262, Washington, DC 20410-7000; telephone (202) 708-4300 (this is not a toll-free number). Hearing- and speech-impaired persons may access this number via TTY by calling the Federal Relay Service toll-free at (800) 877-8339. For general information on this and other HUD programs, call Community Connections at (800) 998-9999 or visit the HUD Web site at http://www.hud.gov or http://www.hudhre.info.

SUPPLEMENTARY INFORMATION: HUD's Homeless Assistance Grants provide Federal support to one of the nation's most vulnerable populations while working to reduce overall homelessness and end chronic homelessness. Competitive Homeless Assistance Grants include the Supportive Housing Program, Shelter Plus Care, and the Section 8 Moderate Rehabilitation Single Room Occupancy Program, which are distributed through a competitive process called the Continuum of Care (CoC) in which Federal funding is driven by the local decisionmaking. The CoC system is a community-based process that provides a coordinated housing and service delivery system that enables communities to plan for and provide a comprehensive response to homeless individuals and families. It is an inclusive process that is coordinated with nonprofit organizations, state and local government agencies, service providers, private foundations, faith-based organizations, law enforcement, local businesses, and homeless or formerly homeless persons.

The FY2010 awards announced in this Notice were selected for funding in the competition announced in the Federal Register on September 14, 2010, (FR-5415-N-17) and posted at http://archives.hud.gov/funding/2010/grpcoc.cfm. Applications were scored and selected for funding based on the selection criteria in the General Section and the CoC program section.

HUD awarded a total of 7,433 competitive Homeless Assistance Grants HUD grants totaling $1,628,387,474 for FY2010. Subsequent to HUD's announcement of the FY2010 awards on January 19, 2011, HUD awarded one additional renewal grant in North Dakota which has been included in the funding awards. The additional award was made based on the further review by HUD of specific circumstances surrounding its renewal request.

In accordance with Section 102(a)(4)(C) of the Department of Housing and Urban Development Reform Act of 1989 (103 Stat. 1987, 42 U.S.C. 3545), the Department is publishing the details of these funding grant announcements in Appendix A.

Dated: February 3, 2012.
Mercedes M. Márquez,
Assistant Secretary for Community Planning and Development.

Appendix A

Continuum of Care Program Grant Awards From FY 2010 Notice of Funding Availability
Recipient | State | Amount
Alaska Housing Finance Corporation | AK | $298,560
Alaska Housing Finance Corporation | AK | 214,392
Alaska Housing Finance Corporation | AK | 11,542
Alaska Housing Finance Corporation | AK | 98,208
Alaska Housing Finance Corporation | AK | 55,584
Alaska Housing Finance Corporation | AK | 120,864
Alaska Housing Finance Corporation | AK | 98,472
Alaska Housing Finance Corporation | AK | 104,496
Alaska Housing Finance Corporation | AK | 18,460
Alaskan AIDS Assistance Association | AK | 104,665
Anchorage Community Mental Health Services, Inc | AK | 203,464
Anchorage Community Mental Health Services, Inc | AK | 646,563
Anchorage Housing Initiatives, Inc | AK | 84,578
Covenant House Alaska | AK | 245,629
Interior Alaska Center for Non-Violent Living | AK | 32,824
Interior Alaska Center for Non-Violent Living | AK | 48,090
Interior Alaska Center for Non-Violent Living | AK | 50,965
Municipality of Anchorage | AK | 296,714
Rural Alaska Community Action Program, Inc | AK | 502,241
St. Vincent de Paul Society Diocesan Council Southeast Alask | AK | 26,350
The LeeShore Center | AK | 73,791
Tundra Women's Coalition | AK | 28,212
Valley Residential Services, Inc | AK | 102,499
Valley Residential Services, Inc | AK | 13,170
AIDS Alabama Inc | AL | 149,300
AIDS Alabama Inc | AL | 245,600
AIDS Alabama Inc | AL | 186,873
AIDS Alabama Inc | AL | 262,903
Alabama Coalition Against Domestic Violence | AL | 128,638
Aletheia House | AL | 314,705
Aletheia House | AL | 108,857
City of Gadsden | AL | 29,297
City of Tuscaloosa | AL | 28,000
Faith Crusade Ministries, Inc | AL | 63,626
Faith Crusade Ministries, Inc | AL | 59,902
First Light, Inc | AL | 86,068
First Light, Inc | AL | 82,368
First Light, Inc | AL | 245,600
First Stop, Inc | AL | 81,009
House of Restoration | AL | 319,329
Housing First, Inc | AL | 105,000
Housing First, Inc | AL | 146,187
Housing First, Inc | AL | 94,756
Housing First, Inc | AL | 244,386
Housing First, Inc | AL | 123,060
Housing First, Inc | AL | 120,860
Housing First, Inc | AL | 479,261
Housing First, Inc | AL | 135,881
Housing First, Inc | AL | 103,751
Housing First, Inc | AL | 25,261
Housing First, Inc | AL | 175,061
Housing First, Inc | AL | 148,732
Housing First, Inc | AL | 235,521
Housing First, Inc | AL | 163,077
Housing First, Inc | AL | 86,100
Housing First, Inc | AL | 160,019
Housing First, Inc | AL | 123,088
Housing First, Inc | AL | 78,178
Housing First, Inc | AL | 90,284
Housing First, Inc | AL | 384,573
Huntsville Housing Authority | AL | 307,008
Independent Living Resources of Greater Birmingham, Inc | AL | 26,460
Jefferson County Housing Authority | AL | 264,804
Jefferson County Housing Authority | AL | 3,886,032
Jefferson-Blount-St. Clair Mental Health/Mental Retardation | AL | 238,439
Lighthouse Counseling Center, Inc | AL | 181,414
Lighthouse Counseling Center, Inc | AL | 197,854
Lighthouse Counseling Center, Inc | AL | 293,602
Mental Health Center of North Central Alabama, Inc | AL | 131,593
Metropolitan Birmingham Services for the Homeless | AL | 138,600
Montgomery Area Family Violence Program Inc | AL | 138,606
Montgomery Area Family Violence Program Inc | AL | 164,652
Montgomery Area Mental Health Authority | AL | 212,695
Montgomery Area Mental Health Authority | AL | 64,147
Montgomery Area Mental Health Authority | AL | 493,838
Montgomery Area Mental Health Authority | AL | 134,678
North Alabama Coalition for the Homeless, Inc | AL | 56,393
Pathways Inc | AL | 128,181
Pathways Inc | AL | 168,453
Safeplace, Inc | AL | 520,531
State of Alabama | AL | 243,708
The Cooperative Downtown Ministries, Inc | AL | 146,917
The Cooperative Downtown Ministries, Inc | AL | 47,835
The Cooperative Downtown Ministries, Inc | AL | 126,426
The Cooperative Downtown Ministries, Inc | AL | 219,089
The SafeHouse of Shelby County, Inc | AL | 54,752
The Salvation Army, A Georgia Corporation | AL | 69,087
The Salvation Army, a Georgia Corporation | AL | 159,973
The Tuscaloosa Housing Authority | AL | 200,520
The Tuscaloosa Housing Authority | AL | 60,156
The Volunteer & Information Center, Inc | AL | 70,327
University of Alabama at Birmingham | AL | 250,510
University of Alabama at Birmingham | AL | 246,975
University of Alabama at Birmingham | AL | 245,540
YWCA BIRMINGHAM | AL | 83,867
YWCA BIRMINGHAM | AL | 369,415
Arkansas Department of Human Services | AR | 411,996
Arkansas Department of Human Services | AR | 408,492
Arkansas Department of Human Services | AR | 967,332
Arkansas Department of Human Services | AR | 28,092
Bethlehem House, Inc | AR | 200,000
Bethlehem House, Inc | AR | 21,600
Better Community Development, Inc.. | AR | 110,125
Better Community Development, Inc.. | AR | 137,758
Better Community Development, Inc.. | AR | 40,306
City of Pine Bluff | AR | 237,426
City of West Memphis, Arkansas | AR | 33,648
Committee Against Spouse Abuse | AR | 31,307
Health Resources of Arkansas | AR | 170,224
Health Resources of Arkansas | AR | 133,596
Housing Authority of the City of Fayetteville, Arkansas | AR | 96,912
Housing Authority of the City of Fayetteville, Arkansas | AR | 43,104
In God's Hands Transitional Living Home, Inc | AR | 225,955
Little Rock Community Mental Health Center | AR | 45,896
Little Rock Community Mental Health Center | AR | 287,729
Little Rock Community Mental Health Center | AR | 36,311
Little Rock Community Mental Health Center | AR | 562,993
Little Rock Community Mental Health Center | AR | 96,088
Little Rock Community Mental Health Center | AR | 99,210
Little Rock Housing Authority | AR | 40,800
Our House, Inc | AR | 36,370
Our House, Inc | AR | 162,568
River City Ministry of North Little Rock | AR | 68,331
Seven Hills Homeless Center | AR | 349,495
Seven Hills Homeless Center | AR | 68,310
Seven Hills Homeless Center | AR | 20,412
Women & Children First: The Center Against Family Violence | AR | 93,058
Youth Bridge, Inc | AR | 93,485
A New Leaf, Inc | AZ | 510,688
A New Leaf, Inc | AZ | 58,878
Area Agency on Aging, Region One | AZ | 60,735
Area Agency on Aging, Region One | AZ | 126,575
Area Agency on Aging, Region One | AZ | 63,064
Arizona Behavioral Health Corporation | AZ | 693,793
Arizona Behavioral Health Corporation | AZ | 687,027
Arizona Behavioral Health Corporation | AZ | 373,993
Arizona Behavioral Health Corporation | AZ | 903,424
Arizona Behavioral Health Corporation | AZ | 1,801,534
Arizona Behavioral Health Corporation | AZ | 202,030
Arizona Behavioral Health Corporation | AZ | 1,114,795
Arizona Behavioral Health Corporation | AZ | 938,788
Arizona Behavioral Health Corporation | AZ | 20,775
Arizona Behavioral Health Corporation | AZ | 519,019
Arizona Behavioral Health Corporation | AZ | 685,755
Arizona Behavioral Health Corporation | AZ | 70,456
Arizona Department of Housing | AZ | 125,647
Arizona Department of Housing | AZ | 195,943
Arizona Department of Housing | AZ | 30,332
Arizona Department of Housing | AZ | 3,064,080
Arizona Department of Housing | AZ | 347,504
Arizona Department of Housing | AZ | 235,320
Arizona Department of Housing | AZ | 93,186
Arizona Department of Housing | AZ | 34,187
Arizona Department of Housing | AZ | 78,175
Arizona Department of Housing | AZ | 913,068
Arizona Department of Housing | AZ | 129,747
Arizona Department of Housing | AZ | 157,500
Arizona Department of Housing | AZ | 68,358
Arizona Department of Housing | AZ | 80,660
Arizona Department of Housing | AZ | 78,422
Arizona Department of Housing | AZ | 34,604
Arizona Department of Housing | AZ | 108,701
Arizona Department of Housing | AZ | 51,640
Arizona Department of Housing | AZ | 131,686
Arizona Department of Housing | AZ | 102,534
Arizona Department of Housing | AZ | 164,877
Arizona Department of Housing | AZ | 91,236
Arizona Department of Housing | AZ | 222,084
Arizona Department of Housing | AZ | 259,404
Arizona Department of Housing | AZ | 76,685
Arizona Department of Housing | AZ | 48,937
Arizona Department of Housing | AZ | 1,573,692
Arizona Department of Housing | AZ | 99,805
Arizona Department of Housing | AZ | 1,985,232
Arizona Department of Housing | AZ | 130,600
Arizona Department of Housing | AZ | 129,225
Arizona Department of Housing | AZ | 187,656
Arizona Housing, Inc | AZ | 78,663
Arizona Housing, Inc | AZ | 58,025
Catholic Charities Community Services | AZ | 24,039
Chicanos Por La Causa, Inc | AZ | 101,737
Chrysalis Shelter for Victims of Domestic Violence, Inc | AZ | 24,269
City of Mesa Housing Authority | AZ | 418,740
City of Tucson | AZ | 741,272
City of Tucson | AZ | 60,385
City of Tucson | AZ | 322,572
City of Tucson | AZ | 330,084
City of Tucson | AZ | 830,916
City of Tucson | AZ | 91,037
CODAC Behavioral Health Services | AZ | 453,826
CODAC Behavioral Health Services | AZ | 171,443
CODAC Behavioral Health Services | AZ | 221,118
Community Bridges, Inc | AZ | 344,610
Community Information & Referral | AZ | 400,921
Community Information & Referral | AZ | 176,752
Compass Healthcare, Inc | AZ | 156,274
COPE Community Services, Inc | AZ | 222,646
Homeward Bound | AZ | 26,250
Homeward Bound | AZ | 313,761
Human Services Campus, LLC | AZ | 639,424
La Frontera Center, Inc | AZ | 425,148
Labor's Community Service Agency | AZ | 279,594
Native American Connections, Inc | AZ | 333,370
Native American Connections, Inc | AZ | 163,178
Native American Connections, Inc | AZ | 35,000
Native American Connections, Inc | AZ | 91,043
New Arizona Family, Inc | AZ | 99,105
Old Pueblo Community Foundation | AZ | 221,516
Old Pueblo Community Foundation | AZ | 68,391
Our Family Services, Inc | AZ | 60,789
Phoenix Shanti Group | AZ | 34,599
Pima County | AZ | 221,935
Pima County | AZ | 428,470
Pima County | AZ | 387,476
Pima County | AZ | 461,425
Pima County CDNC | AZ | 181,089
Pima County CDNC | AZ | 434,713
Recovery Innovations of Arizona, Inc | AZ | 990,010
Save the Family Foundation of Arizona | AZ | 420,100
Save the Family Foundation of Arizona | AZ | 215,406
Sojourner Center | AZ | 417,763
Southern Arizona AIDS Foundation | AZ | 86,499
Southern Arizona AIDS Foundation | AZ | 28,373
Southern Arizona AIDS Foundation | AZ | 87,783
Southwest Behavioral Health Services, Inc | AZ | 205,977
The EXCEL group, Inc | AZ | 133,487
The Primavera Foundation, Inc | AZ | 103,306
The Primavera Foundation, Inc | AZ | 112,486
The Salvation Army Western Territory | AZ | 45,360
The Salvation Army Western Territory | AZ | 73,080
Tumbleweed Center for Youth Development | AZ | 318,729
Tumbleweed Center for Youth Development | AZ | 439,700
Tumbleweed Center for Youth Development | AZ | 214,429
UMOM New Day Centers, Inc | AZ | 80,126
UMOM New Day Centers, Inc | AZ | 187,584
UMOM New Day Centers, Inc | AZ | 201,671
UMOM New Day Centers, Inc | AZ | 347,382
United States Veterans Initiative | AZ | 152,948
United States Veterans Initiative | AZ | 496,557
WINR/Women In New Recovery | AZ | 46,862
1736 Family Crisis Center | CA | 521,823
A Community of Friends | CA | 52,250
A Community of Friends | CA | 175,000
A Community of Friends | CA | 213,003
Abode Services | CA | 529,612
Abode Services | CA | 133,333
Abode Services | CA | 827,904
Affordable Housing Associates | CA | 36,665
Alameda County | CA | 517,548
Alameda County | CA | 1,090,393
Alameda County | CA | 181,335
Alameda County | CA | 1,042,272
Alameda County | CA | 4,307,424
Alameda County | CA | 184,771
Alameda County | CA | 157,189
Alameda County | CA | 384,582
Alameda County | CA | 44,122
Alameda County | CA | 140,028
Alameda County | CA | 287,040
Alameda County | CA | 42,170
Alameda County | CA | 687,732
Alameda County | CA | 192,266
Alameda County | CA | 79,800
Alameda County Allied Housing Program | CA | 35,490
Alliance for Housing and Healing dba The Serra Project | CA | 303,173
Alliance for Housing and Healing dba The Serra Project | CA | 326,848
Alpha Project | CA | 159,345
Amador-Tuolumne Community Action Agency | CA | 39,900
Amador-Tuolumne Community Action Agency | CA | 30,819
American Family Housing | CA | 315,478
American Family Housing | CA | 286,276
American Family Housing | CA | 419,662
American Family Housing | CA | 935,491
Anaheim Supportive Housing for Senior Adults, Inc | CA | 139,020
Angels of Grace, Inc | CA | 93,000
Anka Behavioral Health Services | CA | 155,027
Anka Behavioral Health Services | CA | 121,776
Anka Behavioral Health Services | CA | 105,311
Anka Behavioral Health Services | CA | 494,271
Antelope Valley Domestic Violence Council | CA | 143,911
Arcata House, Inc | CA | 108,844
Arcata House, Inc | CA | 37,606
Arcata House, Inc | CA | 27,562
Arcata House, Inc | CA | 60,714
Asian Pacific Women's Center, Inc | CA | 149,813
Aspiranet | CA | 279,972
Berkeley Food and Housing Project | CA | 242,217
Berkeley Food and Housing Project | CA | 253,627
Berkeley Food and Housing Project | CA | 141,019
Bethany Services dba Bakersfield Homeless Center | CA | 176,881
Bethany Services dba Bakersfield Homeless Center | CA | 90,000
Bethany Services dba Bakersfield Homeless Center | CA | 269,408
Beyond Shelter | CA | 141,910
Bill Wilson Center | CA | 548,476
Bill Wilson Center | CA | 303,562
Bonita House, Inc | CA | 33,080
Buckelew Programs | CA | 196,698
Buckelew Programs | CA | 53,436
Buckelew Programs | CA | 66,659
Buckelew Programs | CA | 27,476
Buckelew Programs | CA | 164,490
Buckelew Programs | CA | 170,040
Building Opportunities for Self-Sufficiency | CA | 74,500
Building Opportunities for Self-Sufficiency | CA | 96,147
Building Opportunities for Self-Sufficiency | CA | 164,038
Building Opportunities for Self-Sufficiency | CA | 274,259
Building Opportunities for Self-Sufficiency | CA | 114,997
Building Opportunities for Self-Sufficiency | CA | 736,155
Building Opportunities for Self-Sufficiency | CA | 185,727
Butte County Department of Behavioral Health | CA | 26,835
Butte County Department of Behavioral Health | CA | 57,043
Butte County Department of Behavioral Health | CA | 52,510
California Council for Veterans Affairs, Inc | CA | 136,216
Caminar | CA | 48,547
Caminar | CA | 60,725
Caminar | CA | 32,409
Caminar | CA | 25,000
Catholic Charities CYO | CA | 140,267
Catholic Charities of Los Angeles, Inc | CA | 142,900
Catholic Charities of Santa Clara County | CA | 703,549
Catholic Charities of Santa Clara County | CA | 378,173
Catholic Charities of Santa Clara County | CA | 488,880
Catholic Charities of Santa Clara County | CA | 464,444
Catholic Charities of the Diocese of Santa Rosa | CA | 80,424
Catholic Charities of the Diocese of Santa Rosa | CA | 74,963
Catholic Charities, Diocese of San Diego | CA | 33,333
Center for Human Rights and Constitutional Law, Inc | CA | 134,943
Center for Human Services | CA | 42,879
Center Point, Inc | CA | 479,316
Center Point, Inc | CA | 42,210
Central City Lutheran Mission | CA | 75,046
Central City Lutheran Mission | CA | 67,630
Central Coast HIV/AIDS Services | CA | 129,312
City and County of San Francisco | CA | 684,014
City and County of San Francisco | CA | 508,873
City and County of San Francisco | CA | 372,678
City and County of San Francisco | CA | 923,892
City and County of San Francisco | CA | 127,185
City and County of San Francisco | CA | 80,724
City and County of San Francisco | CA | 314,424
City and County of San Francisco | CA | 85,752
City and County of San Francisco | CA | 132,117
City and County of San Francisco | CA | 240,685
City and County of San Francisco | CA | 857,280
City and County of San Francisco | CA | 331,020
City and County of San Francisco | CA | 52,740
City and County of San Francisco | CA | 562,692
City and County of San Francisco | CA | 83,568
City and County of San Francisco | CA | 954,809
City and County of San Francisco | CA | 964,440
City and County of San Francisco | CA | 1,173,199
City and County of San Francisco | CA | 160,740
City and County of San Francisco | CA | 134,607
City and County of San Francisco | CA | 214,320
City and County of San Francisco | CA | 192,888
City and County of San Francisco | CA | 1,071,900
City and County of San Francisco | CA | 234,609
City and County of San Francisco | CA | 621,528
City and County of San Francisco | CA | 312,144
City and County of San Francisco | CA | 114,640
City and County of San Francisco | CA | 303,572
City and County of San Francisco | CA | 107,160
City and County of San Francisco | CA | 390,552
City and County of San Francisco | CA | 359,777
City and County of San Francisco | CA | 381,721
City and County of San Francisco | CA | 179,026
City and County of San Francisco | CA | 270,923
City and County of San Francisco | CA | 515,868
City and County of San Francisco | CA | 75,407
City and County of San Francisco | CA | 883,824
City and County of San Francisco | CA | 180,074
City and County of San Francisco | CA | 703,824
City and County of San Francisco | CA | 760,152
City and County of San Francisco | CA | 355,787
City and County of San Francisco | CA | 637,884
City of Berkeley | CA | 126,624
City of Berkeley | CA | 1,952,112
City of Berkeley | CA | 455,196
City of Berkeley | CA | 123,192
City of Davis | CA | 106,752
City of Fremont | CA | 269,790
City of Glendale/Glendale Housing Authority | CA | 21,420
City of Glendale/Glendale Housing Authority | CA | 185,425
City of Glendale/Glendale Housing Authority | CA | 160,560
City of Glendale/Glendale Housing Authority | CA | 217,292
City of Glendale/Glendale Housing Authority | CA | 299,100
City of Glendale/Glendale Housing Authority | CA | 753,330
City of Glendale/Glendale Housing Authority | CA | 74,624
City of Glendale/Glendale Housing Authority | CA | 154,776
City of Glendale/Glendale Housing Authority | CA | 93,000
City of Glendale/Glendale Housing Authority | CA | 148,156
City of Glendale/Glendale Housing Authority | CA | 153,802
City of Glendale/Glendale Housing Authority | CA | 181,966
City of Long Beach | CA | 102,363
City of Long Beach | CA | 452,460
City of Long Beach | CA | 50,085
City of Long Beach | CA | 165,122
City of Long Beach | CA | 650,823
City of Long Beach | CA | 168,912
City of Long Beach | CA | 220,638
City of Long Beach | CA | 50,017
City of Long Beach | CA | 102,327
City of Long Beach | CA | 182,128
City of Long Beach | CA | 241,279
City of Long Beach | CA | 284,097
City of Long Beach | CA | 128,436
City of Long Beach | CA | 367,278
City of Long Beach | CA | 88,299
City of Long Beach | CA | 378,202
City of Long Beach | CA | 350,396
City of Long Beach | CA | 105,084
City of Long Beach | CA | 46,998
City of Long Beach | CA | 45,178
City of Long Beach | CA | 218,639
City of Long Beach | CA | 222,721
City of Long Beach | CA | 256,340
City of Long Beach | CA | 105,870
City of Long Beach | CA | 285,838
City of Long Beach | CA | 52,209
City of Long Beach | CA | 132,884
City of Long Beach | CA | 196,623
City of Long Beach | CA | 245,196
City of Long Beach | CA | 244,998
City of Long Beach | CA | 343,145
City of Long Beach | CA | 102,379
City of Long Beach | CA | 351,900
City of Long Beach | CA | 351,508
City of Oceanside | CA | 146,702
City of Oxnard | CA | 52,747
City of Oxnard | CA | 13,490
City of Oxnard | CA | 123,348
City of Pomona | CA | 162,154
City of Pomona Housing Authority | CA | 1,065,192
City of Santa Monica | CA | 491,791
City of Santa Monica Housing Authority | CA | 78,840
City of Santa Monica Housing Authority | CA | 1,763,016
City of Tulare | CA | 494,340
City of Tulare | CA | 177,660
City of Woodland | CA | 46,240
City of Woodland | CA | 177,343
Clinca Sierra Vista, Inc | CA | 662,832
Clinca Sierra Vista, Inc | CA | 93,903
Coalition of Homeless Services Providers | CA | 70,875
Colette's Children Home, Inc | CA | 127,309
Colette's Children Home, Inc | CA | 163,898
Colette's Children Home, Inc | CA | 157,278
Colette's Children Home, Inc | CA | 163,898
Colette's Children Home, Inc | CA | 137,882
Committee on the Shelterless | CA | 75,000
Committee on the Shelterless | CA | 78,359
Committee on the Shelterless | CA | 16,000
Committee on the Shelterless | CA | 29,744
Community Action Agency of Butte County, Inc | CA | 45,880
Community Action Agency of Butte County, Inc | CA | 53,946
Community Action Agency of Butte County, Inc | CA | 105,000
Community Action of Napa Valley | CA | 26,938
Community Action Partnership of Madera County, Inc | CA | 175,107
Community Action Partnership of San Bernardino County | CA | 250,158
Community Action Partnership of Sonoma County | CA | 40,624
Community Action Partnership of Sonoma County | CA | 107,000
Community Assistance Network | CA | 47,158
Community Awareness & Treatment Services, Inc | CA | 348,153
Community Development Commission of Mendocino County | CA | 47,712
Community Development Commission of Mendocino County | CA | 1,424,820
Community Housing and Shelter Services | CA | 68,341
Community Housing and Shelter Services | CA | 95,313
Community Housing Partnership | CA | 157,490
Community Housing Sonoma County | CA | 132,078
Community HousingWorks | CA | 104,559
Community HousingWorks | CA | 63,000
Community HousingWorks | CA | 43,557
Community HousingWorks | CA | 581,744
Community Resource Center | CA | 55,000
Community Support Network | CA | 40,842
Community Technology Alliance | CA | 151,926
Community Technology Alliance | CA | 303,716
Community Technology Alliance | CA | 89,985
Community Working Group, Inc | CA | 43,100
Compass Family Services | CA | 295,006
Contra Costa Health Services | CA | 513,028
Contra Costa Health Services | CA | 177,477
Contra Costa Health Services | CA | 158,041
Contra Costa Health Services | CA | 290,355
CORA (Community Overcoming Relationship Abuse) | CA | 225,375
County of Kern Department of Mental Health Services | CA | 74,592
County of Kern Department of Mental Health Services | CA | 82,050
County of Los Angeles Department of Children and Family Serv | CA | 197,621
County of Los Angeles Department of Children and Family Serv | CA | 384,676
County of Los Angeles Department of Children and Family Serv | CA | 89,062
County of Los Angeles Department of Children and Family Serv | CA | 274,400
County of Los Angeles, Housing Authority | CA | 673,500
County of Los Angeles, Housing Authority | CA | 336,084
County of Los Angeles, Housing Authority | CA | 1,263,468
County of Los Angeles, Housing Authority | CA | 556,308
County of Los Angeles, Housing Authority | CA | 316,560
County of Los Angeles, Housing Authority | CA | 2,975,976
County of Los Angeles, Housing Authority | CA | 2,815,200
County of Los Angeles, Housing Authority | CA | 265,860
County of Los Angeles, Housing Authority | CA | 470,352
County of Los Angeles, Housing Authority | CA | 351,168
County of Los Angeles, Housing Authority | CA | 288,528
County of Los Angeles, Housing Authority | CA | 182,988
County of Los Angeles, Housing Authority | CA | 325,104
County of Los Angeles, Housing Authority | CA | 186,816
County of Los Angeles, Housing Authority | CA | 439,500
County of Los Angeles, Housing Authority | CA | 744,756
County of Napa | CA | 125,794
County of Napa | CA | 13,500
County of Napa | CA | 19,950
County of Nevada | CA | 134,160
County of Riverside | CA | 135,756
County of Riverside | CA | 200,277
County of Riverside | CA | 136,166
County of Riverside | CA | 325,277
County of Riverside | CA | 476,070
County of Riverside | CA | 216,871
County of Riverside | CA | 72,654
County of Riverside | CA | 350,857
County of Riverside | CA | 260,498
County of Riverside | CA | 59,440
County of Riverside | CA | 646,847
County of Riverside | CA | 275,000
County of Riverside | CA | 80,591
County of Riverside | CA | 42,192
County of Riverside | CA | 523,248
County of Riverside | CA | 141,261
County of Riverside | CA | 89,373
County of Riverside | CA | 525,000
County of Riverside | CA | 218,484
County of Riverside | CA | 349,200
County of Riverside | CA | 408,234
County of Sacramento | CA | 226,000
County of Sacramento | CA | 4,213,380
County of Sacramento | CA | 3,061,636
County of Sacramento | CA | 362,022
County of Sacramento | CA | 128,148
County of Sacramento | CA | 89,932
County of Sacramento | CA | 187,714
County of Sacramento | CA | 102,107
County of Sacramento | CA | 163,512
County of Sacramento | CA | 154,345
County of Sacramento | CA | 499,037
County of Sacramento | CA | 275,838
County of Sacramento | CA | 99,959
County of Sacramento | CA | 81,746
County of Sacramento | CA | 314,738
County of Sacramento | CA | 497,726
County of Sacramento | CA | 154,110
County of Sacramento | CA | 123,496
County of Sacramento | CA | 316,033
County of Sacramento | CA | 398,509
County of Sacramento | CA | 259,830
County of Sacramento | CA | 630,636
County of Sacramento | CA | 327,869
County of Sacramento | CA | 178,849
County of Sacramento | CA | 229,107
County of Sacramento | CA | 312,138
County of Sacramento | CA | 256,032
County of San Diego | CA | 222,240
County of San Diego | CA | 205,368
County of San Diego | CA | 149,208
County of San Diego | CA | 162,996
County of San Diego | CA | 611,436
County of San Luis Obispo | CA | 48,091
County of San Luis Obispo | CA | 473,981
County of San Luis Obispo | CA | 107,100
County of San Luis Obispo | CA | 211,395
County of San Luis Obispo | CA | 55,000
County of Santa Barbara | CA | 126,163
County of Santa Cruz Health Services Agency | CA | 361,339
County of Santa Cruz Health Services Agency | CA | 66,074
County of Ventura Human Services Agency | CA | 217,276
County of Ventura Human Services Agency | CA | 31,214
County of Ventura Human Services Agency | CA | 163,795
County of Ventura Human Services Agency | CA | 49,085
Covenant House California | CA | 129,736
Crisis House, Inc | CA | 189,081
Crisis House, Inc | CA | 445,011
Domestic Violence Solutions for Santa Barbara County | CA | 76,219
Eden Investments, Inc | CA | 79,240
Emergency Housing Consortium of Santa Clara County | CA | 262,722
Emergency Housing Consortium of Santa Clara County | CA | 58,747
Emergency Housing Consortium of Santa Clara County | CA | 93,866
Episcopal Community Services | CA | 509,328
Episcopal Community Services | CA | 557,110
Fairfield Suisun Community Action Council, Inc | CA | 186,290
Faithworks Community Coalition | CA | 17,823
Families Forward | CA | 132,941
Families Forward | CA | 73,819
Families In Transition of Santa Cruz County, Inc | CA | 182,448
Families In Transition of Santa Cruz County, Inc | CA | 181,158
Family Service Association | CA | 1,131,661
Family Supportive Housing, Inc | CA | 97,368
Family Supportive Housing, Inc | CA | 46,036
Family Supportive Housing, Inc | CA | 201,927
Family Supportive Housing, Inc | CA | 211,231
Filipino American Service Group, Inc | CA | 190,449
Flood Bakersfield Ministries, Inc | CA | 89,038
Foothill Family Shelter | CA | 34,125
Ford Street Project | CA | 73,816
Frazee Community Center | CA | 26,250
Fred Finch Children's Home | CA | 651,460
Fresno County Economic Opportunities Commission | CA | 585,863
Fresno County Economic Opportunities Commission | CA | 288,978
Fresno County Economic Opportunities Commission | CA | 180,569
Friendship Shelter, Inc | CA | 68,136
Fullerton Interfaith Emergency Service | CA | 252,000
Garden Park Apartments Community (GPAC) | CA | 224,870
Glenn County Human Resource Agency | CA | 30,000
Goodwill Industries of the Greater Eastbay | CA | 863,257
Gramercy Housing Group | CA | 210,960
Greater Bakersfield Legal Assistance, Inc | CA | 120,044
Greater Richmond Interfaith Program | CA | 97,817
Greater Richmond Interfaith Program | CA | 75,306
Harbor Interfaith Services, Inc | CA | 127,673
High Desert Homeless Services, Inc | CA | 389,625
Home Start, Inc | CA | 713,464
Homeless Services Center | CA | 142,591
Homes For Life Foundation | CA | 337,589
Homes For Life Foundation | CA | 72,067
Homeward Bound of Marin | CA | 197,531
Homeward Bound of Marin | CA | 50,148
Homeward Bound of Marin | CA | 30,503
Homeward Bound of Marin | CA | 326,216
Homeward Bound of Marin | CA | 15,394
House of Prayer Gospel Outreach Ministries, Inc | CA | 915,181
Housing Authority City of Fresno | CA | 645,047
Housing Authority City of Fresno | CA | 75,000
Housing Authority City of Fresno | CA | 642,288
Housing Authority City of Fresno | CA | 173,628
Housing Authority City of Fresno | CA | 311,712
Housing Authority City of Fresno | CA | 135,000
Housing Authority of Contra Costa County | CA | 2,957,976
Housing Authority of Contra Costa County | CA | 211,680
Housing Authority of Contra Costa County | CA | 423,360
Housing Authority of Contra Costa County | CA | 56,448
Housing Authority of the City of Los Angeles (HACLA) | CA | 823,272
Housing Authority of the City of Los Angeles (HACLA) | CA | 502,068
Housing Authority of the City of Los Angeles (HACLA) | CA | 233,520
Housing Authority of the City of Los Angeles (HACLA) | CA | 280,224
Housing Authority of the City of Los Angeles (HACLA) | CA | 56,304
Housing Authority of the City of Los Angeles (HACLA) | CA | 334,200
Housing Authority of the City of Los Angeles (HACLA) | CA | 450,312
Housing Authority of the City of Los Angeles (HACLA) | CA | 157,680
Housing Authority of the City of Los Angeles (HACLA) | CA | 3,084,720
Housing Authority of the City of Los Angeles (HACLA) | CA | 211,140
Housing Authority of the City of Los Angeles (HACLA) | CA | 3,094,140
Housing Authority of the City of Los Angeles (HACLA) | CA | 1,313,220
Housing Authority of the City of Los Angeles (HACLA) | CA | 738,816
Housing Authority of the City of Los Angeles (HACLA) | CA | 1,774,980
Housing Authority of the City of Los Angeles (HACLA) | CA | 473,604
Housing Authority of the City of Los Angeles (HACLA) | CA | 1,909,680
Housing Authority of the City of Los Angeles (HACLA) | CA | 152,436
Housing Authority of the City of Los Angeles (HACLA) | CA | 308,568
Housing Authority of the City of Los Angeles (HACLA) | CA | 363,768
Housing Authority of the City of Los Angeles (HACLA) | CA | 563,040
Housing Authority of the City of Los Angeles (HACLA) | CA | 332,448
Housing Authority of the City of Los Angeles (HACLA) | CA | 3,041,964
Housing Authority of the City of Los Angeles (HACLA) | CA | 233,520
Housing Authority of the City of Los Angeles (HACLA) | CA | 116,760
Housing Authority of the City of Los Angeles (HACLA) | CA | 1,261,656
Housing Authority of the City of Los Angeles (HACLA) | CA | 163,464
Housing Authority of the City of Los Angeles (HACLA) | CA | 422,280
Housing Authority of the City of Los Angeles (HACLA) | CA | 657,000
Housing Authority of the City of Los Angeles (HACLA) | CA | 605,268
Housing Authority of the City of Los Angeles (HACLA) | CA | 338,604
Housing Authority of the City of Los Angeles (HACLA) | CA | 590,160
Housing Authority of the City of Los Angeles (HACLA) | CA | 405,012
Housing Authority of the City of Los Angeles (HACLA) | CA | 287,508
Housing Authority of the City of Los Angeles (HACLA) | CA | 2,409,000
Housing Authority of the City of Los Angeles (HACLA) | CA | 393,156
Housing Authority of the City of Los Angeles (HACLA) | CA | 225,216
Housing Authority of the City of Los Angeles (HACLA) | CA | 911,688
Housing Authority of the City of Los Angeles (HACLA) | CA | 405,012
Housing Authority of the City of Los Angeles (HACLA) | CA | 525,420
Housing Authority of the City of Napa | CA | 65,160
Housing Authority of the City of San Buenaventura | CA | 127,140
Housing Authority of the City of Santa Barbara | CA | 117,360
Housing Authority of the City of Santa Barbara | CA | 566,460
Housing Authority of the City of Santa Barbara | CA | 117,360
Housing Authority of the County of Butte | CA | 94,152
Housing Authority of the County of Kern | CA | 414,660
Housing Authority of the County of Kern | CA | 440,880
Housing Authority of the County of Kern | CA | 1,302,900
Housing Authority of the County of Kern | CA | 497,880
Housing Authority of the County of Kern | CA | 272,664
Housing Authority of the County of Kern | CA | 292,656
Housing Authority of the County of Marin | CA | 924,648
Housing Authority of the County of Marin | CA | 52,740
Housing Authority of the County of Monterey | CA | 159,768
Housing Authority of the County of Monterey | CA | 367,867
Housing Authority of the County of San Bernardino | CA | 2,243,280
Housing Authority of the County of San Bernardino | CA | 434,904
Housing Authority of the County of San Mateo | CA | 52,740
Housing Authority of the County of San Mateo | CA | 1,546,020
Housing Authority of the County of San Mateo | CA | 214,380
Housing Authority of the County of San Mateo | CA | 763,433
Housing Authority of the County of San Mateo | CA | 1,044,756
Housing Authority of the County of San Mateo | CA | 157,212
Housing Authority of the County of Santa Clara | CA | 281,880
Housing Authority of the County of Santa Clara | CA | 3,085,116
Housing Authority of the County of Santa Cruz | CA | 450,696
Housing Authority of the County of Santa Cruz | CA | 29,424
Housing Authority of the County of Santa Cruz | CA | 56,000
Housing Authority of the County of Stanislaus | CA | 563,340
Housing Authority of the County of Stanislaus | CA | 138,240
Human Options, Inc | CA | 111,122
Human Options, Inc | CA | 30,793
Humboldt Bay Housing Development Corporation | CA | 53,903
Humboldt, County of, DBA-Dept. of Health and Human Services | CA | 82,353
Immanuel Housing Inc | CA | 76,192
Individuals Now dba Social Advocates for Youth | CA | 40,000
Inland Behavioral and Health Service, Inc | CA | 367,063
Inland Counties Legal Services, Inc | CA | 38,395
Inland Counties Legal Services, Inc | CA | 54,531
Inland Temporary Homes | CA | 424,835
Inland Temporary Homes | CA | 128,173
InnVision the Way Home | CA | 163,719
InnVision the Way Home | CA | 103,408
InnVision the Way Home | CA | 28,530
InnVision the Way Home | CA | 74,078
InnVision the Way Home | CA | 228,335
InnVision the Way Home | CA | 74,266
InnVision the Way Home | CA | 140,741
InnVision the Way Home | CA | 88,714
InnVision the Way Home | CA | 131,928
InnVision the Way Home | CA | 164,635
InnVision the Way Home | CA | 348,831
Interfaith Shelter Network, Inc | CA | 24,780
Interfaith Shelter Network, Inc | CA | 44,536
Interfaith Shelter Network, Inc | CA | 61,134
Interim, Inc | CA | 97,407
Interim, Inc | CA | 138,168
Interim, Inc | CA | 189,264
Interval House | CA | 73,268
Jamboree Housing Corporation | CA | 400,000
Jewish Family Service of Los Angeles | CA | 180,498
JWCH Institute, Inc | CA | 308,999
Kings Community Action Organization | CA | 230,418
Kings United Way | CA | 158,008
L.A. Family Housing | CA | 355,664
L.A. Family Housing | CA | 363,659
Larkin Street Youth Services | CA | 110,624
Life Community Development | CA | 365,610
LifeLong Medical Care | CA | 539,398
Lompoc Housing and Community Development Corporation | CA | 36,565
Lompoc Housing and Community Development Corporation | CA | 49,875
Los Angeles Homeless Services Authority | CA | 156,635
Los Angeles Homeless Services Authority | CA | 110,824
Los Angeles Homeless Services Authority | CA | 286,999
Los Angeles Homeless Services Authority | CA | 381,940
Los Angeles Homeless Services Authority | CA | 113,971
Los Angeles Homeless Services Authority | CA | 130,971
Los Angeles Homeless Services Authority | CA | 125,824
Los Angeles Homeless Services Authority | CA | 149,846
Los Angeles Homeless Services Authority | CA | 71,796
Los Angeles Homeless Services Authority | CA | 402,558
Los Angeles Homeless Services Authority | CA | 223,552
Los Angeles Homeless Services Authority | CA | 366,345
Los Angeles Homeless Services Authority | CA | 51,771
Los Angeles Homeless Services Authority | CA | 331,546
Los Angeles Homeless Services Authority | CA | 140,300
Los Angeles Homeless Services Authority | CA | 263,401
Los Angeles Homeless Services Authority | CA | 259,875
Los Angeles Homeless Services Authority | CA | 282,429
Los Angeles Homeless Services Authority | CA | 61,041
Los Angeles Homeless Services Authority | CA | 201,506
Los Angeles Homeless Services Authority | CA | 206,461
Los Angeles Homeless Services Authority | CA | 282,734
Los Angeles Homeless Services Authority | CA | 198,507
Los Angeles Homeless Services Authority | CA | 199,999
Los Angeles Homeless Services Authority | CA | 220,461
Los Angeles Homeless Services Authority | CA | 209,799
Los Angeles Homeless Services Authority | CA | 249,361
Los Angeles Homeless Services Authority | CA | 140,466
Los Angeles Homeless Services Authority | CA | 121,874
Los Angeles Homeless Services Authority | CA | 337,805
Los Angeles Homeless Services Authority | CA | 385,943
Los Angeles Homeless Services Authority | CA | 178,238
Los Angeles Homeless Services Authority | CA | 147,775
Los Angeles Homeless Services Authority | CA | 262,085
Los Angeles Homeless Services Authority | CA | 253,423
Los Angeles Homeless Services Authority | CA | 198,095
Los Angeles Homeless Services Authority | CA | 186,956
Los Angeles Homeless Services Authority | CA | 489,638
Los Angeles Homeless Services Authority | CA | 134,592
Los Angeles Homeless Services Authority | CA | 106,479
Los Angeles Homeless Services Authority | CA | 157,436
Los Angeles Homeless Services Authority | CA | 258,248
Los Angeles Homeless Services Authority | CA | 34,999
Los Angeles Homeless Services Authority | CA | 147,972
Los Angeles Homeless Services Authority | CA | 259,701
Los Angeles Homeless Services Authority | CA | 244,623
Los Angeles Homeless Services Authority | CA | 149,706
Los Angeles Homeless Services Authority | CA | 387,581
Los Angeles Homeless Services Authority | CA | 68,320
Los Angeles Homeless Services Authority | CA | 120,164
Los Angeles Homeless Services Authority | CA | 112,450
Los Angeles Homeless Services Authority | CA | 267,828
Los Angeles Homeless Services Authority | CA | 476,401
Los Angeles Homeless Services Authority | CA | 151,802
Los Angeles Homeless Services Authority | CA | 241,135
Los Angeles Homeless Services Authority | CA | 76,059
Los Angeles Homeless Services Authority | CA | 161,539
Los Angeles Homeless Services Authority | CA | 137,485
Los Angeles Homeless Services Authority | CA | 70,031
Los Angeles Homeless Services Authority | CA | 364,882
Los Angeles Homeless Services Authority | CA | 223,929
Los Angeles Homeless Services Authority | CA | 169,419
Los Angeles Homeless Services Authority | CA | 59,052
Los Angeles Homeless Services Authority | CA | 193,880
Los Angeles Homeless Services Authority | CA | 189,000
Los Angeles Homeless Services Authority | CA | 362,250
Los Angeles Homeless Services Authority | CA | 248,942
Los Angeles Homeless Services Authority | CA | 182,955
Los Angeles Homeless Services Authority | CA | 54,498
Los Angeles Homeless Services Authority | CA | 162,775
Los Angeles Homeless Services Authority | CA | 629,647
Los Angeles Homeless Services Authority | CA | 287,114
Los Angeles Homeless Services Authority | CA | 256,710
Los Angeles Homeless Services Authority | CA | 118,346
Los Angeles Homeless Services Authority | CA | 119,280
Los Angeles Homeless Services Authority | CA | 177,929
Los Angeles Homeless Services Authority | CA | 196,350
Los Angeles Homeless Services Authority | CA | 66,685
Los Angeles Homeless Services Authority | CA | 83,913
Los Angeles Homeless Services Authority | CA | 575,164
Los Angeles Homeless Services Authority | CA | 63,687
Los Angeles Homeless Services Authority | CA | 200,258
Los Angeles Homeless Services Authority | CA | 63,655
Los Angeles Homeless Services Authority | CA | 400,000
Los Angeles Homeless Services Authority | CA | 246,780
Los Angeles Homeless Services Authority | CA | 573,405
Los Angeles Homeless Services Authority | CA | 93,310
Los Angeles Homeless Services Authority | CA | 157,706
Los Angeles Homeless Services Authority | CA | 94,295
Los Angeles Homeless Services Authority | CA | 168,843
Los Angeles Homeless Services Authority | CA | 50,225
Los Angeles Homeless Services Authority | CA | 675,466
Los Angeles Homeless Services Authority | CA | 349,666
Los Angeles Homeless Services Authority | CA | 527,602
Los Angeles Homeless Services Authority | CA | 385,943
Los Angeles Homeless Services Authority | CA | 210,433
Los Angeles Homeless Services Authority | CA | 92,217
Los Angeles Homeless Services Authority | CA | 225,355
Los Angeles Homeless Services Authority | CA | 570,870
Los Angeles Homeless Services Authority | CA | 400,000
Los Angeles Homeless Services Authority | CA | 249,999
Los Angeles Homeless Services Authority | CA | 154,997
Los Angeles Homeless Services Authority | CA | 24,331
Los Angeles Homeless Services Authority | CA | 131,286
Los Angeles Homeless Services Authority | CA | 143,432
Los Angeles Homeless Services Authority | CA | 159,179
Los Angeles Homeless Services Authority | CA | 96,975
Los Angeles Homeless Services Authority | CA | 344,504
Los Angeles Homeless Services Authority | CA | 97,677
Los Angeles Youth Network | CA | 40,528
Many Mansions a California Non Profit Corporation | CA | 59,911
Many Mansions a California Non Profit Corporation | CA | 60,952
Many Mansions a California Non Profit Corporation | CA | 61,600
Many Mansions a California Non Profit Corporation | CA | 239,499
Many Mansions a California Non Profit Corporation | CA | 39,998
Marin Abused Women's Services | CA | 64,540
Marin Abused Women's Services | CA | 55,642
Marjaree Mason Center, Inc | CA | 65,482
Marjaree Mason Center, Inc | CA | 445,000
Marjaree Mason Center, Inc | CA | 108,086
Marjaree Mason Center, Inc | CA | 287,840
Mary Lind Recovery Centers | CA | 442,317
Mendocino County Health and Human Services Agency | CA | 200,412
Mendocino County Health and Human Services Agency | CA | 28,008
Mendocino County Health and Human Services Agency | CA | 130,736
Mental Health Association of San Mateo County | CA | 39,530
Mental Health Association of San Mateo County | CA | 73,271
Mental Health Systems Inc | CA | 273,283
Mental Health Systems Inc | CA | 287,042
Mental Health Systems Inc | CA | 74,843
Mental Health Systems Inc | CA | 279,307
Merced County Community Action Board | CA | 81,163
Merced County Department of Mental Health | CA | 128,063
Merced County Department of Mental Health | CA | 287,576
Mercy House Living Centers | CA | 589,493
Mercy House Living Centers | CA | 118,000
Mercy House Living Centers | CA | 90,240
New Directions, Inc | CA | 574,640
New Economics for Women | CA | 155,254
New Hope Village, Inc | CA | 66,675
North Coast Substance Abuse Council, Inc | CA | 109,727
North County Interfaith Council, Inc | CA | 43,588
North County Interfaith Council, Inc | CA | 82,129
North County Interfaith Council, Inc | CA | 64,214
North County Interfaith Council, Inc | CA | 103,415
North County Interfaith Council, Inc | CA | 42,370
North County Interfaith Council, Inc | CA | 346,689
North County Solutions for Change | CA | 26,661
Northern Valley Catholic Social Service, Inc | CA | 91,096
Northern Valley Catholic Social Service, Inc | CA | 129,868
OC Partnership | CA | 433,263
Ocean Park Community Center | CA | 305,938
Orange Coast Interfaith Shelter | CA | 283,129
Orange County Housing Authority | CA | 1,047,960
Orange County Housing Authority | CA | 697,620
Orange County Housing Authority | CA | 1,007,556
Orange County Housing Authority | CA | 3,100,644
Orange County Housing Authority | CA | 408,900
Orange County Housing Authority | CA | 502,788
Orange County Housing Authority | CA | 547,632
Oxnard Housing Authority | CA | 144,000
Pacific Clinics | CA | 960,122
Pajaro Valley Shelter Services | CA | 13,623
Pasadena Community Development Commission | CA | 43,724
Pasadena Community Development Commission | CA | 733,764
Pasadena Community Development Commission | CA | 116,760
Pasadena Community Development Commission | CA | 235,695
Pasadena Community Development Commission | CA | 122,097
Pasadena Community Development Commission | CA | 53,904
Pasadena Community Development Commission | CA | 119,382
Pasadena Community Development Commission | CA | 155,416
Pasadena Community Development Commission | CA | 121,404
Pasadena Community Development Commission | CA | 163,700
Pasadena Community Development Commission | CA | 137,754
Pasadena Community Development Commission | CA | 106,095
PATH (People Assisting the Homeless) | CA | 114,529
PATH (People Assisting the Homeless) | CA | 100,275
PATH (People Assisting the Homeless) | CA | 209,161
Penny Lane Centers | CA | 174,969
Placer County Health and Human Services Adult System of Care | CA | 299,927
Placer County Health and Human Services Adult System of Care | CA | 298,716
Placer Women's Center dba PEACE for Families | CA | 217,898
Poor and the Homeless-Tehama County Coalition | CA | 111,173
Poverello House | CA | 354,169
Project Understanding | CA | 53,642
Rainbow Services, Ltd | CA | 255,012
Redwood Community Action Agency | CA | 38,359
Redwood Community Action Agency | CA | 118,074
Regional Task Force on the Homeless Inc | CA | 108,914
Regional Task Force on the Homeless Inc | CA | 89,798
Regional Task Force on the Homeless Inc | CA | 222,007
Resources for Community Development | CA | 70,187
Resources for Community Development | CA | 55,392
Resources for Community Development | CA | 75,528
Resources for Independent Living, Inc | CA | 97,876
Reynaissance Family Centr | CA | 41,650
Rubicon Programs Inc | CA | 1,018,766
Rubicon Programs Inc | CA | 221,628
Rubicon Programs Inc | CA | 94,500
Rubicon Programs Inc | CA | 44,013
Rubicon Programs Inc | CA | 204,120
Rubicon Programs Inc | CA | 654,229
Salvation Army | CA | 102,008
Samaritan House | CA | 105,000
San Diego Housing Commission | CA | 216,696
San Diego Housing Commission | CA | 365,196
San Diego Housing Commission | CA | 275,496
San Diego Housing Commission | CA | 413,640
San Diego Housing Commission | CA | 134,976
San Diego Housing Commission | CA | 1,026,684
San Diego Youth & Community Services | CA | 87,571
San Francisco Network Ministries Housing Corporation | CA | 70,749
San Joaquin County | CA | 1,581,288
San Joaquin County | CA | 231,595
San Joaquin County | CA | 398,821
San Joaquin County | CA | 342,120
San Joaquin County | CA | 354,644
San Joaquin County | CA | 419,040
San Joaquin County | CA | 255,328
San Luis Obispo County | CA | 60,000
SANTA BARBARA COMMUNITY HOUSING CORP | CA | 99,444
Santa Barbara County | CA | 17,850
Santa Barbara County | CA | 160,585
Santa Barbara County | CA | 102,809
Santa Barbara County—ADMHS | CA | 115,315
Santa Clara Unified School District | CA | 200,534
Santa Clara Valley Health and Hospital System—MHD | CA | 351,150
Santa Clara Valley Health and Hospital System—MHD | CA | 514,196
Santa Cruz Community Counseling Center | CA | 15,353
Santa Cruz Community Counseling Center | CA | 41,540
Santa Paula Housing Authority | CA | 146,700
Service League of San Mateo County | CA | 44,996
Shelter Network of San Mateo County | CA | 52,500
Shelter Network of San Mateo County | CA | 494,788
Shelter Network of San Mateo County | CA | 131,250
Shelter Network of San Mateo County | CA | 225,750
Shelter Network of San Mateo County | CA | 381,471
Shelter Network of San Mateo County | CA | 131,250
Shelter Network of San Mateo County | CA | 104,895
Shelter Outreach Plus | CA | 166,599
Shelter Outreach Plus | CA | 121,832
Shelter Outreach Plus | CA | 115,999
SHELTER, Inc. of Contra Costa County | CA | 277,845
SHELTER, Inc. of Contra Costa County | CA | 254,417
SHELTER, Inc. of Contra Costa County | CA | 407,333
SHELTER, Inc. of Contra Costa County | CA | 692,099
SHELTER, Inc. of Contra Costa County | CA | 80,797
SHIELDS For Families | CA | 90,395
Sierra Presbyterian Church | CA | 75,472
Single Room Occupancy Housing Corporation | CA | 92,610
Single Room Occupancy Housing Corporation | CA | 279,510
Single Room Occupancy Housing Corporation | CA | 369,601
Solano County Health and Social Services | CA | 80,502
Solano County Health and Social Services | CA | 102,317
Solano County Health and Social Services | CA | 109,925
Solano County Health and Social Services | CA | 199,246
Sonoma County Community Development Commission | CA | 215,976
Sonoma County Community Development Commission | CA | 73,728
Sonoma County Community Development Commission | CA | 135,329
Sonoma County Community Development Commission | CA | 91,008
Sonoma County Community Development Commission | CA | 794,256
South Bay Community Services, Inc | CA | 96,843
South Bay Community Services, Inc | CA | 96,832
South Bay Community Services, Inc | CA | 86,951
South Central Health & Rehabilitation Program | CA | 225,479
South County Housing Corporation | CA | 91,011
South County Outreach | CA | 175,959
South County Outreach | CA | 50,191
Southern California Alcohol and Drug Programs, Inc | CA | 355,942
Southern California Alcohol and Drug Programs, Inc | CA | 380,345
St. Joseph Center | CA | 47,246
St. Joseph's Family Center | CA | 287,217
St. Vincent de Paul Society of San Francisco | CA | 132,544
St. Vincent de Paul Village, Inc | CA | 619,024
St. Vincent de Paul Village, Inc | CA | 402,182
St. Vincent de Paul Village, Inc | CA | 1,699,096
St. Vincent de Paul Village, Inc | CA | 45,099
St. Vincent de Paul Village, Inc | CA | 890,000
St. Vincent de Paul Village, Inc | CA | 513,712
STAND! Against Domestic Violence | CA | 75,571
Stanislaus Community Assistance Project | CA | 156,929
Stanislaus Community Assistance Project | CA | 262,085
Stanislaus Community Assistance Project | CA | 118,333
Stanislaus Community Assistance Project | CA | 291,998
Stanislaus County Affordable Housing Corp | CA | 196,085
Step Up on Second Street, Inc | CA | 126,727
Stop Homelessness in the Rio Hondo Area, Inc | CA | 165,207
Su Casa ~ Ending Domestic Violence | CA | 52,463
Swords to Plowshares Veterans Rights Organization | CA | 232,623
Swords to Plowshares Veterans Rights Organization | CA | 254,335
Tarzana Treatment Centers, Inc | CA | 188,491
Testimonial Community Love Center | CA | 136,887
The Ark of Refuge, Inc | CA | 208,502
The Association For Community Housing Solutions | CA | 73,500
The Association For Community Housing Solutions | CA | 113,400
The City of Oakland | CA | 699,770
The City of Oakland | CA | 259,824
The City of Oakland | CA | 1,829,618
The City of Oakland | CA | 245,146
The Eli Home, Inc | CA | 524,275
The John Henry Foundation | CA | 146,369
The Lazarus Project, Inc | CA | 62,165
The Los Angeles Gay & Lesbian Community Services Center | CA | 367,493
The Resource Connection of Amador and Calaveras Counties | CA | 165,559
The Salvation Army | CA | 158,521
The Salvation Army | CA | 430,824
The Salvation Army | CA | 83,137
The Salvation Army, a California Corporation | CA | 86,437
The Salvation Army, a California Corporation | CA | 218,221
The Salvation Army, a California Corporation | CA | 172,089
The Salvation Army, a California Corporation | CA | 360,500
The Salvation Army, a California Corporation | CA | 169,948
The Salvation Army, a California Corporation | CA | 221,485
The Salvation Army, a California Corporation | CA | 174,133
The Salvation Army, a California Corporation | CA | 360,500
The Salvation Army, a California Corporation | CA | 276,039
The Salvation Army, a California corporation | CA | 204,637
Thomas House Temporary Shelter | CA | 87,833
Toby's House | CA | 119,545
Transition House | CA | 55,792
Transition House | CA | 61,763
Transitional Living and Community Support, Inc | CA | 246,855
Transitional Living and Community Support, Inc | CA | 256,849
Transitional Living and Community Support, Inc | CA | 305,666
Transitional Living and Community Support, Inc | CA | 72,384
Turning Point Community Programs | CA | 400,090
Turning Point Community Programs | CA | 97,292
Turning Point Foundation | CA | 249,999
Turning Point Foundation | CA | 35,410
Turning Point Foundation | CA | 26,074
Turning Point Foundation | CA | 31,361
Turning Point of Central California, Inc | CA | 74,602
Turning Point of Central California, Inc | CA | 524,585
Turning Point of Central California, Inc | CA | 424,116
Turning Point of Central California, Inc | CA | 173,564
Turning Point of Central California, Inc | CA | 274,893
United Christian Centers Of The Greater Sacramento Area, Inc | CA | 46,527
United Friends of the Children | CA | 295,657
United States Veterans Initiative | CA | 289,795
United Way of Ventura County | CA | 44,541
United Way of Ventura County | CA | 44,541
Upward Bound House | CA | 281,424
Vallejo Lord's Fellowship A/G | CA | 42,600
Vallejo Lord's Fellowship A/G | CA | 33,112
Valley Teen Ranch | CA | 30,048
Venice Community Housing Corporation | CA | 81,170
Venice Family Clinic | CA | 284,842
Ventura County Behavioral Health | CA | 214,608
Veterans First | CA | 159,700
Veterans First | CA | 211,664
Veterans First | CA | 254,804
Veterans Transition Center | CA | 81,115
Veterans Transition Center | CA | 194,525
Victor Valley Domestic Violence, Inc | CA | 283,537
Vietnam Veterans of California | CA | 83,107
Vietnam Veterans of California | CA | 265,807
Vietnam Veterans of San Diego | CA | 202,850
Vietnam Veterans of San Diego | CA | 209,600
Volunteers of America Southwest CA | CA | 301,164
Volunteers of America Southwest CA | CA | 298,453
Weingart Center Association, Inc | CA | 314,478
Weingart Center Association, Inc | CA | 170,760
West Valley Community Services of Santa Clara County, Inc | CA | 82,533
Whiteside Manor, Inc | CA | 884,051
WISEPlace | CA | 100,593
WomanHaven, Inc | CA | 169,864
Women's Daytime Drop-In Center | CA | 68,975
Women's Transitional Living Center, Inc | CA | 74,559
Women's Transitional Living Center, Inc | CA | 42,083
YMCA of Metropolitan Los Angeles | CA | 177,486
YMCA of San Diego County | CA | 178,739
Yolo Community Care Continuum | CA | 84,423
YWCA of Central Orange County | CA | 93,880
YWCA of San Diego County | CA | 553,691
YWCA Sonoma County | CA | 52,500
Catholic Charities and Community Services of the Archdiocese | CO | 59,267
City Of Colorado Springs | CO | 66,267
City of Colorado Springs, Colorado | CO | 168,852
Colorado Coalition for the Homeless | CO | 146,856
Colorado Coalition for the Homeless | CO | 137,292
Colorado Coalition for the Homeless | CO | 413,642
Colorado Coalition for the Homeless | CO | 457,654
Colorado Coalition for the Homeless | CO | 319,609
Colorado Coalition for the Homeless | CO | 114,994
Colorado Coalition for the Homeless | CO | 182,725
Colorado Coalition for the Homeless | CO | 341,335
Colorado Coalition for the Homeless | CO | 48,548
Colorado Coalition for the Homeless | CO | 19,415
Colorado Coalition for the Homeless | CO | 60,529
Colorado Coalition for the Homeless | CO | 132,363
Colorado Coalition for the Homeless | CO | 228,382
Colorado Coalition for the Homeless | CO | 198,187
Colorado Coalition for the Homeless | CO | 107,439
Colorado Coalition for the Homeless | CO | 690,000
Colorado Coalition for the Homeless | CO | 19,151
Colorado Coalition for the Homeless | CO | 40,320
Colorado Coalition for the Homeless | CO | 78,500
Colorado Coalition for the Homeless | CO | 619,334
Colorado Coalition for the Homeless | CO | 84,135
Colorado Coalition for the Homeless | CO | 184,889
Colorado Coalition for the Homeless | CO | 289,760
Colorado Coalition for the Homeless | CO | 91,065
Colorado Coalition for the Homeless | CO | 73,821
Colorado Coalition for the Homeless | CO | 507,627
Colorado Coalition for the Homeless | CO | 117,967
Colorado Coalition for the Homeless | CO | 479,236
Colorado Coalition for the Homeless | CO | 85,521
Colorado Coalition for the Homeless | CO | 132,768
Colorado Coalition for the Homeless | CO | 109,944
Colorado Coalition for the Homeless | CO | 108,293
Colorado Coalition for the Homeless | CO | 276,339
Colorado Department of Human Services | CO | 2,845,872
Colorado Department of Human Services | CO | 87,396
Colorado Department of Human Services | CO | 368,856
Colorado Department of Human Services | CO | 260,184
Colorado Department of Human Services | CO | 138,312
Colorado Springs Housing Authority | CO | 95,472
Community Housing Services, Inc | CO | 970,595
Del Norte NDC | CO | 832,033
Del Norte NDC | CO | 131,136
Denver Department of Human Services | CO | 478,176
Denver Department of Human Services | CO | 171,936
Denver Department of Human Services | CO | 391,632
Denver Department of Human Services | CO | 191,040
Denver Department of Human Services | CO | 114,624
Denver Department of Human Services | CO | 75,456
Denver Department of Human Services | CO | 114,624
Denver Department of Human Services | CO | 341,520
Denver Department of Human Services | CO | 358,560
Denver Department of Human Services | CO | 952,680
Denver Department of Human Services | CO | 136,224
Family Tree, Inc | CO | 80,085
Gospel Shelters for Women dba Liza's Place | CO | 25,000
Grand Valley Catholic Ooutreach. Inc | CO | 251,061
Grand Valley Catholic Ooutreach. Inc | CO | 99,477
Grand Valley Catholic Ooutreach. Inc | CO | 97,151
Grand Valley Catholic Ooutreach. Inc | CO | 84,165
Greccio Housing Unlimited, Inc | CO | 64,315
Greeley Center for Independence, Inc | CO | 30,893
Homeward Pikes Peak | CO | 148,615
Housing Solutions for the Southwest | CO | 19,008
Larimer Center for Mental Health | CO | 54,827
North Range Behavioral Health | CO | 109,543
Partners In Housing, Inc | CO | 47,998
Partners In Housing, Inc | CO | 24,149
Partners In Housing, Inc | CO | 88,784
Partners In Housing, Inc | CO | 50,710
Partners In Housing, Inc | CO | 32,510
Partners In Housing, Inc | CO | 81,838
Partners In Housing, Inc | CO | 90,330
Pikes Peak United Way | CO | 196,776
Posada, Inc | CO | 249,900
The Housing Authority City Boulder dba Boulder Housing Partn | CO | 274,260
The Housing Authority City Boulder dba Boulder Housing Partn | CO | 29,903
The Salvation Army, a California corporation | CO | 19,050
The Salvation Army, a California corporation | CO | 59,333
The Salvation Army, a California corporation | CO | 107,000
Third Way Center, Inc | CO | 116,538
Urban Peak Denver | CO | 104,160
Volunteers of America Colorado Branch | CO | 298,484
Volunteers of America Colorado Branch | CO | 514,783
Volunteers of America Colorado Branch | CO | 166,245
Alliance for Living, Inc | CT | 34,311
Alliance for Living, Inc | CT | 34,083
Alliance for Living, Inc | CT | 75,678
American Red Cross Middlesex Central CT Chapter | CT | 133,000
Applied Behavioral Rehabilitation Institute, Inc | CT | 99,878
Association of Religious Communities | CT | 63,604
Association of Religious Communities | CT | 8,065
Bethsaida Community, Inc | CT | 87,528
Bethsaida Community, Inc | CT | 86,984
Birmingham Group Health Services, Inc | CT | 133,633
Catholic Charities of Fairfield County, Inc | CT | 381,026
Catholic Charities of Fairfield County, Inc | CT | 202,514
Christian Community Action, Inc | CT | 200,025
Chrysalis Center, Inc | CT | 211,747
Columbus House, Inc | CT | 175,140
Columbus House, Inc | CT | 30,902
Columbus House, Inc | CT | 189,533
Community Health Resources | CT | 107,184
Community Mental Health Affiliates | CT | 197,940
Community Renewal Team, Inc | CT | 475,913
Community Renewal Team, Inc | CT | 576,997
Community Renewal Team, Inc | CT | 207,117
Community Renewal Team, Inc | CT | 369,918
Connecticut Coalition to End Homelessness | CT | 50,000
Connecticut Coalition to End Homelessness | CT | 49,999
Connecticut Coalition to End Homelessness | CT | 55,860
Connecticut Coalition to End Homelessness | CT | 33,089
Connecticut Women's Consortium, Inc | CT | 173,249
CREDO Housing Development Corp | CT | 56,358
CT Department of Mental Health and Addiction Services | CT | 221,676
CT Department of Mental Health and Addiction Services | CT | 108,612
CT Department of Mental Health and Addiction Services | CT | 182,400
CT Department of Mental Health and Addiction Services | CT | 430,752
CT Department of Mental Health and Addiction Services | CT | 151,032
CT Department of Mental Health and Addiction Services | CT | 543,636
CT Department of Mental Health and Addiction Services | CT | 100,887
CT Department of Mental Health and Addiction Services | CT | 193,687
CT Department of Mental Health and Addiction Services | CT | 144,888
CT Department of Mental Health and Addiction Services | CT | 1,818,636
CT Department of Mental Health and Addiction Services | CT | 199,920
CT Department of Mental Health and Addiction Services | CT | 115,440
CT Department of Mental Health and Addiction Services | CT | 72,408
CT Department of Mental Health and Addiction Services | CT | 505,008
CT Department of Mental Health and Addiction Services | CT | 174,720
CT Department of Mental Health and Addiction Services | CT | 1,398,228
CT Department of Mental Health and Addiction Services | CT | 1,770,336
CT Department of Mental Health and Addiction Services | CT | 199,920
CT Department of Mental Health and Addiction Services | CT | 416,863
CT Department of Mental Health and Addiction Services | CT | 237,344
CT Department of Mental Health and Addiction Services | CT | 79,920
CT Department of Mental Health and Addiction Services | CT | 242,988
CT Department of Mental Health and Addiction Services | CT | 205,800
CT Department of Mental Health and Addiction Services | CT | 441,252
CT Department of Mental Health and Addiction Services | CT | 54,720
CT Department of Mental Health and Addiction Services | CT | 300,300
CT Department of Mental Health and Addiction Services | CT | 74,304
CT Department of Mental Health and Addiction Services | CT | 367,680
CT Department of Mental Health and Addiction Services | CT | 213,379
CT Department of Mental Health and Addiction Services | CT | 141,960
CT Department of Mental Health and Addiction Services | CT | 207,480
CT Department of Mental Health and Addiction Services | CT | 508,704
CT Department of Mental Health and Addiction Services | CT | 179,772
CT Department of Mental Health and Addiction Services | CT | 270,939
CT Department of Mental Health and Addiction Services | CT | 65,520
CT Department of Mental Health and Addiction Services | CT | 30,240
CT Department of Mental Health and Addiction Services | CT | 211,644
CT Department of Mental Health and Addiction Services | CT | 119,616
CT Department of Mental Health and Addiction Services | CT | 163,800
CT Department of Mental Health and Addiction Services | CT | 116,373
CTE, Inc | CT | 132,882
Emerge, Inc | CT | 44,890
Family and Children's Agency | CT | 146,176
Friendship Service Center of New Britain, Inc | CT | 210,007
Friendship Service Center of New Britain, Inc | CT | 48,059
Friendship Service Center of New Britain, Inc | CT | 48,136
Friendship Service Center of New Britain, Inc | CT | 384,203
Hall-Brooke Behavioral Health Services | CT | 309,029
Hall-Brooke Behavioral Health Services | CT | 938,078
Harbor Health Services, Inc | CT | 16,461
Harbor Health Services, Inc | CT | 62,084
Holy Family Home and Shelter, Inc | CT | 125,631
Housing Authority City of Norwalk | CT | 173,880
Housing Authority of City of Torrington | CT | 72,408
Housing Authority of City of Torrington | CT | 155,160
Housing Authority of the City of Danbury | CT | 227,160
Housing Authority of the City of Danbury | CT | 151,440
Housing Authority of the City of Waterbury | CT | 81,936
Housing Authority of the City of Waterbury | CT | 214,824
Housing Authority of the City of Waterbury | CT | 245,436
Housing Authority of the City of Waterbury | CT | 168,432
Immaculate Conception Shelter & Housing Corporation | CT | 602,466
Immaculate Conception Shelter & Housing Corporation | CT | 98,000
InterCommunity Inc | CT | 224,057
Interfaith Housing Association of Westport/Weston, Inc | CT | 49,693
KILLINGLY HOUSING AUTHORITY | CT | 44,400
Laurel House, Inc | CT | 109,405
Laurel House, Inc | CT | 19,703
Liberation Programs, Inc | CT | 179,626
Liberty Community Services, Inc | CT | 1,049,464
Liberty Community Services, Inc | CT | 292,500
Mercy Housing and Shelter Corporation | CT | 241,190
Micah Housing, Inc | CT | 73,909
Micah Housing, Inc | CT | 73,501
Mid Fairfield AIDS Project, Inc | CT | 24,700
Mid Fairfield AIDS Project, Inc | CT | 24,748
Mid Fairfield AIDS Project, Inc | CT | 123,200
Mutual Housing Association of Southwestern Connecticut, Inc | CT | 165,900
My Sisters' Place, Inc | CT | 249,999
New Opportunities, Inc | CT | 374,784
New Opportunities, Inc | CT | 39,285
Norwalk Emergency Shelter, Inc | CT | 47,830
Operation Hope of Fairfield, Inc | CT | 193,914
Operation Hope of Fairfield, Inc | CT | 95,855
Pathways, Inc | CT | 19,838
Prudence Crandall Center, Inc | CT | 184,999
Prudence Crandall Center, Inc | CT | 187,950
Prudence Crandall Center, Inc | CT | 147,288
ReFocus Outreach Ministry, Inc | CT | 143,220
ReFocus Outreach Ministry, Inc | CT | 188,191
Regional Network of Programs, Inc | CT | 261,196
Reliance House, Inc | CT | 85,024
Shelter for the Homeless, Inc | CT | 84,051
South Park Inn, Inc | CT | 284,288
St. Luke's Community Services, Inc | CT | 19,724
St. Luke's Community Services, Inc | CT | 398,715
St. Luke's Community Services, Inc | CT | 40,277
St. Philip House, Inc | CT | 165,569
St. Vincent DePaul Mission of Bristol, Inc | CT | 27,018
St. Vincent DePaul Mission of Bristol, Inc | CT | 321,830
St. Vincent DePaul Mission of Waterbury, Inc | CT | 293,325
St. Vincent DePaul Place, Middletown, Inc | CT | 11,879
St. Vincent DePaul Place, Middletown, Inc | CT | 11,894
Thames River Community Service Inc | CT | 195,983
The Connection, Inc | CT | 137,094
The Salvation Army | CT | 73,150
The Thames Valley Council for Community Action, Inc | CT | 673,047
Torrington Community Housing Corporation | CT | 95,735
United Way of Coastal Fairfield County | CT | 39,999
United Way of Coastal Fairfield County | CT | 113,654
Windham Regional Community Council | CT | 140,145
Windham Regional Community Council | CT | 279,758
Women's Center of Southeastern Connecticut, Inc | CT | 50,584
Young Women's Christian Association of the Hartford Region | CT | 166,666
Youth Continuum | CT | 304,160
Catholic Charities of the Archdiocese of Washington DC | DC | 432,844
Coalition for the Homeless | DC | 171,453
Community Connections, Inc | DC | 98,751
Community Connections, Inc | DC | 106,863
Community Family Life Services, Inc | DC | 140,205
District of Columbia Department of Health HIV/AIDS Administr | DC | 327,792
District of Columbia Department of Health HIV/AIDS Administr | DC | 247,488
District of Columbia Dept of Human Services | DC | 910,908
District of Columbia Dept of Human Services | DC | 3,138,528
Families Forward, Inc | DC | 234,862
Families Forward, Inc | DC | 207,041
Hannah House, Inc | DC | 148,115
House of Ruth | DC | 114,586
House of Ruth | DC | 84,383
House of Ruth | DC | 144,083
House of Ruth | DC | 321,806
Pathways to Housing DC | DC | 514,025
Sasha Bruce Youthwork, Inc | DC | 189,057
Sasha Bruce Youthwork, Inc | DC | 67,628
Sasha Bruce Youthwork, Inc | DC | 129,593
SOME, Inc | DC | 101,333
SOME, Inc | DC | 513,940
SOME, Inc | DC | 323,673
The Community Partnership for the Prevention of Homelessness | DC | 121,727
The Community Partnership for the Prevention of Homelessness | DC | 275,106
The Community Partnership for the Prevention of Homelessness | DC | 123,530
The Community Partnership for the Prevention of Homelessness | DC | 592,184
The Community Partnership for the Prevention of Homelessness | DC | 239,506
The Community Partnership for the Prevention of Homelessness | DC | 188,312
The Community Partnership for the Prevention of Homelessness | DC | 285,457
The Community Partnership for the Prevention of Homelessness | DC | 86,003
The Community Partnership for the Prevention of Homelessness | DC | 350,173
The Community Partnership for the Prevention of Homelessness | DC | 204,747
The Community Partnership for the Prevention of Homelessness | DC | 931,345
The Community Partnership for the Prevention of Homelessness | DC | 143,742
The Community Partnership for the Prevention of Homelessness | DC | 141,366
The Community Partnership for the Prevention of Homelessness | DC | 132,300
The Community Partnership for the Prevention of Homelessness | DC | 109,725
The Community Partnership for the Prevention of Homelessness | DC | 110,674
The Community Partnership for the Prevention of Homelessness | DC | 899,866
The Community Partnership for the Prevention of Homelessness | DC | 141,214
The Community Partnership for the Prevention of Homelessness | DC | 149,203
The Community Partnership for the Prevention of Homelessness | DC | 148,924
The Community Partnership for the Prevention of Homelessness | DC | 189,000
The Community Partnership for the Prevention of Homelessness | DC | 117,600
The Community Partnership for the Prevention of Homelessness | DC | 430,837
The Community Partnership for the Prevention of Homelessness | DC | 201,038
The Community Partnership for the Prevention of Homelessness | DC | 150,000
The Community Partnership for the Prevention of Homelessness | DC | 78,342
The Community Partnership for the Prevention of Homelessness | DC | 102,199
The Community Partnership for the Prevention of Homelessness | DC | 477,676
The Community Partnership for the Prevention of Homelessness | DC | 211,621
The Community Partnership for the Prevention of Homelessness | DC | 75,000
The Community Partnership for the Prevention of Homelessness | DC | 232,879
The Community Partnership for the Prevention of Homelessness | DC | 144,758
The Community Partnership for the Prevention of Homelessness | DC | 257,260
The Community Partnership for the Prevention of Homelessness | DC | 134,834
The Community Partnership for the Prevention of Homelessness | DC | 420,000
The Community Partnership for the Prevention of Homelessness | DC | 245,421
The Community Partnership for the Prevention of Homelessness | DC | 541,313
The Community Partnership for the Prevention of Homelessness | DC | 414,028
The Community Partnership for the Prevention of Homelessness | DC | 165,819
The Community Partnership for the Prevention of Homelessness | DC | 181,025
The Community Partnership for the Prevention of Homelessness | DC | 100,905
The Salvation Army, A Georgia Corporation | DC | 475,935
Transitional Housing Corporation | DC | 127,720
Connections CSP, Inc | DE | 399,128
Connections CSP, Inc | DE | 298,324
Connections CSP, Inc | DE | 539,231
Connections CSP, Inc | DE | 228,512
Connections CSP, Inc | DE | 291,161
Connections CSP, Inc | DE | 212,970
Connections CSP, Inc | DE | 152,421
Connections CSP, Inc | DE | 249,240
Connections CSP, Inc | DE | 149,429
Delaware | DE | 128,049
Delaware | DE | 26,596
Homeless Planning Council of Delaware, Inc | DE | 95,000
The Ministry of Caring Inc | DE | 647,696
The Ministry of Caring Inc | DE | 66,467
The Ministry of Caring Inc | DE | 145,034
The Ministry of Caring Inc | DE | 212,357
The Ministry of Caring Inc | DE | 129,874
The Ministry of Caring Inc | DE | 45,612
The Ministry of Caring Inc | DE | 182,584
The Ministry of Caring Inc | DE | 374,174
The Ministry of Caring Inc | DE | 200,408
West End Neighborhood House Inc | DE | 252,207
YWCA Delaware Inc | DE | 323,967
2-1-1 Brevard, Inc | FL | 76,751
211 Palm Beach/Treasure Coast | FL | 155,077
2-1-1 Tampa Bay Cares, Inc | FL | 172,454
88 Ways Youth Organization, Inc | FL | 157,359
A.H. of Monroe County, Inc. (AIDS Help) | FL | 23,900
Ace Opportunities, Inc | FL | 198,380
Adopt-A-Family of the Palm Beaches, Inc | FL | 207,038
Adopt-A-Family of the Palm Beaches, Inc | FL | 207,811
Adopt-A-Family of the Palm Beaches, Inc | FL | 396,503
Agency for Community Treatment Services, Inc. (ACTS) | FL | 182,305
Agency for Community Treatment Services, Inc. (ACTS) | FL | 114,483
Agency for Community Treatment Services, Inc. (ACTS) | FL | 403,035
Agency for Community Treatment Services, Inc. (ACTS) | FL | 168,190
Agency for Community Treatment Services, Inc. (ACTS) | FL | 50,400
Agency for Community Treatment Services, Inc. (ACTS) | FL | 133,334
Agency for Community Treatment Services, Inc. (ACTS) | FL | 93,181
Agency for Community Treatment Services, Inc. (ACTS) | FL | 367,604
Agency for Community Treatment Services, Inc. (ACTS) | FL | 171,597
Aid to Victims of Domestic Abuse, Inc | FL | 106,540
Alachua County Housing Authority | FL | 80,569
Alachua County Housing Authority | FL | 78,720
Alachua County Housing Authority | FL | 136,500
Alpha House of Pinellas County | FL | 69,888
Alpha House of Tampa, Inc | FL | 68,819
Alpha House of Tampa, Inc | FL | 83,013
Alpha House of Tampa, Inc | FL | 77,219
Another Way, Inc | FL | 70,325
Big Bend Homeless Coalition, Inc | FL | 76,231
Big Bend Homeless Coalition, Inc | FL | 345,538
Big Bend Homeless Coalition, Inc | FL | 311,104
Big Bend Homeless Coalition, Inc | FL | 270,463
Boley Centers, Inc | FL | 142,143
Boley Centers, Inc | FL | 66,528
Boley Centers, Inc | FL | 263,943
Boley Centers, Inc | FL | 133,928
Boley Centers, Inc | FL | 253,778
Boley Centers, Inc | FL | 356,438
Boley Centers, Inc | FL | 77,362
Boley Centers, Inc | FL | 82,554
Boley Centers, Inc | FL | 190,080
Boley Centers, Inc | FL | 484,704
Boley Centers, Inc | FL | 581,560
Bridgeway Center, Inc | FL | 327,898
Bridgeway Center, Inc | FL | 33,167
Bridgeway Center, Inc | FL | 197,249
Brookwood Florida-Central, Inc | FL | 98,430
Broward County Board of County Commissioners | FL | 949,272
Broward County Board of County Commissioners | FL | 275,424
Broward County Board of County Commissioners | FL | 246,891
Broward County Board of County Commissioners | FL | 346,049
Broward County Board of County Commissioners | FL | 421,488
Broward County Board of County Commissioners | FL | 316,500
Broward County Board of County Commissioners | FL | 964,262
Broward County Board of County Commissioners | FL | 245,237
Broward County Board of County Commissioners | FL | 288,229
Broward County Board of County Commissioners | FL | 1,229,688
Broward County Board of County Commissioners | FL | 388,548
Broward County Board of County Commissioners | FL | 284,042
Broward County Board of County Commissioners | FL | 948,025
Broward County Board of County Commissioners | FL | 128,280
Broward County Housing Authority | FL | 1,403,892
Carrfour Supportive Housing | FL | 409,479
Catholic Charities Diocese of St. Petersburg | FL | 189,928
Catholic Charities of the Archdiocese of Miami, Inc | FL | 172,516
Catholic Charities, Diocese of Venice, Inc | FL | 79,166
Catholic Charities, Diocese of Venice, Inc | FL | 120,137
Charlotte County Homeless Coalition, Inc | FL | 40,333
Charlotte County Homeless Coalition, Inc | FL | 49,395
Charlotte County Homeless Coalition, Inc | FL | 26,707
Children's Home Society of Florida | FL | 129,156
City of Bradenton | FL | 168,396
City of Gainesville | FL | 105,098
City of Gainesville | FL | 98,849
Clara White Mission, Inc | FL | 132,038
Coalition for the Homeless of Pasco County, Inc | FL | 13,856
Coalition for the Homeless of Pasco County, Inc | FL | 19,950
Coalition For The Hungry and Homeless of Brevard County, Inc | FL | 4,810
Coalition For The Hungry and Homeless of Brevard County, Inc | FL | 151,788
Coalition For The Hungry and Homeless of Brevard County, Inc | FL | 171,054
Coalition For The Hungry and Homeless of Brevard County, Inc | FL | 137,327
Coalition For The Hungry and Homeless of Brevard County, Inc | FL | 230,453
Collier County Board of County Commissioners | FL | 81,840
Collier County Board of County Commissioners | FL | 113,000
Collier County Board of County Commissioners | FL | 104,645
Collier County Board of County Commissioners | FL | 113,116
Community Action Stops Abuse, Inc | FL | 241,031
Community Connections of Jacksonville, Inc | FL | 250,859
Community Connections of Jacksonville, Inc | FL | 532,794
Community Connections of Jacksonville, Inc | FL | 162,380
Community Connections of Jacksonville, Inc | FL | 228,950
Community Enterprise Investments Inc | FL | 142,499
Covenant House Florida, Inc | FL | 185,329
Crosswinds Youth Services, Inc | FL | 88,088
Domestic Abuse Council, Inc | FL | 62,815
Domestic Abuse Council, Inc | FL | 125,488
Domestic Abuse Council, Inc | FL | 70,498
Emergency Services & Homeless Coalition of St. Johns Co., | FL | 62,790
Emergency Services & Homeless Coalition of St. Johns Co., | FL | 89,610
Emergency Services and Homeless Coalition of Jacksonville | FL | 64,374
Emergency Services and Homeless Coalition of Jacksonville | FL | 75,042
Emergency Services and Homeless Coalition of Jacksonville | FL | 463,275
Escarosa Coalition on the Homeless, Inc | FL | 18,892
Escarosa Coalition on the Homeless, Inc | FL | 108,273
Family Renew Community, Inc | FL | 52,980
Family Renew Community, Inc | FL | 19,045
Flagler Ecumenical Social Service Center, Inc | FL | 73,167
Florida Keys Outreach Coalition, Inc | FL | 175,879
Gainesville Housing Authority | FL | 144,876
Gainesville Housing Authority | FL | 88,992
Gateway Community Services, Inc | FL | 61,705
Gateway Community Services, Inc | FL | 54,727
Goodwill of North Florida | FL | 284,588
Gulfstream Goodwill Industries, Inc | FL | 134,036
Gulfstream Goodwill Industries, Inc | FL | 990,218
Haven Recovery Center Inc | FL | 60,249
Haven Recovery Center Inc | FL | 23,012
Haven Recovery Center Inc | FL | 171,920
Haven Recovery Center Inc | FL | 45,858
Haven Recovery Center Inc | FL | 129,273
Haven Recovery Center Inc | FL | 138,422
Haven Recovery Center Inc | FL | 191,250
Homeless and Hunger Coalition of Northwest Florida, Inc | FL | 45,222
Homeless Coalition of Hillsborough County, Inc | FL | 278,843
Homeless Coalition of Hillsborough County, Inc | FL | 499,745
Homeless Coalition of Hillsborough County, Inc | FL | 44,191
Homeless Coalition of Polk, Inc | FL | 116,531
Homeless Emergency Project, Inc | FL | 33,101
Homeless Emergency Project, Inc | FL | 71,000
Homeless Emergency Project, Inc | FL | 57,953
Homeless Services Network of Central Florida, Inc | FL | 283,455
Homeless Services Network of Central Florida, Inc | FL | 118,324
Homeless Services Network of Central Florida, Inc | FL | 121,949
Homeless Services Network of Central Florida, Inc | FL | 52,500
Homeless Services Network of Central Florida, Inc | FL | 98,043
Homeless Services Network of Central Florida, Inc | FL | 136,832
Homeless Services Network of Central Florida, Inc | FL | 123,134
Homeless Services Network of Central Florida, Inc | FL | 37,203
Homeless Services Network of Central Florida, Inc | FL | 84,630
Homeless Services Network of Central Florida, Inc | FL | 92,302
Homeless Services Network of Central Florida, Inc | FL | 123,553
Homeless Services Network of Central Florida, Inc | FL | 48,999
Homeless Services Network of Central Florida, Inc | FL | 175,988
Homeless Services Network of Central Florida, Inc | FL | 219,009
Homeless Services Network of Central Florida, Inc | FL | 269,745
Homeless Services Network of Central Florida, Inc | FL | 78,352
Homeless Services Network of Central Florida, Inc | FL | 118,542
Homeless Services Network of Central Florida, Inc | FL | 124,388
Homeless Services Network of Central Florida, Inc | FL | 42,105
Homeless Services Network of Central Florida, Inc | FL | 363,480
Homeless Services Network of Central Florida, Inc | FL | 168,345
Homeless Services Network of Central Florida, Inc | FL | 127,839
Homeless Services Network of Central Florida, Inc | FL | 96,448
Homeless Services Network of Central Florida, Inc | FL | 181,989
Homeless Services Network of Central Florida, Inc | FL | 61,950
Homeless Services Network of Central Florida, Inc | FL | 156,661
Homeless Services Network of Central Florida, Inc | FL | 51,747
Homeless Services Network of Central Florida, Inc | FL | 81,885
Homeless Services Network of Central Florida, Inc | FL | 94,852
Homeless Services Network of Central Florida, Inc | FL | 210,000
HOPE Family Services, Inc | FL | 25,862
HOPE Family Services, Inc | FL | 67,680
Housing Authority of the City of Tampa | FL | 181,032
Housing Authority of the City of Tampa | FL | 174,144
Housing Authority of the City of Tampa | FL | 190,080
Housing Partnership, Inc | FL | 62,587
I.M. Sulzbacher Center for the Homeless, Inc | FL | 237,169
I.M. Sulzbacher Center for the Homeless, Inc | FL | 157,460
Indian River County Board of County Commissioners | FL | 344,160
Indian River County Board of County Commissioners | FL | 117,000
Indian River County Board of County Commissioners | FL | 99,000
Indian River County Board of County Commissioners | FL | 171,000
Indian River County Board of County Commissioners | FL | 70,063
Indian River County Board of County Commissioners | FL | 25,856
Indian River County Board of County Commissioners | FL | 36,177
Indian River County Board of County Commissioners | FL | 76,944
Jacksonville Housing Authority | FL | 205,656
Lakeview Center Incorporated | FL | 158,701
Lakeview Center Incorporated | FL | 307,887
Lakeview Center Incorporated | FL | 105,777
Lee County Board of County Commissioners | FL | 119,722
Lee County Board of County Commissioners | FL | 1,286,206
Lee County Board of County Commissioners | FL | 89,668
Lee County Board of County Commissioners | FL | 32,777
Lee County Board of County Commissioners | FL | 111,000
Lee County Board of County Commissioners | FL | 122,604
Lee County Board of County Commissioners | FL | 180,510
Lee County Board of County Commissioners | FL | 13,125
Lee County Board of County Commissioners | FL | 82,140
Lee County Board of County Commissioners | FL | 52,978
Lee County Board of County Commissioners | FL | 76,008
Loaves and Fishes Soup Kitchen, Inc | FL | 248,672
Marion County Homeless Council, Inc | FL | 62,160
Martin County Board of County Commissioners | FL | 109,488
Martin County Board of County Commissioners | FL | 107,064
Martin County Board of County Commissioners | FL | 99,792
Mental Health Care Inc | FL | 295,333
Mental Health Care Inc | FL | 199,500
Mental Health Care Inc | FL | 839,791
Mental Health Resource Center, Inc | FL | 252,317
Miami-Dade County | FL | 118,393
Miami-Dade County | FL | 85,677
Miami-Dade County | FL | 279,504
Miami-Dade County | FL | 336,002
Miami-Dade County | FL | 434,726
Miami-Dade County | FL | 620,640
Miami-Dade County | FL | 251,071
Miami-Dade County | FL | 84,000
Miami-Dade County | FL | 580,020
Miami-Dade County | FL | 357,790
Miami-Dade County | FL | 151,582
Miami-Dade County | FL | 106,992
Miami-Dade County | FL | 668,088
Miami-Dade County | FL | 852,655
Miami-Dade County | FL | 219,943
Miami-Dade County | FL | 321,509
Miami-Dade County | FL | 40,533
Miami-Dade County | FL | 217,060
Miami-Dade County | FL | 376,666
Miami-Dade County | FL | 154,980
Miami-Dade County | FL | 158,448
Miami-Dade County | FL | 63,993
Miami-Dade County | FL | 1,310,616
Miami-Dade County | FL | 177,066
Miami-Dade County | FL | 313,121
Miami-Dade County | FL | 348,234
Miami-Dade County | FL | 231,504
Miami-Dade County | FL | 57,668
Miami-Dade County | FL | 363,478
Miami-Dade County | FL | 311,678
Miami-Dade County | FL | 199,224
Miami-Dade County | FL | 124,621
Miami-Dade County | FL | 129,138
Miami-Dade County | FL | 737,089
Miami-Dade County | FL | 292,800
Miami-Dade County | FL | 687,505
Miami-Dade County | FL | 174,998
Miami-Dade County | FL | 712,327
Miami-Dade County | FL | 149,891
Miami-Dade County | FL | 923,833
Miami-Dade County | FL | 534,832
Miami-Dade County | FL | 351,360
Miami-Dade County | FL | 158,095
Miami-Dade County | FL | 304,512
Miami-Dade County | FL | 443,376
Miami-Dade County | FL | 433,344
Miami-Dade County | FL | 270,288
Miami-Dade County | FL | 568,920
Miami-Dade County | FL | 879,311
Miami-Dade County | FL | 775,406
Miami-Dade County | FL | 178,171
Miami-Dade County | FL | 162,929
Miami-Dade County | FL | 389,996
Miami-Dade County | FL | 192,664
Miami-Dade County | FL | 425,391
Miami-Dade County | FL | 234,240
Miami-Dade County | FL | 33,957
Miami-Dade County | FL | 356,160
Miami-Dade County | FL | 117,120
Miami-Dade County | FL | 46,964
Miami-Dade County | FL | 347,128
Miami-Dade County | FL | 714,079
Miami-Dade County | FL | 53,112
Miami-Dade County | FL | 892,989
Miami-Dade County | FL | 339,721
Miami-Dade County | FL | 150,685
Miami-Dade County | FL | 108,612
Miami-Dade County | FL | 273,807
Miami-Dade County | FL | 296,020
Miami-Dade County | FL | 113,661
Miami-Dade County | FL | 292,660
Miami-Dade County | FL | 227,568
Miami-Dade County | FL | 138,789
Miami-Dade County | FL | 215,001
Miami-Dade County | FL | 796,488
Miami-Dade County | FL | 394,999
Miami-Dade County | FL | 262,174
Miami-Dade County | FL | 124,996
Miami-Dade County | FL | 467,304
Miami-Dade County | FL | 125,000
Miami-Dade County | FL | 79,479
Miami-Dade County | FL | 494,016
Miami-Dade County | FL | 34,188
Miami-Dade County | FL | 528,062
Miami-Dade County | FL | 12,075
Miami-Dade County | FL | 348,014
Miami-Dade County | FL | 169,798
Mid Florida Homeless Coalition, Inc | FL | 78,143
Monroe Association for Retarded Citizens, Inc | FL | 102,268
Oakwood Center of The Palm Beaches, Inc | FL | 132,255
Oakwood Center of The Palm Beaches, Inc | FL | 137,615
Oakwood Center of The Palm Beaches, Inc | FL | 386,104
Okaloosa Walton Homeless Continuum of Care/Opportunity, Inc | FL | 61,853
Operation PAR, Inc | FL | 100,452
Orange County Housing and Community Development Division | FL | 134,940
Orange County Housing and Community Development Division | FL | 259,500
Osceola County Government | FL | 554,760
Palm Beach County Board of County Commissioners | FL | 442,158
Palm Beach County Board of County Commissioners | FL | 199,080
Palm Beach County Board of County Commissioners | FL | 225,624
Pasco County Housing Authority | FL | 105,000
Peace River Center for Personal Development Inc | FL | 99,574
Peace River Center for Personal Development Inc | FL | 184,688
Peaceful Paths Domestic Abuse Network, Inc | FL | 84,974
Presbyterian Social Ministries Inc | FL | 124,981
Project Return, Inc | FL | 153,956
Punta Gorda Housing Authority | FL | 110,448
Religious Community Services, Inc | FL | 110,054
River Region Human Services, Inc | FL | 140,025
River Region Human Services, Inc | FL | 258,775
Seminole County Government | FL | 249,120
SMA Behavioral Health Services, Inc | FL | 45,198
St. Lucie County Board of County Commissioners | FL | 145,752
Suncoast Partnership to End Homelessness, Inc | FL | 37,698
Suncoast Partnership to End Homelessness, Inc | FL | 37,993
Talbot House Ministries of Lakeland, Inc | FL | 255,925
Talbot House Ministries of Lakeland, Inc | FL | 47,374
The Lord's Place, Inc | FL | 131,171
The Lord's Place, Inc | FL | 182,984
The Lord's Place, Inc | FL | 283,023
The Salvation Army a Georgia Corporation | FL | 603,641
The Salvation Army, a GA Corp, for The Salvation Army, Tampa | FL | 144,467
The Salvation Army, a GA Corp, for The Salvation Army, Tampa | FL | 244,745
The Salvation Army, a Georgia Corporation | FL | 107,625
The Salvation Army, a Georgia Corporation | FL | 71,045
The Salvation Army, a Georgia Corporation | FL | 127,780
The Salvation Army, a Georgia Corporation for the Salvation | FL | 233,735
The Salvation Army, A Georgia Corporation, for The Salvation | FL | 170,432
The Spring of Tampa Bay, Inc | FL | 177,557
The Wilson House, Inc | FL | 96,337
Tri-County Human Services, Inc | FL | 76,052
Tri-County Human Services, Inc | FL | 96,337
Tri-County Human Services, Inc | FL | 253,688
Tri-County Human Services, Inc | FL | 76,199
United Way of Suwannee Valley | FL | 32,146
Volunteers of America of Florida, Inc | FL | 217,549
Volunteers of America of Florida, Inc | FL | 125,789
Volunteers of America of Florida, Inc | FL | 344,110
Volunteers of America of Florida, Inc | FL | 382,628
Volunteers of America of Florida, Inc | FL | 698,113
Volunteers of America of Florida, Inc | FL | 354,510
Volunteers of America of Florida, Inc | FL | 358,313
Volusia/Flagler County Coalition for the Homeless | FL | 85,286
Volusia/Flagler County Coalition for the Homeless | FL | 54,566
WestCare GulfCoast-Florida, Inc | FL | 273,000
Young Women's Christian Association of Tampa Bay, Inc | FL | 176,237
YWCA of Palm Beach County, FL | FL | 229,547
24/7 Gateway, LLC | GA | 157,728
Action Ministries, Inc | GA | 486,342
Action Ministries, Inc | GA | 244,587
Action Ministries, Inc | GA | 70,014
Advantage Behavioral Health Systems | GA | 167,095
Asian American Resource Foundation, Inc | GA | 157,408
Atlanta Center for Self Sufficiency, Inc | GA | 60,344
Augusta, Georgia | GA | 181,027
Augusta, Georgia | GA | 34,545
Buckhead Christian Ministry | GA | 82,800
Calvary Refuge, Inc | GA | 203,326
Chatham-Savannah Authority for the Homeless | GA | 223,661
Chatham-Savannah Authority for the Homeless | GA | 179,256
Citizens Against Violence, Inc | GA | 265,464
City of Albany | GA | 116,217
City of Hinesville | GA | 64,929
City of Savannah | GA | 291,048
City of Savannah | GA | 275,640
Cobb Community Collaborative, Inc | GA | 30,000
Cobb County Community Services Board | GA | 35,000
Colquitt County Serenity House Project, Inc | GA | 198,902
Community Advanced Practice Nurses, Inc | GA | 18,517
Community Advanced Practice Nurses, Inc | GA | 46,423
Community Advanced Practice Nurses, Inc | GA | 39,039
Crossroads Community Ministries, Inc | GA | 314,228
CSRA Economic Opportunity Authority, Inc | GA | 122,198
Dalton-Whitfield Community Development Corporation | GA | 31,058
Douglas County Community Services Board | GA | 105,639
Economic Opportunity Authority for Savannah-Chatham County | GA | 220,500
Families First, Inc | GA | 172,492
Fulton County Board of Commissioners | GA | 211,368
Fulton County Board of Commissioners | GA | 300,000
Fulton County Board of Commissioners | GA | 686,487
Fulton County Board of Commissioners | GA | 373,951
Furniture Bank of Metro Atlanta, Inc | GA | 70,009
Gateway Behavioral Health Services | GA | 350,406
Genesis Shelter, Inc | GA | 136,500
Georgia Law Center on Homelessness & Poverty Inc | GA | 295,200
Georgia Coalition Against Domestic Violence | GA | 342,584
Georgia Coalition Against Domestic Violence | GA | 91,072
Georgia Housing and Finance Authority | GA | 276,984
Georgia Housing and Finance Authority | GA | 216,024
Georgia Housing and Finance Authority | GA | 96,936
Georgia Housing and Finance Authority | GA | 291,780
Georgia Housing and Finance Authority | GA | 166,908
Georgia Housing and Finance Authority | GA | 517,128
Georgia Housing and Finance Authority | GA | 163,056
Georgia Housing and Finance Authority | GA | 124,788
Georgia Housing and Finance Authority | GA | 185,760
Georgia Housing and Finance Authority | GA | 104,760
Georgia Housing and Finance Authority | GA | 74,364
Georgia Housing and Finance Authority | GA | 108,696
Georgia Housing and Finance Authority | GA | 1,167,900
Georgia Housing and Finance Authority | GA | 198,288
Georgia Housing and Finance Authority | GA | 588,000
Georgia Housing and Finance Authority | GA | 330,540
Georgia Housing and Finance Authority | GA | 169,560
Georgia Housing and Finance Authority | GA | 296,556
Georgia Housing and Finance Authority | GA | 145,656
Georgia Housing and Finance Authority | GA | 328,800
Georgia Housing and Finance Authority | GA | 342,348
Georgia Housing and Finance Authority | GA | 145,440
Georgia Housing and Finance Authority | GA | 234,360
Georgia Housing and Finance Authority | GA | 63,000
Georgia Housing and Finance Authority | GA | 32,520
Georgia Housing and Finance Authority | GA | 190,224
Georgia Housing and Finance Authority | GA | 457,080
Georgia Housing and Finance Authority | GA | 233,700
Georgia Housing and Finance Authority | GA | 82,248
Georgia Housing and Finance Authority | GA | 118,368
Georgia Housing and Finance Authority | GA | 148,284
Georgia Housing and Finance Authority | GA | 170,040
Georgia Housing and Finance Authority | GA | 150,876
Georgia Housing and Finance Authority | GA | 245,616
Georgia Housing and Finance Authority | GA | 282,864
Georgia Housing and Finance Authority | GA | 175,440
Georgia Housing and Finance Authority | GA | 189,264
Georgia Housing and Finance Authority | GA | 497,160
Georgia Housing and Finance Authority | GA | 76,296
Georgia Housing and Finance Authority | GA | 86,304
Georgia Housing and Finance Authority | GA | 478,836
Georgia Housing and Finance Authority | GA | 31,008
Georgia Housing and Finance Authority | GA | 274,884
Georgia Housing and Finance Authority | GA | 209,832
Goodwill Industries of Middle Georgia, Inc | GA | 89,761
Goodwill Industries of Middle Georgia, Inc | GA | 110,310
Goodwill Industries of Middle Georgia, Inc | GA | 148,066
Greenbriar Children's Center, Inc | GA | 398,424
Gwinnett Housing Resource Partnership, Inc. dba: The IMPACT | GA | 183,928
Gwinnett Housing Resource Partnership, Inc. dba: The IMPACT | GA | 146,895
Gwinnett Housing Resource Partnership, Inc. dba: The IMPACT | GA | 73,447
Hodac, Inc | GA | 42,891
Hope House, Inc | GA | 58,842
House of Dawn, Inc | GA | 123,060
House of TIME, Inc | GA | 347,079
Housing Authority of Savannah | GA | 1,119,720
Housing Initiative of North Fulton | GA | 23,632
Initiative for Affordable Housing, Inc | GA | 321,418
Jerusalem House, Inc | GA | 193,704
Loaves & Fishes Ministry of Macon, Inc | GA | 23,230
Loaves & Fishes Ministry of Macon, Inc | GA | 74,199
Lowndes Associated Ministries to People, Inc | GA | 140,571
Lowndes Associated Ministries to People, Inc | GA | 145,917
Macon-Bibb County Economic Opportunity Council, Inc | GA | 94,500
Macon-Bibb County Economic Opportunity Council, Inc | GA | 99,750
Maranatha Outreach, Inc | GA | 60,178
Marietta Housing Authority | GA | 121,680
Marietta Housing Authority | GA | 228,096
Mary Hall Freedom House, Inc | GA | 557,830
Mary Hall Freedom House, Inc | GA | 287,254
Mary Hall Freedom House, Inc | GA | 292,265
Ministries United for Service and Training | GA | 35,000
Ministries United for Service and Training | GA | 35,280
Ministries United for Service and Training | GA | 70,560
New Horizons Community Service Board | GA | 45,122
Open Door Community House, Inc | GA | 267,745
Our House, Inc | GA | 47,235
Progressive Redevelopment, Inc | GA | 44,090
Progressive Redevelopment, Inc | GA | 563,245
Quest 35, Inc | GA | 504,000
Rainbow Village, Inc | GA | 226,295
S.H.A.R.E. House, Inc | GA | 128,396
Saint Joseph's Mercy Care Services, Inc | GA | 36,823
South Georgia Coalition to End Homelessness | GA | 248,500
Southwest Georgia Housing Development Corporation | GA | 185,868
Southwest Georgia Housing Development Corporation | GA | 477,149
St. Jude's Recovery Center, Inc | GA | 278,342
St. Jude's Recovery Center, Inc | GA | 737,988
Stewart Community Home, Inc | GA | 285,619
The Center for Family Resources | GA | 96,700
The Center for Family Resources | GA | 450,489
The Center for Family Resources | GA | 85,323
The Center for Family Resources | GA | 194,061
The Extension, Inc | GA | 104,654
The Salvation Army | GA | 517,484
Travelers Aid of Metropolitan Atlanta, Inc | GA | 367,317
Travelers Aid of Metropolitan Atlanta, Inc | GA | 56,378
Travelers Aid of Metropolitan Atlanta, Inc | GA | 156,541
Travelers Aid of Metropolitan Atlanta, Inc | GA | 56,556
Trinity Community Ministries | GA | 108,917
Unified Government of Athens-Clarke County | GA | 105,991
Unified Government of Athens-Clarke County | GA | 77,068
Unified Government of Athens-Clarke County | GA | 28,080
Unified Government of Athens-Clarke County | GA | 58,176
Unified Government of Athens-Clarke County | GA | 26,712
Unified Government of Athens-Clarke County | GA | 56,834
Union Mission, Inc | GA | 166,436
Union Mission, Inc | GA | 169,381
Union Mission, Inc | GA | 218,875
YWCA of Northwest Georgia | GA | 173,053
Zion Keepers, Inc | GA | 50,693
Government of Guam/Guam Housing & Urban Renewal Authority | GU | 125,415
Government of Guam/Guam Housing & Urban Renewal Authority | GU | 164,796
Government of Guam/Guam Housing & Urban Renewal Authority | GU | 79,082
Government of Guam/Guam Housing & Urban Renewal Authority | GU | 313,363
Government of Guam/Guam Housing & Urban Renewal Authority | GU | 28,224
Government of Guam/Guam Housing & Urban Renewal Authority | GU | 60,019
Government of Guam/Guam Housing & Urban Renewal Authority | GU | 71,600
Government of Guam/Guam Housing & Urban Renewal Authority | GU | 175,392
Alternative Structures International | HI | 147,175
Child and Family Service | HI | 84,488
City and County of Honolulu | HI | 1,258,848
City and County of Honolulu | HI | 185,147
City and County of Honolulu | HI | 453,120
City and County of Honolulu | HI | 1,980,792
City and County of Honolulu | HI | 1,586,712
City and County of Honolulu | HI | 133,607
City and County of Honolulu | HI | 68,000
Gregory House Programs | HI | 363,080
Hale Kipa, Inc | HI | 136,000
Hawaii Department of Human Services | HI | 483,168
Hawaii Department of Human Services | HI | 478,248
Hawaii Department of Human Services | HI | 41,160
Hawaii Department of Human Services | HI | 77,536
Hawaii Department of Human Services | HI | 31,131
Hawaii Department of Human Services | HI | 166,920
Hawaii Department of Human Services | HI | 83,460
Hawaii Department of Human Services | HI | 42,288
Hawaii Department of Human Services | HI | 650,988
Housing Solutions Incorporated | HI | 55,132
Legal Aid Society of Hawaii | HI | 64,669
Maui Economic Concerns of the Community, Inc | HI | 91,717
Maui Economic Concerns of the Community, Inc | HI | 46,245
Mental Health Kokua | HI | 876,273
Ruthann Quitiquit | HI | 29,015
Steadfast Housing Development Corporation | HI | 31,598
Steadfast Housing Development Corporation | HI | 32,924
Steadfast Housing Development Corporation | HI | 36,960
Steadfast Housing Development Corporation | HI | 207,198
Steadfast Housing Development Corporation | HI | 27,874
Steadfast Housing Development Corporation | HI | 29,653
Steadfast Housing Development Corporation | HI | 36,384
Steadfast Housing Development Corporation | HI | 33,384
The Salvation Army | HI | 289,302
The Salvation Army | HI | 183,498
United States Veterans Initiative, Inc | HI | 142,282
United States Veterans Initiative, Inc | HI | 341,263
Area Substance Abuse Council, dba. New Directions | IA | 104,223
Cedar Valley Friends of the Family | IA | 256,767
Cedar Valley Friends of the Family | IA | 571,577
Center For Siouxland | IA | 131,922
Center For Siouxland | IA | 128,168
City of Des Moines | IA | 248,640
City of Des Moines | IA | 827,940
City of Des Moines | IA | 288,266
City of Des Moines | IA | 181,800
City of Des Moines | IA | 99,390
City of Des Moines | IA | 30,265
City of Des Moines | IA | 227,468
City of Des Moines | IA | 110,250
City of Des Moines | IA | 289,732
City of Des Moines | IA | 85,000
City of Des Moines | IA | 76,136
City of Des Moines | IA | 254,520
City of Des Moines | IA | 256,108
City of Sioux City | IA | 113,452
Community Action Agency of Siouxland | IA | 137,239
Community Corrections Improvement Association | IA | 72,187
Community Housing Initiatives, Inc | IA | 380,865
Community Housing Initiatives, Inc | IA | 136,201
Crisis Intervention & Advocacy Center | IA | 158,918
Crisis Intervention Services | IA | 36,166
Crittenton Center | IA | 184,527
Crittenton Center | IA | 108,759
Family Resources, Inc | IA | 39,525
Family Resources, Inc | IA | 38,946
Hawkeye Area Community Action Program, Inc | IA | 26,749
Hawkeye Area Community Action Program, Inc | IA | 213,827
Hawkeye Area Community Action Program, Inc | IA | 466,174
Hillcrest Family Services | IA | 71,538
Humility of Mary Housing, Inc | IA | 37,549
Humility of Mary Shelter, Inc | IA | 492,000
Humility of Mary Shelter, Inc | IA | 220,000
Humility of Mary Shelter, Inc | IA | 155,000
Humility of Mary Shelter, Inc | IA | 68,880
Iowa Finance Authority | IA | 107,100
Iowa Institute for Community Alliances | IA | 29,749
Iowa Institute for Community Alliances | IA | 252,979
Manasseh House | IA | 78,828
Opening Doors | IA | 42,221
Project Concern, Inc | IA | 31,570
Shelter House Community Shelter and Transition Services | IA | 448,318
The Salvation Army | IA | 148,666
Youth and Shelter Services, Inc | IA | 129,733
Youth and Shelter Services, Inc | IA | 191,096
YWCA Clinton | IA | 49,232
Ada County Housing Authority | ID | 170,376
Ada County Housing Authority | ID | 541,169
Boise City Housing Authority | ID | 64,514
Boise City Housing Authority | ID | 18,410
Boise City Housing Authority | ID | 7,696
Idaho Housing and Finance Association | ID | 116,378
Idaho Housing and Finance Association | ID | 30,444
Idaho Housing and Finance Association | ID | 55,840
Idaho Housing and Finance Association | ID | 187,929
Idaho Housing and Finance Association | ID | 81,539
Idaho Housing and Finance Association | ID | 313,056
Idaho Housing and Finance Association | ID | 75,967
Idaho Housing and Finance Association | ID | 102,930
Idaho Housing and Finance Association | ID | 154,350
Idaho Housing and Finance Association | ID | 79,539
Idaho Housing and Finance Association | ID | 46,597
Idaho Housing and Finance Association | ID | 81,435
Idaho Housing and Finance Association | ID | 96,302
Idaho Housing and Finance Association | ID | 41,576
Idaho Housing and Finance Association | ID | 44,208
Idaho Housing and Finance Association | ID | 74,088
Idaho Housing and Finance Association | ID | 67,692
Idaho Housing and Finance Association | ID | 131,250
Idaho Housing and Finance Association | ID | 49,488
Idaho Housing and Finance Association | ID | 116,235
Idaho Housing and Finance Association | ID | 73,596
Idaho Housing and Finance Association | ID | 57,308
Idaho Housing and Finance Association | ID | 63,649
Idaho Housing and Finance Association | ID | 69,050
Idaho Housing and Finance Association | ID | 66,402
Idaho Housing and Finance Association | ID | 51,888
Idaho Housing and Finance Association | ID | 75,412
Idaho Housing and Finance Association | ID | 193,120
Idaho Housing and Finance Association | ID | 81,735
Idaho Housing and Finance Association | ID | 30,135
Idaho Housing and Finance Association | ID | 24,436
Idaho Housing and Finance Association | ID | 112,656
Supportive Housing and Innovative Partnerships, Inc | ID | 39,405
Women's and Children's Alliance | ID | 113,450
Abundant Faith Ministry | IL | 20,090
Abundant Faith Ministry | IL | 13,738
Affordable Housing Preservation Foundation 51st Street Y | IL | 77,553
AIDS Foundation of Chicago | IL | 1,269,792
AIDS Foundation of Chicago | IL | 336,539
AIDS Foundation of Chicago | IL | 2,140,276
AIDS Foundation of Chicago | IL | 994,996
Alexian Brothers Bonaventure House | IL | 136,533
Alliance to End Homelessness in Suburban Cook County | IL | 227,684
Ambassadors For Christ | IL | 38,616
Anna Bixby Women's Center | IL | 143,657
Anna Bixby Women's Center | IL | 114,539
Anna Bixby Women's Center | IL | 77,105
Apna Ghar, Inc | IL | 123,087
B.C.M.W. Community Services Inc | IL | 19,597
Beacon Therapeutic School, Inc | IL | 983,922
Bethany for Children & Families | IL | 361,484
Bethany Place | IL | 48,641
Bethany Place | IL | 51,955
Bethel Human Resources Corp | IL | 184,231
BREAKTHROUGH URBAN MINISTRIES, INC | IL | 151,775
BREAKTHROUGH URBAN MINISTRIES, INC | IL | 139,650
BREAKTHROUGH URBAN MINISTRIES, INC | IL | 45,360
Bridge Communities, Inc | IL | 111,376
C.E.F.S. Economic Opportunity Corporation | IL | 199,675
C.E.F.S. Economic Opportunity Corporation | IL | 133,350
Call For Help, Inc | IL | 527,382
Carver Community Action Agency | IL | 104,141
Casa Central Social Services Corporation | IL | 434,437
Casa Central Social Services Corporation | IL | 383,904
Catholic Charities of the Archdiocese of Chicago | IL | 187,128
Catholic Charities of the Archdiocese of Chicago | IL | 731,105
Catholic Charities of the Archdiocese of Chicago | IL | 140,000
Catholic Charities of the Archdiocese of Chicago | IL | 1,693,872
Catholic Charities of the Archdiocese of Chicago | IL | 194,713
Catholic Charities of the Archdiocese of Chicago | IL | 107,100
Catholic Charities of the Archdiocese of Chicago | IL | 89,379
Catholic Charities, Diocese of Joliet | IL | 842,965
Catholic Charities, Diocese of Joliet | IL | 197,038
Catholic Charities, Diocese of Joliet | IL | 754,500
Catholic Charities, Diocese of Joliet | IL | 122,586
Catholic Charities, Diocese of Joliet | IL | 216,230
Catholic Charities, Diocese of Joliet | IL | 417,484
CDBG Operations Corporation | IL | 96,687
CDBG Operations Corporation | IL | 344,907
CDBG Operations Corporation | IL | 86,486
CEDA Bloom-Rich | IL | 231,678
CEDA NORTHWEST SELF-HELP CENTER, Inc | IL | 162,947
CEDA NORTHWEST SELF-HELP CENTER, Inc | IL | 144,873
Champaign County Regional Planning Commission | IL | 337,944
Champaign County Regional Planning Commission | IL | 6,231
Chestnut Health Systems | IL | 133,052
Chestnut Health Systems | IL | 135,483
Chestnut Health Systems, Inc | IL | 269,203
Chestnut Health Systems, Inc | IL | 283,300
Chestnut Health Systems, Inc | IL | 575,674
Chestnut Health Systems, Inc | IL | 181,544
Chestnut Health Systems, Inc | IL | 104,922
Chicago Christian Industrial League | IL | 329,711
Chicago Christian Industrial League | IL | 344,365
Chicago Christian Industrial League | IL | 212,378
Chicago Christian Industrial League | IL | 52,447
Chicago Christian Industrial League | IL | 87,284
Chicago House and Social Service Agency | IL | 40,639
Chicago Low-Income Housing Trust Fund | IL | 178,145
Children's Home + Aid | IL | 38,650
Christian Community Health Center | IL | 2,127,900
Christian Community Health Center | IL | 191,489
Christian Family Ministries | IL | 33,250
City of Bloomington | IL | 23,082
City of Bloomington | IL | 139,046
City of Bloomington | IL | 130,914
City of Bloomington | IL | 31,260
City of Bloomington | IL | 19,367
City of Bloomington | IL | 5,217
City of Chicago | IL | 249,636
City of Chicago | IL | 318,498
City of Chicago | IL | 474,000
City of Chicago | IL | 213,480
City of Chicago | IL | 692,040
City of Chicago | IL | 281,856
City of Chicago | IL | 473,832
City of Chicago | IL | 112,512
City of Chicago | IL | 260,724
City of Chicago | IL | 474,000
City of Chicago | IL | 331,800
City of Chicago | IL | 304,944
City of Chicago | IL | 415,188
City of Chicago | IL | 142,200
City of Chicago | IL | 379,680
City of Chicago | IL | 534,816
City of Chicago | IL | 284,400
City of Chicago | IL | 348,192
City of Chicago | IL | 44,712
City of Chicago | IL | 771,144
City of Chicago | IL | 419,016
City of Chicago | IL | 284,400
City of Chicago | IL | 108,480
City of Chicago | IL | 275,064
City of Chicago | IL | 47,400
City of Chicago | IL | 362,496
City of Chicago | IL | 686,664
City of Chicago | IL | 627,480
City of Chicago | IL | 426,960
City of Chicago | IL | 503,196
City of Chicago | IL | 284,400
City of Chicago | IL | 284,400
City of Chicago | IL | 455,040
City of Chicago | IL | 270,960
City of Chicago | IL | 44,712
City of Chicago | IL | 174,792
City of Chicago | IL | 623,028
City of Rockford | IL | 39,947
City of Rockford | IL | 102,993
City of Rockford | IL | 204,120
City of Rockford | IL | 148,126
City of Rockford | IL | 137,893
City of Rockford | IL | 33,764
City of Rockford | IL | 164,108
City of Rockford | IL | 86,160
City of Rockford | IL | 163,296
City of Rockford | IL | 204,120
City of Rockford | IL | 93,079
City of Rockford | IL | 122,472
City of Urbana | IL | 196,879
Community & Economic Development Assn. of Cook County, Inc | IL | 265,875
Community Counseling Center of Northern Madison County | IL | 281,693
Community Crisis Center, Inc | IL | 66,500
Community Crisis Center, Inc | IL | 30,135
Community Elements, Inc. dba MHC of Champaign County | IL | 185,543
Community Elements, Inc. dba MHC of Champaign County | IL | 43,043
Community Mental Health Council, Inc | IL | 97,391
Community Mental Health Council, Inc | IL | 73,013
Community Mental Health Council, Inc | IL | 123,736
Community Mental Health Council, Inc | IL | 66,007
Community Mental Health Council, Inc | IL | 128,453
Community Supportive Living Systems, Inc | IL | 201,120
Connections for Abused Women and their Children | IL | 23,695
Connections for the Homeless Inc | IL | 100,160
Connections for the Homeless Inc | IL | 106,975
Connections for the Homeless Inc | IL | 117,197
Connections for the Homeless Inc | IL | 22,869
Connections for the Homeless Inc | IL | 60,000
Connections for the Homeless Inc | IL | 112,560
Connections for the Homeless Inc | IL | 187,847
Connections for the Homeless Inc | IL | 43,682
Connections for the Homeless Inc | IL | 94,535
Connections for the Homeless Inc | IL | 71,526
Cornerstone Community Outreach | IL | 44,037
Cornerstone Community Outreach | IL | 79,017
Cornerstone Community Outreach | IL | 132,224
Cornerstone Services, Inc | IL | 115,071
Cornerstone Services, Inc | IL | 1,702,441
Cornerstone Services, Inc | IL | 51,828
Cornerstone Services, Inc | IL | 25,476
Cornerstone Services, Inc | IL | 24,948
County of Kendall | IL | 70,000
Deborah's Place | IL | 330,293
Deborah's Place | IL | 150,144
Deborah's Place | IL | 417,076
Deborah's Place | IL | 188,064
Decatur Housing Authority | IL | 129,216
Decatur Housing Authority | IL | 44,412
Decatur Housing Authority | IL | 16,711
DeLaCerda House, Inc | IL | 56,429
Delta Center, Inc | IL | 19,338
Dove, Inc | IL | 74,828
Dove, Inc | IL | 329,047
Dove, Inc | IL | 156,326
Dove, Inc | IL | 33,488
Dove, Inc | IL | 16,941
Dove, Inc | IL | 35,747
Dove, Inc | IL | 17,103
DuPage County | IL | 35,550
DuPage County | IL | 151,667
DuPage County Health Department | IL | 573,994
DuPage County Health Department | IL | 51,920
DuPage County Health Department | IL | 264,384
DuPage P.A.D.S., Inc | IL | 26,950
DuPage P.A.D.S., Inc | IL | 302,368
DuPage P.A.D.S., Inc | IL | 98,980
DuPage P.A.D.S., Inc | IL | 123,472
East St. Louis Housing Authority | IL | 342,780
Ecker Center for Mental Health | IL | 173,302
Ecker Center for Mental Health | IL | 164,930
EdgeAlliance, Inc | IL | 366,108
Embarras River Basin Agency, Inc | IL | 252,920
Embarras River Basin Agency, Inc | IL | 93,961
Embarras River Basin Agency, Inc | IL | 154,722
Facing Forward to End Homelessness | IL | 286,841
Family Rescue Incorporated | IL | 58,165
Family Rescue Incorporated | IL | 571,732
FEATHERFIST | IL | 264,173
FEATHERFIST | IL | 114,300
FEATHERFIST | IL | 259,219
FEATHERFIST | IL | 517,459
FEATHERFIST | IL | 298,232
FEATHERFIST | IL | 141,395
FEATHERFIST | IL | 112,483
FEATHERFIST | IL | 300,843
FEATHERFIST | IL | 221,315
FEATHERFIST | IL | 129,817
Fifth Street Renaissance | IL | 17,464
Fifth Street Renaissance | IL | 17,466
Fifth Street Renaissance | IL | 24,150
Freedom House | IL | 62,000
Freeport Area Church Cooperative | IL | 57,109
Freeport Area Church Cooperative | IL | 100,674
Good Samaritan House of Granite City, Inc | IL | 154,355
Good Samaritan Ministries-A Project of the Carbondale Interf | IL | 74,212
Goodwill Industries of Central Illinois | IL | 167,696
Healthcare Alternative Systems, Inc | IL | 197,711
Heartland Health Outreach, Inc | IL | 126,332
Heartland Health Outreach, Inc | IL | 948,721
Heartland Health Outreach, Inc | IL | 320,269
Heartland Health Outreach, Inc | IL | 484,722
Heartland Health Outreach, Inc | IL | 357,170
Heartland Health Outreach, Inc | IL | 100,629
Heartland Health Outreach, Inc | IL | 270,101
Heartland Human Care Services, Inc | IL | 316,829
Heartland Human Care Services, Inc | IL | 507,826
Heartland Human Care Services, Inc | IL | 254,948
Heartland Human Care Services, Inc | IL | 41,668
Heartland Human Care Services, Inc | IL | 441,059
Heartland Human Care Services, Inc | IL | 1,162,457
Heartland Human Care Services, Inc | IL | 1,093,663
Helping Hands of Springfield, Inc | IL | 116,964
Helping Hands of Springfield, Inc | IL | 17,466
Home of the Sparrow, Inc | IL | 54,600
Home of the Sparrow, Inc | IL | 27,064
Hope Haven of DeKalb County, Inc | IL | 98,374
Hope Haven of DeKalb County, Inc | IL | 95,268
HOPE of East Central Illinois | IL | 77,552
HOPE of Rochelle | IL | 45,000
Housing Authority of the City of Pekin | IL | 113,850
Housing Authority of the City of Rock Island | IL | 50,976
Housing Authority of the County of Cook | IL | 154,464
Housing Authority of the County of Cook | IL | 431,484
Housing Opportunities for Women, Inc | IL | 863,032
Housing Opportunities for Women, Inc | IL | 190,181
Housing Opportunities for Women, Inc | IL | 464,308
Housing Opportunities for Women, Inc | IL | 64,920
Housing Opportunity Development Corporation | IL | 47,392
Housing Opportunity Development Corporation | IL | 17,750
Housing Options for the Mentally Ill | IL | 83,560
Housing Options for the Mentally Ill | IL | 120,413
Housing Options for the Mentally Ill | IL | 112,962
Hoyleton Youth and Family Services | IL | 41,362
Hull House Association | IL | 378,229
Human Resources Development Institute, Inc. (HRDI) | IL | 427,768
Human Service Center | IL | 75,668
Human Service Center | IL | 131,597
Illinois Department of Veterans Affairs | IL | 115,588
Illinois Valley Economic Development Corporation | IL | 103,084
Inspiration Corporation | IL | 111,182
Inspiration Corporation | IL | 199,224
Inspiration Corporation | IL | 83,462
Inspiration Corporation | IL | 323,235
Inspiration Corporation | IL | 85,667
Inspiration Corporation | IL | 40,258
Interdependent Living Solutions Center | IL | 156,964
Interfaith House Inc | IL | 364,719
I-PLUS | IL | 12,805
I-PLUS | IL | 22,069
Iroquois-Kankakee Regional Office of Education #32 | IL | 53,550
Kane County, Illinois | IL | 109,853
La Casa Norte | IL | 307,140
La Casa Norte | IL | 90,982
Lake County | IL | 333,456
Lake County | IL | 137,331
Lake County | IL | 54,240
Lake County | IL | 58,184
Lake County | IL | 95,648
Lake County | IL | 110,250
Lake County | IL | 46,274
Lake County | IL | 45,507
Lake County | IL | 82,766
Lake County | IL | 184,940
Lake County | IL | 42,290
Latin United Community Housing Associaiton | IL | 32,130
Lazarus House | IL | 54,331
Lazarus House | IL | 63,927
Light The Way, Inc | IL | 173,387
M.E.R.C.Y. Communities, Inc | IL | 34,928
M.E.R.C.Y. Communities, Inc | IL | 169,614
M.E.R.C.Y. Communities, Inc | IL | 83,190
Madison, County of | IL | 197,904
Madison, County of | IL | 308,320
Matthew House | IL | 223,993
Matthew House | IL | 123,866
McDermott Center | IL | 58,026
MCS Community Services | IL | 101,994
MCS Community Services | IL | 55,168
Mercy Housing Lakefront | IL | 187,833
Mercy Housing Lakefront | IL | 129,785
Mercy Housing Lakefront | IL | 61,950
Mercy Housing Lakefront | IL | 238,645
Mercy Housing Lakefront | IL | 259,631
Mercy Housing Lakefront | IL | 125,546
Mid Central Community Action, Inc | IL | 32,917
Ministers United Against Human Suffering | IL | 50,000
NCO YOUTH & FAMILY SERVICES | IL | 202,584
Near West Side Community Development Corporation | IL | 97,781
New Foundation Center, Inc. (formerly WilPower, Inc.) | IL | 277,596
New Foundation Center, Inc. (formerly WilPower, Inc.) | IL | 170,245
New Moms, Inc | IL | 245,039
North Side Housing and Supportive Services | IL | 61,271
North Side Housing and Supportive Services | IL | 76,381
North Side Housing and Supportive Services | IL | 105,900
North Side Housing and Supportive Services | IL | 398,160
North Side Housing and Supportive Services | IL | 112,120
Northwestern Memorial Hospital | IL | 217,518
Northwestern Memorial Hospital | IL | 153,844
Northwestern Memorial Hospital | IL | 301,910
PADS Crisis Services, Inc | IL | 226,376
PADS to HOPE, Inc | IL | 183,665
Peoria Housing Authority | IL | 164,880
Peoria OPportunities Foundation | IL | 246,505
Pillars Community Services | IL | 477,060
Pillars Community Services | IL | 31,177
Pillars Community Services | IL | 521,332
Pillars Community Services | IL | 110,000
Pillars Community Services | IL | 24,115
Pioneer Center for Human Services | IL | 105,000
Pioneer Center for Human Services | IL | 231,548
Pioneer Center for Human Services | IL | 261,821
Pioneer Civic Services, Inc | IL | 114,126
Polish American Association | IL | 50,904
Prairie State Legal Services, Inc | IL | 68,780
Prairie State Legal Services, Inc | IL | 50,000
Project NOW, Inc | IL | 119,444
Project NOW, Inc | IL | 127,942
Project NOW, Inc | IL | 58,712
Public Action to Deliver Shelter, Inc | IL | 62,765
Public Action to Deliver Shelter, Inc | IL | 64,060
Public Action to Deliver Shelter, Inc | IL | 32,030
Public Action to Deliver Shelter, Inc | IL | 234,302
Renaissance Social Services, Inc | IL | 133,970
Renaissance Social Services, Inc | IL | 982,800
Residents for Effective Shelter Transitions | IL | 286,520
Residents for Effective Shelter Transitions | IL | 167,813
Sarah's Circle | IL | 66,463
Sarah's Circle | IL | 103,563
Shields Township | IL | 162,720
Single Room Housing Assistance Corporation | IL | 365,000
Single Room Housing Assistance Corporation | IL | 421,988
Single Room Housing Assistance Corporation | IL | 488,047
South Side Office of Concern | IL | 14,962
South Side Office of Concern | IL | 52,977
South Side Office of Concern | IL | 31,156
South Suburban Family Shelter Inc | IL | 281,957
South Suburban PADS | IL | 284,574
South Suburban PADS | IL | 726,151
Southern Illinois Coalition for the Homeless | IL | 60,511
Southern Illinois Coalition for the Homeless | IL | 50,878
Southern Illinois Coalition for the Homeless | IL | 84,702
Springfield Housing Authority | IL | 49,068
St. Clair County | IL | 50,000
St. Clair County | IL | 38,340
St. Clair County | IL | 169,439
St. Clair County | IL | 176,796
St. Clair County | IL | 297,084
St. Leonard's Ministries | IL | 42,525
Stopping Woman Abuse Now | IL | 71,640
Stopping Woman Abuse Now | IL | 53,788
Supportive Housing Development Corporation | IL | 124,000
Teen Living Programs, Inc | IL | 128,373
Teen Living Programs, Inc | IL | 189,334
The Cathedral Shelter of Chicago | IL | 53,122
The Cathedral Shelter of Chicago | IL | 35,332
The Center for Prevention of Abuse | IL | 172,759
The Center for Women in Transition | IL | 8,963
The Center of Concern | IL | 130,534
The Eagle's Nest of St. Clair County | IL | 54,465
The Housing Authority of the County of DeKalb | IL | 398,376
The Inner Voice, Inc | IL | 298,237
The Inner Voice, Inc | IL | 196,062
The Inner Voice, Inc | IL | 331,601
The Inner Voice, Inc | IL | 362,611
The Inner Voice, Inc | IL | 76,484
The Interfaith Housing Development Corporation of Chicago | IL | 77,301
The Larkin Center | IL | 300,575
The Night Ministry | IL | 74,260
The Night Ministry | IL | 144,391
The Renaissance Collaborative, Inc | IL | 166,006
The Salvation Army of Kankakee County | IL | 109,927
The Women's Center | IL | 21,300
The Women's Center | IL | 29,308
Thresholds Inc | IL | 162,687
Thresholds Inc | IL | 78,489
Thresholds Inc | IL | 199,489
Thresholds Inc | IL | 152,825
Thresholds Inc | IL | 78,489
Thresholds Inc | IL | 243,889
Thresholds Inc | IL | 351,158
Thresholds Inc | IL | 403,199
Thresholds Inc | IL | 403,605
Together We Cope | IL | 124,837
Together We Cope | IL | 190,517
Transitional Living Services | IL | 47,245
Tri-County Opportunities Council | IL | 62,150
Trinity Services, Inc | IL | 253,317
Unity Parenting & Counseling Inc | IL | 175,025
Unity Parenting & Counseling Inc | IL | 420,453
Unity Parenting & Counseling Inc | IL | 497,620
Unity Parenting & Counseling Inc | IL | 121,688
Vital Bridges NFP, Inc | IL | 169,845
Western Illinois Regional Council—Community Action Agency | IL | 54,906
WINGS Program, Inc | IL | 43,402
WINGS Program, Inc | IL | 44,693
WINGS Program, Inc | IL | 84,968
WINGS Program, Inc | IL | 100,120
WINGS Program, Inc | IL | 124,554
WINGS Program, Inc | IL | 89,874
YMCA of Metropolitan Chicago | IL | 231,259
YMCA of Metropolitan Chicago | IL | 59,645
Young Men's Christian Association of Chicago | IL | 36,313
Young Men's Christian Association of Chicago | IL | 225,546
Young Men's Christian Association of Chicago | IL | 468,552
Your Family Resource Connection | IL | 137,743
Youth Service Bureau | IL | 91,899
Youth Services Network | IL | 250,566
YWCA of QuInc | IL | 138,031
YWCA of Quincy | IL | 331,349
YWCA Peoria IL | IL | 92,912
YWCA Peoria IL | IL | 196,215
YWCA Peoria IL | IL | 214,530
A Better Way Services, Inc | IN | 149,617
AIDS Ministries/AIDS Assist of North Indiana, Inc | IN | 100,703
AIDS Ministries/AIDS Assist of North Indiana, Inc | IN | 35,558
Alternatives Incorporated of Madison County | IN | 102,317
Amethyst House, Inc | IN | 87,054
Aurora INC | IN | 191,835
Blue River Services, Inc | IN | 44,778
Bridges Community Services, Inc | IN | 218,556
Bridges Community Services, Inc | IN | 171,652
Cedars HOPE, Inc | IN | 35,700
Cedars HOPE, Inc | IN | 86,380
Centerstone of Indiana Inc. formerly SCCMHC | IN | 37,968
Centerstone of Indiana Inc. formerly SCCMHC | IN | 41,063
Centerstone of Indiana Inc. formerly SCCMHC | IN | 253,931
City of Bloomington, Indiana | IN | 61,980
City of Indianapolis | IN | 142,908
City of Indianapolis | IN | 76,920
City of Indianapolis | IN | 492,180
City of Indianapolis | IN | 160,200
City of Indianapolis | IN | 105,409
City of Indianapolis | IN | 114,752
City of Indianapolis | IN | 192,300
City of Indianapolis | IN | 123,072
City of Indianapolis | IN | 121,233
City of Indianapolis | IN | 76,920
City of Indianapolis | IN | 100,461
City of Indianapolis | IN | 121,132
City of Indianapolis | IN | 152,628
City of Indianapolis | IN | 384,600
City of Indianapolis | IN | 806,460
City of Indianapolis | IN | 150,859
City of Indianapolis | IN | 159,925
City of Indianapolis | IN | 323,064
City of Indianapolis | IN | 84,199
City of Indianapolis | IN | 267,300
City of Indianapolis | IN | 72,696
City of South Bend, Indiana | IN | 43,344
City of South Bend, Indiana | IN | 142,824
City of South Bend, Indiana | IN | 93,912
Community Mental Health Center, Inc | IN | 107,425
Community Mental Health Center, Inc | IN | 156,767
Community Mental Health Center, Inc | IN | 57,052
Community Mental Health Center, Inc | IN | 83,084
Community Mental Health Center, Inc | IN | 167,505
Community Mental Health Center, Inc | IN | 302,374
Council on Domestic Abuse, Inc | IN | 87,743
CRWorks, Inc | IN | 140,836
ECHO Housing Corporation | IN | 97,001
ECHO Housing Corporation | IN | 231,495
Edgewater Systems for Balanced Living | IN | 119,022
Evansville Goodwill Industries, Inc | IN | 220,133
Family Crisis Shelter | IN | 60,558
Family Service Association of Howard County, Inc | IN | 110,858
Family Services of Elkhart County, Inc | IN | 46,856
Fort Wayne Women's Bureau, Inc | IN | 89,775
Gary Commission for Women | IN | 138,066
Genesis Outreach, Inc | IN | 42,000
Hope House, Inc | IN | 133,678
Hope House, Inc | IN | 64,890
Housing Opportunities Inc | IN | 82,601
Housing Opportunities Inc | IN | 83,167
Housing Opportunities Inc | IN | 82,734
Housing Opportunities Inc | IN | 49,450
Housing Opportunities Inc | IN | 84,484
Human Services, Inc | IN | 108,084
Human Services, Inc | IN | 36,588
Indiana Housing and Community Development Authority | IN | 363,998
Indiana Housing and Community Development Authority | IN | 44,292
Indiana Housing and Community Development Authority | IN | 499,560
Indiana Housing and Community Development Authority | IN | 591,360
Indiana Housing and Community Development Authority | IN | 99,564
Indiana Housing and Community Development Authority | IN | 273,180
Indiana Housing and Community Development Authority | IN | 67,668
Indiana Housing and Community Development Authority | IN | 834,300
Indiana Housing and Community Development Authority | IN | 110,736
Indiana Housing and Community Development Authority | IN | 117,360
Indiana Housing and Community Development Authority | IN | 292,428
Indiana Housing and Community Development Authority | IN | 181,488
Indiana Housing and Community Development Authority | IN | 75,318
Indiana Housing and Community Development Authority | IN | 67,680
Indiana Housing and Community Development Authority | IN | 105,924
Indiana Housing and Community Development Authority | IN | 435,180
Indiana Housing and Community Development Authority | IN | 510,384
Indiana Housing and Community Development Authority | IN | 510,600
Indiana Housing and Community Development Authority | IN | 865,800
Interfaith Mission, Inc | IN | 45,500
Kosciusko County Shelter for Abuse d/b/a The Beaman Home | IN | 37,556
Lafayette Transitional Housing Center, Inc | IN | 104,186
Lafayette Transitional Housing Center, Inc | IN | 73,893
Lafayette Transitional Housing Center, Inc | IN | 75,337
Life Treatment Centers | IN | 70,293
LifeSpring, Inc | IN | 235,570
LifeSpring, Inc | IN | 51,135
Martha's House, Inc | IN | 133,793
Mental Health Association in Vigo County | IN | 69,475
Middle Way House, Incorporated | IN | 171,093
Oaklawn Psychiatric Center | IN | 112,000
Oaklawn Psychiatric Center | IN | 57,148
Pathfinder Services, Inc | IN | 144,478
St. Elizabeth Catholic Charities | IN | 187,231
Stepping Stones, Inc | IN | 78,748
The Center for the Homeless | IN | 89,636
The Center for the Homeless | IN | 192,593
The Center for the Homeless | IN | 135,662
The Center for the Homeless | IN | 33,272
The Center for the Homeless | IN | 77,778
The Center for the Homeless | IN | 25,902
The Center for Women and Families | IN | 223,144
The Salvation Army | IN | 121,347
The Salvation Army | IN | 158,247
The Stepping Stone Shelter For Women, Incorporated | IN | 183,456
The YWCA of St. Joseph County | IN | 65,000
The YWCA of St. Joseph County | IN | 165,076
United Caring Shelters, Inc | IN | 60,424
Vincent Village, Inc | IN | 52,944
Vincent Village, Inc | IN | 89,788
Vincent Village, Inc | IN | 48,451
YWCA of Evansville, IN, Inc | IN | 86,865
Catholic Charities of Northeast Kansas, Inc | KS | 184,995
City of Topeka, Ks | KS | 1,394,784
City of Wichita Housing Authority | KS | 684,060
CLASS LTD | KS | 179,015
Community Action, Inc | KS | 171,550
Community Resources Council | KS | 87,200
County of Sedgwick | KS | 279,523
County of Sedgwick | KS | 41,946
Cowley County Safe Homes, Inc | KS | 133,332
Inter-Faith Ministries Wichita, Inc | KS | 43,050
Inter-Faith Ministries Wichita, Inc | KS | 138,198
Inter-Faith Ministries Wichita, Inc | KS | 56,420
Inter-Faith Ministries Wichita, Inc | KS | 106,656
Johnson County Mental Health Center | KS | 105,552
Kansas Housing Resources Corporation | KS | 133,000
Kansas Legal Services | KS | 190,607
Lawrence-Douglas County Housing Authority | KS | 87,729
Manhattan Emergency Shelter, Inc | KS | 204,656
Manhattan Emergency Shelter, Inc | KS | 151,639
Marshall County Community Resource and Education Center | KS | 30,660
Mental Health America of the Heartland | KS | 95,587
Mid America Assistance Coalition | KS | 18,666
My Father's House Community Services, Inc | KS | 409,693
My Father's House Community Services, Inc | KS | 215,670
NEK-CAP, Inc | KS | 160,360
New Beginnings, Inc | KS | 125,716
Plumb Place Inc | KS | 80,007
Prairie View Inc | KS | 136,090
SAFEHOME, Inc | KS | 57,568
Salina Housing Authority | KS | 86,400
The Kansas City Metropolitan Lutheran Ministry | KS | 132,978
The Salvation Army | KS | 333,333
The Salvation Army | KS | 48,877
The Salvation Army | KS | 131,176
The Salvation Army | KS | 328,805
The Salvation Army | KS | 61,866
The Salvation Army | KS | 129,307
Unified Government of Wyandotte County/KCK | KS | 53,961
Unified Government of Wyandotte County/KCK | KS | 284,661
Unified Government of Wyandotte County/KCK | KS | 55,235
Unified Government of Wyandotte County/KCK | KS | 89,945
Unified Government of Wyandotte County/KCK | KS | 29,565
United Methodist Open Door, Inc | KS | 80,804
United Methodist Open Door, Inc | KS | 84,377
United Methodist Open Door, Inc | KS | 56,238
United Way of the Plains | KS | 86,663
USD 500 Kansas City Kansas Public Schools | KS | 22,660
Valeo Behavioral Health Care, Inc | KS | 106,765
Wichita Children's Home | KS | 102,566
Bellewood Presbyterian Home for Children | KY | 143,478
Bellewood Presbyterian Home for Children | KY | 88,327
Bluegrass Regional Mental Health-Mental Retardation Board, I | KY | 167,268
Choices, Inc | KY | 70,497
Chrysalis House, Inc | KY | 219,154
Chrysalis House, Inc | KY | 85,595
Coalition for the Homeless, Inc | KY | 122,311
Community Action Council for Lexington-Fayette, Bourbon, Har | KY | 65,129
Daniel Pitino Shelter, Inc | KY | 266,039
Family Health Centers, Inc | KY | 255,146
Father Maloney's Boys' Haven | KY | 169,846
Home of the Innocents | KY | 88,844
Hope Center, Inc | KY | 269,334
Hope Center, Inc | KY | 166,667
House of Ruth, Inc | KY | 137,694
Independent Living Options, Inc | KY | 128,999
Jefferson Street Baptist Center | KY | 75,316
Kentucky Housing Corporation | KY | 10,414
Kentucky Housing Corporation | KY | 171,615
Kentucky Housing Corporation | KY | 126,055
Kentucky Housing Corporation | KY | 168,191
Kentucky Housing Corporation | KY | 150,359
Kentucky Housing Corporation | KY | 66,500
Kentucky Housing Corporation | KY | 268,548
Kentucky Housing Corporation | KY | 651,835
Kentucky Housing Corporation | KY | 83,363
Kentucky Housing Corporation | KY | 225,438
Kentucky Housing Corporation | KY | 93,688
Kentucky Housing Corporation | KY | 618,877
Kentucky Housing Corporation | KY | 63,580
Kentucky Housing Corporation | KY | 277,614
Kentucky Housing Corporation | KY | 539,471
Kentucky Housing Corporation | KY | 88,664
Kentucky Housing Corporation | KY | 78,641
Kentucky Housing Corporation | KY | 189,262
Kentucky Housing Corporation | KY | 161,946
Kentucky Housing Corporation | KY | 29,485
Kentucky Housing Corporation | KY | 113,724
Kentucky Housing Corporation | KY | 167,508
Kentucky Housing Corporation | KY | 190,000
Kentucky Housing Corporation | KY | 25,727
Kentucky Housing Corporation | KY | 105,184
Kentucky Housing Corporation | KY | 279,095
Kentucky Housing Corporation | KY | 333,323
Kentucky Housing Corporation | KY | 85,303
Kentucky Housing Corporation | KY | 200,108
Kentucky Housing Corporation | KY | 278,472
Kentucky Housing Corporation | KY | 52,920
Kentucky Housing Corporation | KY | 94,234
Kentucky Housing Corporation | KY | 277,702
Kentucky Housing Corporation | KY | 77,312
Kentucky Housing Corporation | KY | 50,392
Kentucky Housing Corporation | KY | 222,440
Kentucky Housing Corporation | KY | 24,288
Kentucky Housing Corporation | KY | 116,679
Kentucky Housing Corporation | KY | 196,860
Kentucky Housing Corporation | KY | 35,694
Kentucky Housing Corporation | KY | 479,860
Kentucky Housing Corporation | KY | 50,341
Kentucky Housing Corporation | KY | 455,593
Kentucky Housing Corporation | KY | 80,646
Kentucky Housing Corporation | KY | 171,039
Kentucky Housing Corporation | KY | 194,216
Lexington-Fayette Urban County Housing Authority | KY | 209,496
Louisville/Jefferson County Metro Government | KY | 31,920
Louisville/Jefferson County Metro Government | KY | 1,462,968
Louisville/Jefferson County Metro Government | KY | 83,280
Louisville/Jefferson County Metro Government | KY | 66,012
Louisville/Jefferson County Metro Government | KY | 610,860
Louisville/Jefferson County Metro Government | KY | 241,656
Louisville/Jefferson County Metro Government | KY | 36,480
Louisville/Jefferson County Metro Government | KY | 38,249
Louisville/Jefferson County Metro Government | KY | 28,080
New Beginnings, Bluegrass, Inc | KY | 53,492
New Directions Housing Corporation | KY | 58,245
Owensboro Area Shelter, Information & Services, Inc | KY | 515,225
Schizophrenia Foundation, KY., Inc | KY | 21,000
Schizophrenia Foundation, KY., Inc | KY | 211,649
Schizophrenia Foundation, KY., Inc | KY | 28,054
Seven Counties Services, Inc | KY | 93,060
Society of St. Vincent de Paul | KY | 420,699
Society of St. Vincent de Paul | KY | 115,516
Society of St. Vincent de Paul | KY | 137,938
Society of St. Vincent de Paul | KY | 427,747
The Center for Women and Families | KY | 49,875
The Salvation Army, A Georgia Corporation | KY | 119,999
Transitions, Inc | KY | 162,503
Transitions, Inc | KY | 8,767
Transitions, Inc | KY | 79,363
Transitions, Inc | KY | 82,545
Transitions, Inc | KY | 236,770
Volunteers of America of Kentucky, Inc | KY | 164,045
Volunteers of America of Kentucky, Inc | KY | 246,682
Volunteers of America of Kentucky, Inc | KY | 128,390
Volunteers of America of Kentucky, Inc | KY | 371,611
Wayside Christian Mission | KY | 81,902
Wayside Christian Mission | KY | 25,575
Wayside Christian Mission | KY | 103,369
Welcome House of Northern Kentucky, Inc | KY | 469,348
Acadiana C.A.R.E.S., Inc | LA | 146,178
Acadiana C.A.R.E.S., Inc | LA | 21,000
Acadiana C.A.R.E.S., Inc | LA | 233,216
Acadiana C.A.R.E.S., Inc | LA | 59,583
Acadiana Outreach Center, Inc | LA | 49,290
Acadiana Outreach Center, Inc | LA | 129,868
Acadiana Outreach Center, Inc | LA | 136,941
ASSIST Agency | LA | 97,520
Bridge House Corporation | LA | 197,189
Caddo Parish School Board | LA | 85,073
Capital Area Alliance for the Homeless | LA | 80,000
Catholic Charities Archdiocese of New Orleans | LA | 126,524
Catholic Charities Archdiocese of New Orleans | LA | 101,734
Catholic Charities Archdiocese of New Orleans | LA | 93,595
Cenla Chemical Dependency Council, Inc | LA | 208,278
Central Louisiana Coalition to Prevent Homelessness | LA | 58,244
City of Baton Rouge & Parish of East Baton Rouge | LA | 39,900
City of Baton Rouge & Parish of East Baton Rouge | LA | 63,418
City of Baton Rouge & Parish of East Baton Rouge | LA | 20,458
City of Baton Rouge & Parish of East Baton Rouge | LA | 197,204
City of Baton Rouge & Parish of East Baton Rouge | LA | 83,727
City of Baton Rouge & Parish of East Baton Rouge | LA | 86,461
City of Baton Rouge & Parish of East Baton Rouge | LA | 144,868
City of Baton Rouge & Parish of East Baton Rouge | LA | 97,334
City of Baton Rouge & Parish of East Baton Rouge | LA | 63,661
City of Baton Rouge & Parish of East Baton Rouge | LA | 177,563
City of Baton Rouge & Parish of East Baton Rouge | LA | 93,164
City of Baton Rouge & Parish of East Baton Rouge | LA | 85,599
City of Baton Rouge & Parish of East Baton Rouge | LA | 46,292
City of New Orleans Office of Community Development | LA | 614,352
Community Directions, Inc | LA | 72,905
Community Directions, Inc | LA | 66,940
Community Support Programs, Inc | LA | 263,208
Community Support Programs, Inc | LA | 291,418
Community Support Programs, Inc | LA | 301,902
Council on Alcoholism & Drug Abuse of Northwest Louisiana | LA | 252,159
Covenant House New Orleans | LA | 144,622
Covenant House New Orleans | LA | 79,735
Easter Seals Louisiana | LA | 208,320
Elisha Ministries DBA Supportive Housing of Northeast LA | LA | 102,695
Elisha Ministries DBA Supportive Housing of Northeast LA | LA | 85,123
Faith House, Inc | LA | 209,328
Faith House, Inc | LA | 67,998
First Evangelist Housing Community Development Corporation | LA | 150,000
Gulf Coast Teaching Family Services | LA | 135,657
Gulf Coast Teaching Family Services, Inc | LA | 199,932
Gulf Coast Teaching Family Services, Inc | LA | 170,722
Gulf Coast Teaching Family Services, Inc | LA | 134,360
Gulf Coast Teaching Family Services, Inc | LA | 100,153
Hammond Housing Authority | LA | 180,870
Holy Cross Episcopal Church | LA | 33,944
Hope House of Central Louisiana | LA | 129,084
Housing Authority of the City of Bossier City, Louisiana | LA | 60,960
Housing Authority of the City of Bossier City, Louisiana | LA | 396,240
Housing Authority of the City of Sulphur | LA | 154,584
Iberia Homeless Shelter Inc | LA | 33,040
Inner City Revitalization Corp | LA | 33,333
Jefferson Parish Department of Community Development | LA | 367,872
Jefferson Parish Human Services Authority | LA | 281,336
LAEHCY | LA | 62,092
Lafayette Catholic Service Centers, Inc | LA | 35,401
Lafayette Catholic Service Centers, Inc | LA | 100,533
Lafayette Catholic Service Centers, Inc | LA | 166,213
Lafayette Catholic Service Centers, Inc | LA | 114,499
Lafayette Catholic Service Centers, Inc | LA | 30,975
Lafayette Catholic Service Centers, Inc | LA | 56,000
Lafayette Catholic Service Centers, Inc | LA | 35,087
Lake Charles Housing Authority | LA | 205,092
Metropolitan Center for Women and Children, Inc | LA | 113,344
Metropolitan Human Services District | LA | 1,252,680
Monroe Housing Authority | LA | 154,620
NAMI New Orleans | LA | 157,093
Our House, Inc | LA | 57,447
Philadelphia Center | LA | 176,400
Providence House | LA | 161,481
Providence House | LA | 91,535
Rays of Sonshine | LA | 149,737
Responsibility House, Inc | LA | 208,528
Responsibility House, Inc | LA | 136,221
Shreveport SRO, Inc. dba Centerpoint Community Services | LA | 125,200
Shreveport SRO, Inc. dba Centerpoint Community Services | LA | 62,133
Southeast Louisiana State hospital | LA | 163,257
Southeast Louisiana State hospital | LA | 166,497
Southeast Louisiana State hospital | LA | 80,134
Southeast Louisiana State hospital | LA | 68,431
Southeast Spouse Abuse Program | LA | 147,993
Southeast Spouse Abuse Program | LA | 87,978
Southeastern Louisiana University | LA | 148,109
Southwestern Louisiana Homeless Coalition, Inc | LA | 56,158
Southwestern Louisiana Homeless Coalition, Inc | LA | 52,452
Southwestern Louisiana Homeless Coalition, Inc | LA | 24,547
St. Martin, Iberia, Lafayette Community Action Agency SMILE | LA | 31,911
St. Mary Community Action Committee Association, Inc | LA | 64,496
St. Mary Community Action Committee Association, Inc | LA | 73,420
St. Tammany Parish Government | LA | 94,405
START Corporation | LA | 111,860
START Corporation | LA | 162,787
START Corporation | LA | 224,584
START Corporation | LA | 161,192
The Church United for Community Development | LA | 24,698
The Church United for Community Development | LA | 105,305
The Wellspring Alliance for Families, Inc | LA | 160,032
The Wellspring Alliance for Families, Inc | LA | 72,859
The Wellspring Alliance for Families, Inc | LA | 80,209
The Wellspring Alliance for Families, Inc | LA | 89,532
The Wellspring Alliance for Families, Inc | LA | 260,685
UNITY of Greater New Orleans | LA | 148,711
UNITY of Greater New Orleans | LA | 906,748
UNITY of Greater New Orleans | LA | 208,645
UNITY of Greater New Orleans | LA | 99,238
UNITY of Greater New Orleans | LA | 244,276
UNITY of Greater New Orleans | LA | 166,902
UNITY of Greater New Orleans | LA | 203,776
UNITY of Greater New Orleans | LA | 480,201
UNITY of Greater New Orleans | LA | 380,884
UNITY of Greater New Orleans | LA | 173,250
UNITY of Greater New Orleans | LA | 570,084
UNITY of Greater New Orleans | LA | 160,537
UNITY of Greater New Orleans | LA | 121,819
UNITY of Greater New Orleans | LA | 460,580
UNITY of Greater New Orleans | LA | 128,907
UNITY of Greater New Orleans | LA | 312,105
UNITY of Greater New Orleans | LA | 666,584
UNITY of Greater New Orleans | LA | 490,057
UNITY of Greater New Orleans | LA | 134,683
UNITY of Greater New Orleans | LA | 78,893
UNITY of Greater New Orleans | LA | 109,842
UNITY of Greater New Orleans | LA | 1,079,593
UNITY of Greater New Orleans | LA | 217,498
UNITY of Greater New Orleans | LA | 479,078
UNITY of Greater New Orleans | LA | 502,142
UNITY of Greater New Orleans | LA | 306,647
UNITY of Greater New Orleans | LA | 50,999
UNITY of Greater New Orleans | LA | 86,297
UNITY of Greater New Orleans | LA | 162,469
UNITY of Greater New Orleans | LA | 489,656
Vernon Community Action Council, Inc | LA | 70,092
Volunteer Center Southwest Louisiana Inc | LA | 116,483
Volunteers of America—Greater Baton Rouge | LA | 180,507
Volunteers of America—Greater Baton Rouge | LA | 122,794
Volunteers Of America North LA | LA | 144,795
Volunteers Of America North LA | LA | 324,101
Volunteers Of America North LA | LA | 112,074
Volunteers Of America North LA | LA | 102,187
Volunteers Of America North LA | LA | 197,400
Volunteers of America North Louisiana | LA | 63,521
Volunteers of America North Louisiana | LA | 78,720
Volunteers of America of Greater New Orleans, Inc | LA | 82,901
Volunteers of America of Greater New Orleans, Inc | LA | 161,320
Volunteers of America of Greater New Orleans, Inc | LA | 196,288
Volunteers of America of Greater New Orleans, Inc | LA | 50,000
Volunteers of America of Greater New Orleans, Inc | LA | 44,343
Volunteers of America of Greater New Orleans, Inc | LA | 111,884
Volunteers of America of Greater New Orleans, Inc | LA | 538,656
Volunteers of America of Greater New Orleans, Inc | LA | 481,497
Volunteers of America of Greater New Orleans, Inc | LA | 321,948
Volunteers of America of North Louisiana | LA | 96,206
Volunteers of America, Greater Baton Rouge, Inc | LA | 59,860
Volunteers of America, Greater Baton Rouge, Inc | LA | 173,105
Women Outreaching Women | LA | 43,864
Women Outreaching Women | LA | 43,327
Action Inc | MA | 158,941
Action Inc | MA | 114,400
Advocates Inc | MA | 117,213
Advocates Inc | MA | 83,860
Advocates Inc | MA | 168,022
Advocates Inc | MA | 33,438
Advocates Inc | MA | 83,860
Advocates Inc | MA | 169,781
Barnstable Housing Authority | MA | 35,280
Barnstable Housing Authority | MA | 60,408
Barnstable Housing Authority | MA | 385,560
Berkshire Community Action Council | MA | 133,190
Berkshire Community Action Council | MA | 12,000
Berkshire Community Action Council | MA | 53,593
Berkshire Community Action Council | MA | 34,988
Berkshire Community Action Council | MA | 26,700
Brookline Community Mental Health Center | MA | 70,797
Brookline Community Mental Health Center | MA | 121,098
Cambridge Housing Authority | MA | 292,320
CASPAR, Inc | MA | 39,138
CASPAR, Inc | MA | 150,793
CASPAR, Inc | MA | 81,498
CASPAR, Inc | MA | 114,450
Catholic Charitable Bureau of the Archdiocese of Boston, Inc | MA | 50,972
Catholic Social Services of Fall River, Inc | MA | 119,469
Catholic Social Services of Fall River, Inc | MA | 31,708
Catholic Social Services of Fall River, Inc | MA | 25,811
Central Massachusetts Housing Alliance, Inc | MA | 219,247
Central Massachusetts Housing Alliance, Inc | MA | 363,419
Central Massachusetts Housing Alliance, Inc | MA | 133,416
Central Massachusetts Housing Alliance, Inc | MA | 117,667
Central Massachusetts Housing Alliance, Inc | MA | 45,734
Central Massachusetts Housing Alliance, Inc | MA | 181,325
Central Massachusetts Housing Alliance, Inc | MA | 259,536
Central Massachusetts Housing Alliance, Inc | MA | 98,786
Central Massachusetts Housing Alliance, Inc | MA | 78,601
Central Massachusetts Housing Alliance, Inc | MA | 139,119
Central Massachusetts Housing Alliance, Inc | MA | 181,431
Central Massachusetts Housing Alliance, Inc | MA | 49,700
Central Massachusetts Housing Alliance, Inc | MA | 104,999
Central Massachusetts Housing Alliance, Inc | MA | 146,490
Central Massachusetts Housing Alliance, Inc | MA | 655,822
Central Massachusetts Housing Alliance, Inc | MA | 38,850
Central Massachusetts Housing Alliance, Inc | MA | 262,500
Citizens for Affordable Housing in Newton Development Organ, | MA | 12,616
City of Boston Acting by and through its PFC by DND | MA | 129,960
City of Boston Acting by and through its PFC by DND | MA | 345,636
City of Boston Acting by and through its PFC by DND | MA | 411,215
City of Boston Acting by and through its PFC by DND | MA | 1,082,575
City of Boston Acting by and through its PFC by DND | MA | 244,529
City of Boston Acting by and through its PFC by DND | MA | 104,843
City of Boston Acting by and through its PFC by DND | MA | 185,136
City of Boston Acting by and through its PFC by DND | MA | 199,892
City of Boston Acting by and through its PFC by DND | MA | 32,586
City of Boston Acting by and through its PFC by DND | MA | 1,723,848
City of Boston Acting by and through its PFC by DND | MA | 228,324
City of Boston Acting by and through its PFC by DND | MA | 311,311
City of Boston Acting by and through its PFC by DND | MA | 44,100
City of Boston Acting by and through its PFC by DND | MA | 223,716
City of Boston Acting by and through its PFC by DND | MA | 90,185
City of Boston Acting by and through its PFC by DND | MA | 435,278
City of Boston Acting by and through its PFC by DND | MA | 67,618
City of Boston Acting by and through its PFC by DND | MA | 142,176
City of Boston Acting by and through its PFC by DND | MA | 206,315
City of Boston Acting by and through its PFC by DND | MA | 197,842
City of Boston Acting by and through its PFC by DND | MA | 1,094,004
City of Boston Acting by and through its PFC by DND | MA | 338,088
City of Boston Acting by and through its PFC by DND | MA | 189,034
City of Boston Acting by and through its PFC by DND | MA | 146,664
City of Boston Acting by and through its PFC by DND | MA | 764,508
City of Boston Acting by and through its PFC by DND | MA | 381,876
City of Boston Acting by and through its PFC by DND | MA | 188,161
City of Boston Acting by and through its PFC by DND | MA | 55,777
City of Boston Acting by and through its PFC by DND | MA | 310,701
City of Boston Acting by and through its PFC by DND | MA | 217,233
City of Boston Acting by and through its PFC by DND | MA | 42,552
City of Boston Acting by and through its PFC by DND | MA | 233,856
City of Boston Acting by and through its PFC by DND | MA | 530,164
City of Boston Acting by and through its PFC by DND | MA | 221,669
City of Boston Acting by and through its PFC by DND | MA | 288,363
City of Boston Acting by and through its PFC by DND | MA | 234,780
City of Boston Acting by and through its PFC by DND | MA | 118,768
City of Boston Acting by and through its PFC by DND | MA | 510,118
City of Boston Acting by and through its PFC by DND | MA | 350,784
City of Boston Acting by and through its PFC by DND | MA | 79,869
City of Boston Acting by and through its PFC by DND | MA | 117,331
City of Boston Acting by and through its PFC by DND | MA | 735,444
City of Boston Acting by and through its PFC by DND | MA | 230,830
City of Boston Acting by and through its PFC by DND | MA | 37,010
City of Boston Acting by and through its PFC by DND | MA | 187,532
City of Boston Acting by and through its PFC by DND | MA | 133,369
City of Boston Acting by and through its PFC by DND | MA | 38,976
City of Boston Acting by and through its PFC by DND | MA | 28,350
City of Boston Acting by and through its PFC by DND | MA | 34,617
City of Boston Acting by and through its PFC by DND | MA | 176,010
City of Boston Acting by and through its PFC by DND | MA | 511,402
City of Boston Acting by and through its PFC by DND | MA | 310,453
City of Boston Acting by and through its PFC by DND | MA | 295,645
City of Boston Acting by and through its PFC by DND | MA | 194,880
City of Boston Acting by and through its PFC by DND | MA | 307,434
City of Boston Acting by and through its PFC by DND | MA | 474,531
City of Boston Acting by and through its PFC by DND | MA | 382,553
City of Boston Acting by and through its PFC by DND | MA | 108,244
City of Boston Acting by and through its PFC by DND | MA | 56,889
City of Boston Acting by and through its PFC by DND | MA | 48,442
City of Boston Acting by and through its PFC by DND | MA | 289,305
City of Boston Acting by and through its PFC by DND | MA | 245,814
City of Boston Acting by and through its PFC by DND | MA | 388,728
City of Boston Acting by and through its PFC by DND | MA | 201,048
City of Boston Acting by and through its PFC by DND | MA | 56,883
City of Boston Acting by and through its PFC by DND | MA | 1,382,236
City of Boston Acting by and through its PFC by DND | MA | 158,632
City of Boston Acting by and through its PFC by DND | MA | 313,176
City of Boston Acting by and through its PFC by DND | MA | 631,664
City of Boston Acting by and through its PFC by DND | MA | 49,392
City of Cambridge, Massachusetts | MA | 124,092
City of Cambridge, Massachusetts | MA | 45,479
City of Cambridge, Massachusetts | MA | 438,573
City of Cambridge, Massachusetts | MA | 58,530
City of Cambridge, Massachusetts | MA | 14,386
City of Cambridge, Massachusetts | MA | 19,527
City of Cambridge, Massachusetts | MA | 20,790
City of Cambridge, Massachusetts | MA | 33,600
City of Cambridge, Massachusetts | MA | 81,632
City of Cambridge, Massachusetts | MA | 119,652
City of Cambridge, Massachusetts | MA | 32,497
City of Cambridge, Massachusetts | MA | 169,649
City of Cambridge, Massachusetts | MA | 9,916
City of Cambridge, Massachusetts | MA | 57,750
City of Cambridge, Massachusetts | MA | 137,815
City of Cambridge, Massachusetts | MA | 32,640
City of Cambridge, Massachusetts | MA | 17,724
City of Cambridge, Massachusetts | MA | 28,946
City of Cambridge, Massachusetts | MA | 52,605
City of Cambridge, Massachusetts | MA | 56,541
City of Cambridge, Massachusetts | MA | 171,142
City of Cambridge, Massachusetts | MA | 18,480
City of Cambridge, Massachusetts | MA | 225,717
City of Cambridge, Massachusetts | MA | 60,986
City of Cambridge, Massachusetts | MA | 707,545
City of Cambridge, Massachusetts | MA | 162,236
City of Cambridge, Massachusetts | MA | 52,295
City of Cambridge, Massachusetts | MA | 51,042
City of Fall River | MA | 32,052
City of Fall River | MA | 329,091
City of Fall River | MA | 437,880
City of Fall River | MA | 76,724
City of Fall River | MA | 37,800
City of Fall River | MA | 163,497
City of Fall River | MA | 347,784
City of Fall River | MA | 70,906
City of Fall River | MA | 154,614
City of Lawrence | MA | 53,345
City of Lawrence | MA | 12,416
City of Lawrence | MA | 20,895
City of Lawrence | MA | 14,962
City of Lowell, Massachusetts | MA | 67,350
City of Lowell, Massachusetts | MA | 91,567
City of Lowell, Massachusetts | MA | 400,894
City of Lowell, Massachusetts | MA | 79,742
City of Lowell, Massachusetts | MA | 189,283
City of Lowell, Massachusetts | MA | 40,325
City of New Bedford | MA | 97,884
City of New Bedford | MA | 187,933
City of New Bedford | MA | 96,819
City of New Bedford | MA | 298,069
City of New Bedford | MA | 245,063
City of New Bedford | MA | 265,079
City of New Bedford | MA | 154,157
City of New Bedford | MA | 272,490
City of New Bedford | MA | 29,524
City of New Bedford | MA | 198,609
City of Northampton | MA | 80,351
City of Northampton | MA | 83,880
City of Northampton | MA | 22,312
City of Northampton | MA | 51,675
City of Northampton | MA | 55,493
City of Northampton | MA | 42,018
City of Northampton | MA | 100,527
City of Northampton | MA | 94,500
City of Northampton | MA | 72,450
City of Northampton | MA | 106,022
City of Northampton | MA | 184,536
City of Northampton | MA | 200,529
City of Northampton | MA | 242,300
City of Northampton | MA | 104,993
City of Quincy, MA | MA | 96,891
City of Quincy, MA | MA | 193,032
City of Quincy, MA | MA | 69,547
City of Quincy, MA | MA | 72,588
City of Quincy, MA | MA | 932,772
City of Quincy, MA | MA | 451,420
City of Quincy, MA | MA | 80,390
City of Quincy, MA | MA | 350,401
City of Quincy, MA | MA | 101,112
City of Quincy, MA | MA | 86,509
City of Quincy, MA | MA | 498,660
City of Quincy, MA | MA | 111,484
City of Springfield | MA | 96,694
City of Springfield | MA | 100,656
City of Springfield | MA | 152,428
City of Springfield | MA | 217,908
City of Springfield | MA | 35,419
City of Springfield | MA | 83,880
City of Springfield | MA | 134,208
City of Springfield | MA | 125,820
City of Springfield | MA | 195,574
City of Springfield | MA | 203,040
City of Springfield | MA | 441,550
City of Springfield | MA | 29,732
City of Springfield | MA | 118,831
City of Worcester, MA | MA | 181,582
City of Worcester, MA | MA | 468,226
City of Worcester, MA | MA | 291,600
City of Worcester, MA | MA | 647,328
City of Worcester, MA | MA | 353,375
Commonwealth of Massachusetts | MA | 319,668
Commonwealth of Massachusetts | MA | 199,137
Commonwealth of Massachusetts | MA | 84,000
Commonwealth of Massachusetts | MA | 143,604
Commonwealth of Massachusetts | MA | 597,336
Commonwealth of Massachusetts | MA | 206,820
Commonwealth of Massachusetts | MA | 441,336
Commonwealth of Massachusetts | MA | 148,380
Commonwealth of Massachusetts | MA | 509,284
Commonwealth of Massachusetts | MA | 195,236
Commonwealth of Massachusetts | MA | 126,000
Commonwealth of Massachusetts | MA | 754,605
Commonwealth of Massachusetts | MA | 679,680
Commonwealth of Massachusetts | MA | 918,583
Commonwealth of Massachusetts | MA | 486,803
Commonwealth of Massachusetts | MA | 31,500
Commonwealth of Massachusetts | MA | 50,484
Commonwealth of Massachusetts | MA | 668,185
Commonwealth of Massachusetts | MA | 212,976
Commonwealth of Massachusetts | MA | 63,689
Commonwealth of Massachusetts | MA | 258,788
Commonwealth of Massachusetts | MA | 292,224
Commonwealth of Massachusetts | MA | 828,456
Commonwealth of Massachusetts | MA | 186,597
Community Counseling of Bristol County, Inc | MA | 62,169
Community Counseling of Bristol County, Inc | MA | 83,522
Community Counseling of Bristol County, Inc | MA | 142,339
Community Counseling of Bristol County, Inc | MA | 26,683
Community Counseling of Bristol County, Inc | MA | 91,618
Community Counseling of Bristol County, Inc | MA | 41,269
Community Counseling of Bristol County, Inc | MA | 108,954
Community Healthlink, Inc | MA | 363,930
Community Healthlink, Inc | MA | 246,979
Construct, Inc | MA | 41,200
Duffy Health Center, Inc | MA | 44,005
Duffy Health Center, Inc | MA | 32,886
Emmaus Inc | MA | 102,100
Emmaus Inc | MA | 67,542
Emmaus Inc | MA | 250,725
Family Life Support Center, Inc | MA | 136,491
Father Bills & MainSpring, Inc | MA | 41,346
Father Bills & MainSpring, Inc | MA | 182,895
Father Bills & MainSpring, Inc | MA | 87,578
Father Bills & MainSpring, Inc | MA | 119,712
Father Bills & MainSpring, Inc | MA | 198,752
Haverhill Housing Authority | MA | 140,832
Heading Home Inc | MA | 69,869
Heading Home Inc | MA | 67,662
Heading Home Inc | MA | 131,525
Heading Home Inc | MA | 69,512
Heading Home Inc | MA | 216,409
Heading Home Inc | MA | 474,503
Heading Home Inc | MA | 71,678
Housing Assistance Corporation | MA | 76,840
Housing Assistance Corporation | MA | 48,206
Housing Assistance Corporation | MA | 76,550
Housing Assistance Corporation | MA | 66,431
Housing Corporation of Arlington | MA | 172,592
Housing Families Inc | MA | 139,156
Housing Families Inc | MA | 127,234
Housing For All Corporation | MA | 44,200
Just-A-Start | MA | 23,100
Lynn Housing Authority & Neighborhood Development | MA | 203,244
Lynn Housing Authority & Neighborhood Development | MA | 122,812
Lynn Housing Authority & Neighborhood Development | MA | 86,853
Lynn Housing Authority & Neighborhood Development | MA | 239,507
Lynn Housing Authority & Neighborhood Development | MA | 257,544
Lynn Housing Authority & Neighborhood Development | MA | 283,250
Lynn Housing Authority & Neighborhood Development | MA | 12,561
Lynn Housing Authority & Neighborhood Development | MA | 26,012
Lynn Housing Authority & Neighborhood Development | MA | 29,383
Lynn Housing Authority & Neighborhood Development | MA | 703,644
Lynn Housing Authority & Neighborhood Development | MA | 44,887
Lynn Housing Authority & Neighborhood Development | MA | 41,300
Lynn Shelter Association | MA | 211,146
Malden Housing Authority | MA | 137,880
Mass. Department of Mental Health | MA | 220,320
Merrimack Valley Young Men's Christian Organization | MA | 80,665
MetroWest Legal Services, Inc | MA | 48,506
New Hope Inc | MA | 92,235
North Shore Community Action Programs, Inc | MA | 142,310
North Shore Community Action Programs, Inc | MA | 31,448
Pine Street Inn, Inc | MA | 28,000
Provincetown Housing Authority | MA | 70,560
Seeds of Hope | MA | 88,620
Somerville Community Corporation | MA | 16,769
Somerville Homeless Coalition, Inc | MA | 407,396
Somerville Homeless Coalition, Inc | MA | 163,827
Somerville Homeless Coalition, Inc | MA | 131,450
Somerville Homeless Coalition, Inc | MA | 194,608
Somerville Homeless Coalition, Inc | MA | 9,275
Somerville Homeless Coalition, Inc | MA | 40,011
Somerville Homeless Coalition, Inc | MA | 230,889
Somerville Housing Authority | MA | 128,640
South Coastal Counties Legal Services, Inc | MA | 24,937
South Middlesex Opportunity Council | MA | 116,150
South Middlesex Opportunity Council | MA | 79,128
South Shore Housing Development Corporation | MA | 42,000
The Psychological Center, Inc | MA | 147,873
The Psychological Center, Inc | MA | 88,470
The Second Step, Inc | MA | 94,045
The Second Step, Inc | MA | 63,344
The Second Step, Inc | MA | 216,474
The Second Step, Inc | MA | 65,810
Transition House (Family Development Program) | MA | 14,073
Tri-City Community Action Program (Tri-CAP) | MA | 175,964
Tri-City Community Action Program (Tri-CAP) | MA | 183,961
Tri-City Community Action Program (Tri-CAP) | MA | 84,205
Turning Point, Inc | MA | 218,649
Twin Cities Community Development Corporation | MA | 91,018
United Veterans of America, Inc. (dba Soldier On) | MA | 155,530
Veterans Northeast Outreach Center, Inc | MA | 135,487
Vinfen Corporation | MA | 21,912
Vinfen Corporation | MA | 28,954
Wayside Youth & Family Support Network | MA | 235,821
YWCA of Greater Lawrence, Inc | MA | 187,950
Advocates for Homeless Families, Inc | MD | 24,008
AIDS Interfaith Residential Services, Inc | MD | 185,039
AIDS Interfaith Residential Services, Inc | MD | 231,315
AIDS Interfaith Residential Services, Inc | MD | 38,800
AIDS Interfaith Residential Services, Inc | MD | 107,610
AIDS Interfaith Residential Services, Inc | MD | 147,340
Allegany County Human Resources Development Commission, Inc | MD | 14,137
Allegany County Human Resources Development Commission, Inc | MD | 66,044
Allegany County Human Resources Development Commission, Inc | MD | 32,739
Allegany County Human Resources Development Commission, Inc | MD | 68,460
Anne Arundel County, Maryland | MD | 54,548
Anne Arundel County, Maryland | MD | 171,056
Anne Arundel County, Maryland | MD | 57,225
Anne Arundel County, Maryland | MD | 329,983
Anne Arundel County, Maryland | MD | 129,499
Anne Arundel County, Maryland | MD | 315,679
Anne Arundel County, Maryland | MD | 41,597
Anne Arundel County, Maryland | MD | 252,273
Anne Arundel County, Maryland | MD | 70,786
Anne Arundel County, Maryland | MD | 56,784
Anne Arundel County, Maryland | MD | 57,107
Anne Arundel County, Maryland | MD | 113,400
Associated Catholic Charities, Inc | MD | 79,198
Baltimore County Dept. of Social Services | MD | 15,750
Baltimore County Dept. of Social Services | MD | 80,138
Baltimore Mental Health Systems, Inc | MD | 247,453
Baltimore Mental Health Systems, Inc | MD | 252,874
Baltimore Mental Health Systems, Inc | MD | 227,566
Baltimore Mental Health Systems, Inc | MD | 369,600
Baltimore Mental Health Systems, Inc | MD | 159,600
Baltimore Mental Health Systems, Inc | MD | 392,200
Baltimore Mental Health Systems, Inc | MD | 342,117
Batlimore County Office of Community Conservation | MD | 105,000
Batlimore County Office of Community Conservation | MD | 431,727
Batlimore County Office of Community Conservation | MD | 168,914
Batlimore County Office of Community Conservation | MD | 162,502
Board of County Commissioners of Calvert County, Maryland | MD | 18,252
Catholic Charities of the Archdiocese of Washington DC | MD | 86,391
Catholic Charities of the Archdiocese of Washington DC | MD | 24,245
Catholic Charities of the Archdiocese of Washington DC | MD | 76,684
Cecil County Department of Social Services | MD | 37,996
City of Baltimore—Mayor's Office | MD | 1,001,736
City of Baltimore—Mayor's Office | MD | 55,860
City of Baltimore—Mayor's Office | MD | 74,001
City of Baltimore—Mayor's Office | MD | 135,612
City of Baltimore—Mayor's Office | MD | 1,345,848
City of Baltimore—Mayor's Office | MD | 55,347
City of Baltimore—Mayor's Office | MD | 205,926
City of Baltimore—Mayor's Office | MD | 58,776
City of Baltimore—Mayor's Office | MD | 584,306
City of Baltimore—Mayor's Office | MD | 73,069
City of Baltimore—Mayor's Office | MD | 235,900
City of Baltimore—Mayor's Office | MD | 41,149
City of Baltimore—Mayor's Office | MD | 97,356
City of Baltimore—Mayor's Office | MD | 63,125
City of Baltimore—Mayor's Office | MD | 175,124
City of Baltimore—Mayor's Office | MD | 35,343
City of Baltimore—Mayor's Office | MD | 397,793
City of Baltimore—Mayor's Office | MD | 78,750
City of Baltimore—Mayor's Office | MD | 315,600
City of Baltimore—Mayor's Office | MD | 335,087
City of Baltimore—Mayor's Office | MD | 116,784
City of Baltimore—Mayor's Office | MD | 389,280
City of Baltimore—Mayor's Office | MD | 67,554
City of Baltimore—Mayor's Office | MD | 875,880
City of Baltimore—Mayor's Office | MD | 69,258
City of Baltimore—Mayor's Office | MD | 165,152
City of Baltimore—Mayor's Office | MD | 23,520
City of Baltimore—Mayor's Office | MD | 356,030
City of Baltimore—Mayor's Office | MD | 1,467,096
City of Baltimore—Mayor's Office | MD | 816,609
City of Baltimore—Mayor's Office | MD | 155,548
City of Baltimore—Mayor's Office | MD | 488,651
City of Baltimore—Mayor's Office | MD | 121,248
City of Baltimore—Mayor's Office | MD | 100,247
City of Baltimore—Mayor's Office | MD | 308,504
City of Baltimore—Mayor's Office | MD | 34,341
City of Baltimore—Mayor's Office | MD | 297,461
City of Baltimore—Mayor's Office | MD | 113,616
City of Baltimore—Mayor's Office | MD | 251,744
City of Baltimore—Mayor's Office | MD | 46,235
City of Baltimore—Mayor's Office | MD | 315,600
City of Baltimore—Mayor's Office | MD | 173,250
City of Baltimore—Mayor's Office | MD | 32,983
City of Baltimore—Mayor's Office | MD | 102,062
City of Baltimore—Mayor's Office | MD | 209,400
City of Baltimore—Mayor's Office | MD | 113,461
City of Baltimore—Mayor's Office | MD | 38,127
City of Baltimore—Mayor's Office | MD | 291,244
City of Baltimore—Mayor's Office | MD | 60,624
City of Baltimore—Mayor's Office | MD | 31,137
City of Baltimore—Mayor's Office | MD | 107,116
City of Baltimore—Mayor's Office | MD | 100,044
City of Baltimore—Mayor's Office | MD | 704,886
City of Baltimore—Mayor's Office | MD | 214,025
City of Baltimore—Mayor's Office | MD | 45,378
City of Baltimore—Mayor's Office | MD | 136,404
City of Baltimore—Mayor's Office | MD | 166,656
City of Baltimore—Mayor's Office | MD | 231,420
City of Baltimore—Mayor's Office | MD | 109,032
City of Baltimore—Mayor's Office | MD | 50,496
City of Baltimore—Mayor's Office | MD | 252,480
City of Baltimore—Mayor's Office | MD | 114,805
City of Baltimore—Mayor's Office | MD | 350,352
City of Baltimore—Mayor's Office | MD | 363,849
City of Baltimore—Mayor's Office | MD | 1,421,238
City of Baltimore—Mayor's Office | MD | 43,579
City of Baltimore—Mayor's Office | MD | 1,895,208
City of Baltimore—Mayor's Office | MD | 50,022
City of Baltimore—Mayor's Office | MD | 611,913
City of Baltimore—Mayor's Office | MD | 586,560
City of Baltimore—Mayor's Office | MD | 98,780
City of Frederick | MD | 65,895
City of Frederick | MD | 135,536
City of Gaithersburg-Wells/Robertson House | MD | 128,247
Community Assistance Network, Inc | MD | 174,593
Crossroads Community, Inc | MD | 26,888
Crossroads Community, Inc | MD | 13,584
Crossroads Community, Inc | MD | 192,763
Crossroads Community, Inc | MD | 39,019
Friends for Neighborhood Progress, Inc | MD | 25,830
Friends for Neighborhood Progress, Inc | MD | 21,852
Garrett County Community Action Committee, Inc | MD | 9,843
Garrett County Community Action Committee, Inc | MD | 12,974
Garrett County Community Action Committee, Inc | MD | 52,473
Garrett County Community Action Committee, Inc | MD | 5,568
Garrett County Community Action Committee, Inc | MD | 153,305
Harford County, Maryland | MD | 56,047
Harford County, Maryland | MD | 48,358
Harford County, Maryland | MD | 20,111
Harford County, Maryland | MD | 83,944
Harford County, Maryland | MD | 10,185
Harford County, Maryland | MD | 71,263
Harford County, Maryland | MD | 10,585
Harford County, Maryland | MD | 9,273
Harford County, Maryland | MD | 10,244
Harford County, Maryland | MD | 83,975
Harford County, Maryland | MD | 89,770
Heartly House, Inc | MD | 35,074
Housing Authority of St. Mary's County, MD | MD | 17,479
Housing Authority of St. Mary's County, MD | MD | 40,630
Housing Authority of St. Mary's County, MD | MD | 42,451
Housing Authority of St. Mary's County, MD | MD | 34,908
Housing Authority of St. Mary's County, MD | MD | 17,449
Housing Authority of St. Mary's County, MD | MD | 174,554
Housing Authority of St. Mary's County, MD | MD | 70,633
Housing Authority of St. Mary's County, MD | MD | 10,574
Housing Authority of St. Mary's County, MD | MD | 110,360
Housing Authority of St. Mary's County, MD | MD | 11,471
HOUSING OPPORTUNITIES COMMISSION | MD | 2,307,775
HOUSING OPPORTUNITIES COMMISSION | MD | 262,956
HOUSING OPPORTUNITIES COMMISSION | MD | 217,406
HOUSING OPPORTUNITIES COMMISSION | MD | 79,533
HOUSING OPPORTUNITIES COMMISSION | MD | 653,784
Howard County Government | MD | 130,335
Howard County Government | MD | 70,504
Howard County Government | MD | 236,433
Howard County Government | MD | 52,363
Howard County Mental Health Authority | MD | 171,420
Human Services Developmental Corporation, Inc | MD | 73,776
Human Services Programs of Carroll County, Inc | MD | 44,000
Human Services Programs of Carroll County, Inc | MD | 86,135
Human Services Programs of Carroll County, Inc | MD | 42,792
Human Services Programs of Carroll County, Inc | MD | 15,240
Human Services Programs of Carroll County, Inc | MD | 65,402
Human Services Programs of Carroll County, Inc | MD | 7,668
INNterim Housing Corporation | MD | 248,745
Interfaith Works | MD | 235,903
JHP, Inc | MD | 228,186
JHP, Inc | MD | 136,761
Laurel Advocacy and Referral Services, Inc | MD | 185,770
Laurel Advocacy and Referral Services, Inc | MD | 47,265
Laurel Advocacy and Referral Services, Inc | MD | 158,815
Maryland Department of Health and Mental Hygiene | MD | 615,228
Maryland Department of Health and Mental Hygiene | MD | 156,744
Maryland Department of Health and Mental Hygiene | MD | 323,088
Maryland Department of Health and Mental Hygiene | MD | 273,012
Maryland Department of Health and Mental Hygiene | MD | 104,088
Maryland Department of Health and Mental Hygiene | MD | 61,920
Maryland Department of Health and Mental Hygiene | MD | 122,988
Maryland Department of Health and Mental Hygiene | MD | 1,189,080
Maryland Department of Health and Mental Hygiene | MD | 126,060
Maryland Department of Health and Mental Hygiene | MD | 270,888
Maryland Department of Health and Mental Hygiene | MD | 145,176
Maryland Department of Health and Mental Hygiene | MD | 63,252
Maryland Department of Health and Mental Hygiene | MD | 178,548
Maryland Department of Health and Mental Hygiene | MD | 47,244
Maryland Department of Health and Mental Hygiene | MD | 274,848
Maryland Department of Health and Mental Hygiene | MD | 46,404
Maryland Department of Health and Mental Hygiene | MD | 219,816
Maryland Department of Health and Mental Hygiene | MD | 237,492
Maryland Department of Health and Mental Hygiene | MD | 86,976
Mid-Shore Mental Health Systems, Inc | MD | 59,306
Mid-Shore Mental Health Systems, Inc | MD | 182,532
Montgomery Avenue Women's Center | MD | 138,183
Montgomery County Coalition for the Homeless, Inc | MD | 131,260
Montgomery County Coalition for the Homeless, Inc | MD | 134,433
Montgomery County Coalition for the Homeless, Inc | MD | 511,058
Montgomery County Coalition for the Homeless, Inc | MD | 826,569
Montgomery County Coalition for the Homeless, Inc | MD | 359,232
Nehemiah House, Inc | MD | 57,295
People Encouraging People, Inc | MD | 313,693
Prince George's County, Maryland | MD | 116,193
Prince George's County, Maryland | MD | 1,289,000
Prince George's County, Maryland | MD | 382,783
Rehabilitation Systems, Inc | MD | 234,720
Rehabilitation Systems, Inc | MD | 368,004
Rehabilitation Systems, Inc | MD | 132,958
Somerset County Health Department | MD | 13,447
Somerset County Health Department | MD | 26,929
Somerset County Health Department | MD | 13,866
Somerset County Health Department | MD | 221,433
Somerset County Health Department | MD | 14,076
Somerset County Health Department | MD | 421,857
The Dwelling Place, Inc | MD | 271,956
The National Center for Children and Families | MD | 640,658
United Communities Against Poverty, Inc. (UCAP) | MD | 194,852
United Communities Against Poverty, Inc. (UCAP) | MD | 158,919
United Communities Against Poverty, Inc. (UCAP) | MD | 161,403
Washington County Community Action Council, Inc | MD | 56,367
Washington County Community Action Council, Inc | MD | 198,729
Washington County Department of Social Services | MD | 45,839
YMCA of Cumberland | MD | 70,350
YMCA of Cumberland | MD | 369,536
Avesta Housing Development Corporation | ME | 304,266
Bread of Life Ministries, Inc | ME | 73,500
Bread of Life Ministries, Inc | ME | 12,600
City of Bangor | ME | 296,604
City of Bangor | ME | 346,296
City of Bangor | ME | 78,240
City of Portland | ME | 15,443
City of Portland | ME | 70,016
City of Portland | ME | 158,125
Community Health and Counseling Services | ME | 18,599
Community Housing of Maine, Inc | ME | 19,635
Community Housing of Maine, Inc | ME | 283,253
Counseling Services, Inc | ME | 64,410
Hope and Justice Project, Inc | ME | 27,251
Hope House Penobcot Community Health Care | ME | 9,975
Hope House Penobcot Community Health Care | ME | 19,539
Kennebec Behavioral Health | ME | 32,838
LearningWorks | ME | 70,652
Maine State Housing Authority | ME | 163,800
Maine State Housing Authority | ME | 22,715
Maine State Housing Authority | ME | 154,959
Maine State Housing Authority | ME | 66,431
Maine State Housing Authority | ME | 27,969
Maine State Housing Authority | ME | 16,758
MAPS | ME | 71,355
New Beginnings Inc | ME | 167,116
OHI | ME | 27,900
Shaw House | ME | 16,373
Shaw House | ME | 95,550
Shaw House | ME | 109,068
State of Maine, Department of Health and Human Services | ME | 104,724
State of Maine, Department of Health and Human Services | ME | 207,696
State of Maine, Department of Health and Human Services | ME | 1,264,812
State of Maine, Department of Health and Human Services | ME | 208,860
State of Maine, Department of Health and Human Services | ME | 817,800
State of Maine, Department of Health and Human Services | ME | 23,004
State of Maine, Department of Health and Human Services | ME | 559,692
State of Maine, Department of Health and Human Services | ME | 1,526,304
State of Maine, Department of Health and Human Services | ME | 30,672
State of Maine, Department of Health and Human Services | ME | 103,800
State of Maine, Department of Health and Human Services | ME | 1,551,432
State of Maine, Department of Health and Human Services | ME | 457,320
State of Maine, Department of Health and Human Services | ME | 31,140
State of Maine, Department of Health and Human Services | ME | 360,084
Tedford Housing | ME | 6,825
Tedford Housing | ME | 16,519
Washington County Association for Retarded Citizens | ME | 28,927
York County Shelter Programs, Inc | ME | 33,238
York County Shelter Programs, Inc | ME | 99,174
York County Shelter Programs, Inc | ME | 111,127
Youth Alternatives Ingraham, Inc | ME | 307,099
Youth Alternatives Ingraham, Inc | ME | 126,936
Youth Alternatives Ingraham, Inc | ME | 82,356
Alger Marquette Community Action Board | MI | 52,207
Allegan County Community Mental Health Services | MI | 84,800
Alternative Community Living, Inc | MI | 33,469
Alternative Community Living, Inc | MI | 36,211
Alternatives For Girls | MI | 111,726
Ann Arbor Housing Commission | MI | 66,840
Ann Arbor Housing Commission | MI | 218,376
Ann Arbor Housing Commission | MI | 52,200
Ann Arbor Housing Commission | MI | 201,636
Ann Arbor Housing Commission | MI | 278,400
Ann Arbor Housing Commission | MI | 38,820
Avalon Housing, Inc | MI | 83,334
Avalon Housing, Inc | MI | 86,534
Bay Area Women's Center | MI | 60,483
Bay Area Women's Center | MI | 106,488
Branch County Coalition Against Domestic Violence | MI | 14,422
Branch County Coalition Against Domestic Violence | MI | 20,700
Capital Area Community Services, Inc | MI | 106,791
Capital Area Community Services, Inc | MI | 93,809
Cass Community Social Services, Inc | MI | 188,724
Cass Community Social Services, Inc | MI | 257,272
Cass Community Social Services, Inc | MI | 420,000
Catholic Family Services | MI | 104,240
Catholic Social Services of Wayne County | MI | 355,618
Catholic Social Services of Wayne County | MI | 181,417
Center for Women in Transition | MI | 23,220
Center for Women in Transition | MI | 81,736
Center for Women in Transition | MI | 85,795
Center for Women in Transition | MI | 38,614
Central Territorial of the Salvation Army | MI | 228,488
Central Territorial of the Salvation Army | MI | 249,854
Central Territorial of the Salvation Army | MI | 231,583
Charter County of Wayne | MI | 127,813
Charter County of Wayne | MI | 297,216
Charter County of Wayne | MI | 40,560
Charter County of Wayne | MI | 287,892
Charter County of Wayne | MI | 401,246
Charter County of Wayne | MI | 214,404
Charter County of Wayne | MI | 453,143
Charter County of Wayne | MI | 112,665
City of Lansing | MI | 385,826
City of Lansing | MI | 258,768
City of Lansing | MI | 62,842
City of Lansing | MI | 62,842
City of Lansing | MI | 172,900
City of Lansing | MI | 39,334
City of Lansing | MI | 46,115
City of Lansing | MI | 149,999
City of Lansing | MI | 24,000
City of Lansing | MI | 97,081
City of Lansing | MI | 585,090
City of Melvindale | MI | 254,580
Coalition On Temporary Shelter | MI | 135,338
Coalition On Temporary Shelter | MI | 84,979
Coalition On Temporary Shelter | MI | 68,259
Coalition On Temporary Shelter | MI | 105,546
Coalition On Temporary Shelter | MI | 660,686
Coalition On Temporary Shelter | MI | 308,083
Common Ground | MI | 84,546
Common Ground | MI | 132,999
Common Ground | MI | 105,000
Common Ground | MI | 82,761
Community & Home Supports, Inc | MI | 680,524
Community Action Agency | MI | 269,267
Community Action Agency | MI | 54,932
Community Action Agency | MI | 190,243
Community Action Agency | MI | 56,131
Community Care Services | MI | 143,119
Community Housing Network, Inc | MI | 58,180
Community Housing Network, Inc | MI | 161,124
Community Housing Network, Inc | MI | 71,554
Community Housing Network, Inc | MI | 330,122
Community Housing Network, Inc | MI | 69,737
Community Housing Network, Inc | MI | 326,432
Community Housing Network, Inc | MI | 75,441
Community Housing Network, Inc | MI | 50,199
Community Housing Network, Inc | MI | 209,365
Community Housing Network, Inc | MI | 168,253
Community Housing Network, Inc | MI | 212,524
Community Housing Network, Inc | MI | 149,689
Community Housing Network, Inc | MI | 319,414
Community Housing Network, Inc | MI | 100,006
Community Housing Network, Inc | MI | 122,665
Community Housing Network, Inc | MI | 144,435
Community Housing Network, Inc | MI | 206,398
Community Housing Network, Inc | MI | 267,996
Community Mental Health Services of Muskegon County | MI | 102,888
Community Mental Health Services of Muskegon County | MI | 16,598
Community Rebuilders | MI | 260,310
Community Rebuilders | MI | 256,080
Community Rebuilders | MI | 245,680
Community Rebuilders | MI | 607,695
Comprehensive Youth Services | MI | 29,820
Cory Place, Inc | MI | 136,666
County of Kent | MI | 779,412
County of Kent | MI | 383,424
County of Kent | MI | 145,440
County of Ottawa | MI | 218,943
County of Ottawa | MI | 31,271
County of Ottawa | MI | 17,585
County of Ottawa | MI | 96,996
Covenant House Michigan | MI | 400,233
Detroit Central City CMH, Inc | MI | 1,009,997
Detroit Rescue Mission Ministries | MI | 622,667
Detroit Rescue Mission Ministries | MI | 1,057,721
Detroit Rescue Mission Ministries | MI | 448,436
Detroit Rescue Mission Ministries | MI | 543,532
Detroit Rescue Mission Ministries | MI | 493,646
Detroit Rescue Mission Ministries | MI | 426,160
Detroit Rescue Mission Ministries | MI | 759,593
Detroit Rescue Mission Ministries | MI | 406,740
Detroit Rescue Mission Ministries | MI | 220,333
Dwelling Place of Grand Rapids, Inc | MI | 100,935
Eastern Upper Peninsula Veterans Foundation | MI | 115,166
First Step: Western Wayne County Project on Domestic Assault | MI | 36,750
First Step: Western Wayne County Project on Domestic Assault | MI | 47,580
Foundation for Mental Health-Grand Traverse/Leelanau | MI | 58,708
Foundation for Mental Health-Grand Traverse/Leelanau | MI | 31,500
Foundation for Mental Health-Grand Traverse/Leelanau | MI | 42,105
Foundation for Mental Health-Grand Traverse/Leelanau | MI | 12,588
Foundation for Mental Health-Grand Traverse/Leelanau | MI | 60,170
Freedom House Detroit | MI | 383,543
Genesee County Community Action Resource Department | MI | 171,708
Genesis Non-Profit Housing Corporation | MI | 32,550
Genesis Non-Profit Housing Corporation | MI | 26,250
Genesis Non-Profit Housing Corporation | MI | 36,750
Good Samaritan Ministries | MI | 402,066
Goodwill Industries of Northern Michigan, Inc | MI | 25,620
Goodwill Industries of Northern Michigan, Inc | MI | 51,923
Grand Rapids Housing Commission | MI | 120,086
Grand Rapids Housing Commission | MI | 121,568
Grand Rapids Housing Commission | MI | 226,900
Grand Rapids Housing Commission | MI | 118,009
Haven of Rest Ministries Inc | MI | 175,166
Haven of Rest Ministries Inc | MI | 86,758
Heartside Nonprofit Housing Corporation | MI | 116,667
Heartside Nonprofit Housing Corporation | MI | 63,000
Homeless Action Network of Detroit | MI | 190,273
Housing Resources, Inc. of Kalamazoo County | MI | 317,960
Housing Resources, Inc. of Kalamazoo County | MI | 17,168
Housing Resources, Inc. of Kalamazoo County | MI | 47,862
Housing Services for Eaton County | MI | 49,875
Housing Services for Eaton County | MI | 13,967
Housing Services for Eaton County | MI | 197,007
Human Development Commission | MI | 244,603
Inner City Christian Federation | MI | 38,810
Jewish Vocational Service | MI | 816,441
Kalamazoo Community Mental Health & Substance Abuse Services | MI | 116,428
Kalamazoo Community Mental Health & Substance Abuse Services | MI | 51,972
Kalamazoo Community Mental Health & Substance Abuse Services | MI | 299,401
Kalamazoo Community Mental Health & Substance Abuse Services | MI | 258,648
Kalamazoo Community Mental Health & Substance Abuse Services | MI | 38,149
Kalamazoo Community Mental Health & Substance Abuse Services | MI | 58,079
Kalamazoo Community Mental Health & Substance Abuse Services | MI | 58,052
Kalamazoo Community Mental Health & Substance Abuse Services | MI | 38,803
Kalamazoo Community Mental Health & Substance Abuse Services | MI | 109,113
Kalamazoo County Public Housing Commission | MI | 37,596
Lenawee Emergency and Affordable Housing Corporation | MI | 3,000
Lenawee Emergency and Affordable Housing Corporation | MI | 32,780
Lenawee Emergency and Affordable Housing Corporation | MI | 86,511
Lighthouse of Oakland County, Inc | MI | 171,337
Lighthouse of Oakland County, Inc | MI | 100,762
Lighthouse of Oakland County, Inc | MI | 107,716
Lighthouse of Oakland County, Inc | MI | 103,106
Lighthouse of Oakland County, Inc | MI | 203,741
Lighthouse of Oakland County, Inc | MI | 76,650
Living The Principles, Inc | MI | 313,713
Livingston County Community Mental Health Authority | MI | 67,553
Lutheran Social Services of Michigan | MI | 76,987
Lutheran Social Services of Michigan | MI | 12,223
Lutheran Social Services of Wisconsin and Upper Michigan, In | MI | 89,209
Lutheran Social Services of Wisconsin and Upper Michigan, In | MI | 104,307
Macomb County Community Mental Health | MI | 22,816
Macomb Homeless Coalition | MI | 29,919
Macomb Homeless Coalition | MI | 28,890
Mariners Inn | MI | 289,004
Mariners Inn | MI | 132,235
Mariners Inn | MI | 243,585
Metro Community Development | MI | 281,821
Metro Community Development | MI | 381,556
Metro Community Development, Inc | MI | 124,287
Metro Community Development, Inc | MI | 205,542
Metro Community Development, Inc | MI | 247,570
Metro Community Development, Inc | MI | 28,250
Metro Community Development, Inc | MI | 89,577
Metro Community Development, Inc | MI | 50,269
Metro Community Development, Inc | MI | 231,538
Metro Community Development, Inc | MI | 343,555
Metro Community Development, Inc | MI | 61,518
Metro Community Development, Inc | MI | 24,749
Metro Community Development, Inc | MI | 66,247
Michigan Ability Partners | MI | 51,100
Michigan Ability Partners | MI | 403,071
Michigan Ability Partners | MI | 41,316
Michigan Department of Community Health | MI | 2,142,744
Michigan Department of Community Health | MI | 238,820
Michigan Department of Community Health | MI | 214,855
Michigan Department of Community Health | MI | 338,640
Michigan Department of Community Health | MI | 134,208
Michigan Department of Community Health | MI | 185,136
Michigan Department of Community Health | MI | 703,649
Michigan Department of Community Health | MI | 317,400
Michigan Department of Community Health | MI | 362,827
Michigan Department of Community Health | MI | 165,636
Michigan Department of Community Health | MI | 510,980
Michigan Department of Community Health | MI | 248,724
Michigan Department of Community Health | MI | 40,560
Michigan Department of Community Health | MI | 170,736
Michigan Department of Community Health | MI | 180,108
Michigan Department of Community Health | MI | 154,128
Michigan Department of Community Health | MI | 178,644
Michigan Department of Community Health | MI | 340,104
Michigan Department of Human Services | MI | 322,507
Michigan Department of Human Services | MI | 414,918
Michigan Department of Human Services | MI | 537,640
Michigan Department of Human Services | MI | 870,274
Michigan Department of Human Services | MI | 117,454
Michigan State Housing Development Authority | MI | 640,500
Michigan Veterans Foundation | MI | 709,836
Monroe County Opportunity Program | MI | 102,741
Neighborhood Service Organization | MI | 1,900,000
Oakland Livingston Human Service Agency | MI | 16,080
Oakland Livingston Human Service Agency | MI | 16,687
Oakland Livingston Human Service Agency | MI | 25,083
Oakland Livingston Human Service Agency | MI | 8,364
Oakland Livingston Human Service Agency | MI | 11,162
Ozone House, Inc | MI | 112,157
Peckham, Inc | MI | 146,877
Perfecting Community Development Corporation | MI | 50,818
Positive Images | MI | 700,009
POWER Inc (People-Organized-Working-Evolving-Reaching) | MI | 168,871
Relief After Violent Encounter—Ionia/Montcalm, Inc | MI | 57,833
S.A.F.E. Place | MI | 85,000
Sacred Heart Rehabilitation Center, Inc | MI | 194,214
Safe Horizons | MI | 214,539
Saginaw County Community Mental Health Authority | MI | 70,620
Saginaw County Community Mental Health Authority | MI | 209,352
Saginaw County Community Mental Health Authority | MI | 122,448
Saginaw County Youth Protection Council | MI | 134,212
Saginaw County Youth Protection Council | MI | 39,892
Saginaw County Youth Protection Council | MI | 96,304
Saginaw Housing Commission | MI | 158,880
Saginaw Housing Commission | MI | 32,100
Saginaw Housing Commission | MI | 32,100
Saginaw Housing Commission | MI | 75,000
Saginaw Housing Commission | MI | 48,504
Sault Ste Marie Housing Commission | MI | 168,000
Shelter, Inc | MI | 44,241
Simon House | MI | 88,674
SIREN/Eaton Shelter, Inc | MI | 278,739
SOS Community Services, Inc | MI | 252,455
SOS Community Services, Inc | MI | 1,182,579
SOS Community Services, Inc | MI | 395,974
SOS Community Services, Inc | MI | 433,994
Southwest Housing Solutions | MI | 129,539
Southwest Housing Solutions | MI | 202,978
Staircase Youth Services. Inc | MI | 101,963
Summit POinte | MI | 67,936
Sunrise Centre | MI | 62,359
The Salvation Army Eastern Michigan Division Harbor Light | MI | 466,464
Training and Treatment Innovations, Inc | MI | 115,054
Training and Treatment Innovations, Inc | MI | 151,532
Training and Treatment Innovations, Inc | MI | 109,192
Training and Treatment Innovations, Inc | MI | 150,051
Training and Treatment Innovations, Inc | MI | 112,876
Training and Treatment Innovations, Inc | MI | 118,144
Travelers Aid Society of Metropolitan Detroit | MI | 80,655
Travelers Aid Society of Metropolitan Detroit | MI | 213,300
Travelers Aid Society of Metropolitan Detroit | MI | 938,985
Travelers Aid Society of Metropolitan Detroit | MI | 222,828
Travelers Aid Society of Metropolitan Detroit | MI | 867,982
Underground Railroad Inc | MI | 115,746
Underground Railroad Inc | MI | 152,786
Underground Railroad Inc | MI | 96,966
United Community Housing Coalition | MI | 569,351
Wayne County Neighborhood Legal Services dba NLSM | MI | 335,863
Wayne County Neighborhood Legal Services dba NLSM | MI | 768,090
Wayne Metropolitan Community Action Agency | MI | 280,181
Wayne Metropolitan Community Action Agency | MI | 369,538
Wayne Metropolitan Community Action Agency | MI | 102,224
Wayne Metropolitan Community Action Agency | MI | 119,279
Wayne Metropolitan Community Action Agency | MI | 89,949
West Michigan Therapy | MI | 62,000
West Michigan Therapy | MI | 44,352
West Michigan Therapy | MI | 234,168
West Michigan Therapy | MI | 13,333
Women Empowering Women, Inc | MI | 59,219
Women's Resource Center for the Grand Traverse Area | MI | 25,752
Women's Resource Center for the Grand Traverse Area | MI | 29,517
Women's Resource Center for the Grand Traverse Area | MI | 133,875
YWCA West Central Michigan | MI | 391,898
Aeon (formerly Central Community Housing Trust) | MN | 236,803
Aeon (formerly Central Community Housing Trust) | MN | 77,003
Alliance Housing Inc | MN | 206,557
American Indian Community Development Corporation | MN | 81,111
American Indian Community Housing Organization | MN | 20,483
American Indian Community Housing Organization | MN | 39,157
Amherst H. Wilder Foundation | MN | 954,260
Amherst H. Wilder Foundation | MN | 18,000
Amherst H. Wilder Foundation | MN | 19,999
Amherst H. Wilder Foundation | MN | 20,554
Amherst H. Wilder Foundation | MN | 49,994
Amherst H. Wilder Foundation | MN | 25,000
Amherst H. Wilder Foundation | MN | 5,756
Amherst H. Wilder Foundation | MN | 42,649
Amherst H. Wilder Foundation | MN | 62,069
Amherst H. Wilder Foundation | MN | 32,510
Amherst H. Wilder Foundation | MN | 43,341
Amherst H. Wilder Foundation | MN | 5,829
Arrowhead Economic Opportunity Agency | MN | 51,143
Arrowhead Economic Opportunity Agency | MN | 26,276
Arrowhead Economic Opportunity Agency | MN | 20,600
Bi-County Community Action Programs, Inc | MN | 78,128
Bi-County Community Action Programs, Inc | MN | 65,848
Blue Earth County | MN | 137,544
Bluff Country Family Resources, Inc | MN | 35,332
Breaking Free, Inc | MN | 63,111
Breaking Free, Inc | MN | 93,600
Cabrini Partnership | MN | 183,077
Carver County Community Development Agency | MN | 100,620
Catholic Charities of the Archdiocese of St. Paul and Minnea | MN | 514,133
Center City Housing Corp | MN | 39,921
Center City Housing Corp | MN | 126,712
Center City Housing Corp | MN | 143,000
Center City Housing Corp | MN | 200,000
Center City Housing Corp | MN | 70,331
Center City Housing Corp | MN | 61,733
Center of Human Environment | MN | 38,843
Central MN Re-Entry Project | MN | 65,862
Christian Restoration Services | MN | 60,113
CommonBond Communities | MN | 36,234
CommonBond Communities | MN | 85,793
Community Involvement Programs | MN | 25,479
County of Scott | MN | 186,720
Dakota County | MN | 410,844
Dakota County CDA | MN | 233,028
East Metro Women's Council | MN | 67,814
Elim Transitional Housing, Inc | MN | 13,983
Elim Transitional Housing, Inc | MN | 33,101
Elim Transitional Housing, Inc | MN | 152,325
Emerge Community Development | MN | 573,312
Emerge Community Development | MN | 128,625
Emma Norton Services | MN | 136,212
Emma Norton Services | MN | 71,251
Freeport West, Inc | MN | 242,886
Freeport West, Inc | MN | 412,619
GRACE House of Itasca County | MN | 24,717
Grant County | MN | 95,040
Grant County | MN | 16,920
Hearth Connection | MN | 69,204
Hearth Connection | MN | 185,976
Hearth Connection | MN | 26,724
Heartland Community Action Agency, Inc | MN | 90,585
Heartland Community Action Agency, Inc | MN | 61,857
Hennepin County | MN | 503,868
Hennepin County | MN | 347,548
Hennepin County | MN | 228,300
Hennepin County | MN | 600,600
Housing & Redevelopment Authority In & For the City of Will | MN | 61,392
Housing & Redevelopment Authority In & For the City of Will | MN | 23,705
Housing & Redevelopment Authority of Clay County | MN | 55,092
Housing & Redevelopment Authority of Clay County | MN | 17,455
Housing & Redevelopment Authority of Clay County | MN | 56,666
Housing & Redevelopment Authority of Clay County | MN | 182,977
Housing & Redevelopment Authority of Duluth, MN | MN | 100,512
Housing & Redevelopment Authority of Itasca County | MN | 55,368
Housing & Redevelopment Authority of St. Cloud, MN | MN | 26,880
Housing and Redevelopment Authority of St. Cloud, MN | MN | 166,608
Housing Authority of St. Louis Park | MN | 64,020
Housing Authority of St. Louis Park | MN | 120,012
Housing Authority of St. Louis Park | MN | 31,008
Human Development Center | MN | 74,263
Human Development Center | MN | 73,416
Human Development Center | MN | 16,417
Human Services, Inc., in Washington County Minnesota | MN | 41,874
Human Services, Inc., in Washington County Minnesota | MN | 52,701
Kootasca Community Action | MN | 32,019
Lakes & Prairies Community Action Partnership, Inc | MN | 47,697
Lakes & Prairies Community Action Partnership, Inc | MN | 21,376
Life House, Inc | MN | 19,011
Life House, Inc | MN | 49,260
LivingWorks Ventures | MN | 55,999
Lutheran Social Service of Minnesota | MN | 166,023
Lutheran Social Service of Minnesota | MN | 119,464
Lutheran Social Service of Minnesota | MN | 47,184
Mental Health Resources, Inc | MN | 173,315
Mental Health Resources, Inc | MN | 359,042
Mental Health Resources, Inc | MN | 26,402
Metropolitan Council, Minnesota | MN | 549,000
Metropolitan Council, Minnesota | MN | 806,052
Metropolitan Council, Minnesota | MN | 1,373,172
Metropolitan Council, Minnesota | MN | 228,012
Minnesota Assistance Council for Veterans | MN | 111,330
Minnesota Assistance Council for Veterans | MN | 58,889
Minnesota Assistance Council for Veterans | MN | 26,602
Minnesota Assistance Council for Veterans | MN | 152,250
Model Cities of St. Paul, Inc | MN | 216,857
New Foundations, Inc | MN | 298,090
New Pathways, Inc | MN | 89,292
New Pathways, Inc | MN | 105,265
Northwestern Mental Health Center, Inc | MN | 47,400
Olmsted County Community Services | MN | 141,588
Olmsted County Housing & Redevelopment Authority | MN | 118,656
Otter Tail-Wadena Community Action Council, Inc | MN | 66,026
Our Saviour's Outreach Ministries | MN | 69,905
Partners for Affordable Housing | MN | 11,522
People Incorprated | MN | 64,426
Perspectives, Inc | MN | 171,499
Perspectives, Inc | MN | 171,173
Plymouth Church Neighborhood Foundation | MN | 267,946
Ramsey County | MN | 387,264
Ramsey County | MN | 520,524
Range Mental Health Center, Inc | MN | 38,638
Range Mental Health Center, Inc | MN | 41,312
Range Transitional Housing, Inc | MN | 236,828
Range Transitional Housing, Inc | MN | 91,432
Range Transitional Housing, Inc | MN | 133,317
RESOURCE, Inc | MN | 583,903
Rice County Housing and Redevelopment Authority | MN | 66,912
RS Eden | MN | 45,486
RS Eden | MN | 149,100
Rum River Health Services, Inc | MN | 50,250
Ruths House of Hope Inc | MN | 102,494
Safe Haven Shelter for Youth | MN | 26,889
Scott-Carver-Dakota CAP Agency, Inc | MN | 65,033
Scott-Carver-Dakota CAP Agency, Inc | MN | 18,162
Scott-Carver-Dakota CAP Agency, Inc | MN | 54,928
Scott-Carver-Dakota CAP Agency, Inc | MN | 23,230
Scott-Carver-Dakota CAP Agency, Inc | MN | 10,257
Simpson Housing Services, Inc | MN | 33,510
Simpson Housing Services, Inc | MN | 143,091
Simpson Housing Services, Inc | MN | 40,765
South Metro Human Services | MN | 366,735
Southwestern Mental Health Center | MN | 134,766
Steele County Transitional Housing, Inc | MN | 23,751
The Evergreen House, Inc | MN | 77,048
The Salvation Army | MN | 85,575
The Salvation Army | MN | 246,784
The Salvation Army | MN | 145,149
The Salvation Army | MN | 121,817
The Salvation Army | MN | 333,577
The Salvation Army | MN | 88,098
The Salvation Army | MN | 145,166
The Salvation Army | MN | 45,108
The Salvation Army | MN | 50,239
Theresa Living Center | MN | 54,912
Theresa Living Center | MN | 84,650
Three Rivers Community Action, Inc | MN | 175,915
Three Rivers Community Action, Inc | MN | 149,665
Tubman | MN | 97,085
Violence Intervention Project | MN | 21,249
Violence Intervention Project | MN | 29,300
Virginia MN HRA | MN | 239,280
Volunteers of America of Minnesota | MN | 103,477
Washington County HRA | MN | 122,952
Washington County HRA | MN | 91,344
Wings Family Supportive Services, Inc | MN | 42,519
Wings Family Supportive Services, Inc | MN | 56,961
Young Women's Christian Association | MN | 16,275
Young Women's Christian Association of St. Paul MN | MN | 80,585
Zion Originalted Outreach Ministry | MN | 75,185
Benilde Hall, Inc | MO | 100,380
Benilde Hall, Inc | MO | 51,350
Catholic Charities of Kansas City-St. Joseph, Inc | MO | 135,281
Catholic Charities of Kansas City-St. Joseph, Inc | MO | 136,591
Catholic Charities of Kansas City-St. Joseph, Inc | MO | 268,143
Catholic Charities of Kansas City-St. Joseph, Inc | MO | 95,107
Catholic Charities of Kansas City-St. Joseph, Inc | MO | 470,411
Catholic Charities of Kansas City-St. Joseph, Inc | MO | 69,338
Catholic Charities of Kansas City-St. Joseph, Inc | MO | 216,262
Catholic Charities of Kansas City-St. Joseph, Inc | MO | 175,133
Catholic Charities of Kansas City-St. Joseph, Inc | MO | 219,008
Church Army, Inc | MO | 68,906
City of Kansas City, Missouri | MO | 350,172
City of Kansas City, Missouri | MO | 125,890
City of Kansas City, Missouri | MO | 24,856
City of Kansas City, Missouri | MO | 48,300
City of Kansas City, Missouri | MO | 133,891
City of Kansas City, Missouri | MO | 32,935
City of Kansas City, Missouri | MO | 199,399
City of Kansas City, Missouri | MO | 114,450
City of Kansas City, Missouri | MO | 36,131
City of St. Joseph | MO | 44,924
City of St. Louis | MO | 158,811
City of St. Louis | MO | 57,790
City of St. Louis | MO | 78,465
City of St. Louis | MO | 176,705
City of St. Louis | MO | 261,450
City of St. Louis | MO | 599,564
City of St. Louis | MO | 752,684
City of St. Louis | MO | 179,467
City of St. Louis | MO | 304,722
City of St. Louis | MO | 435,301
City of St. Louis | MO | 288,582
City of St. Louis | MO | 211,332
City of St. Louis | MO | 241,010
City of St. Louis | MO | 298,832
City of St. Louis | MO | 528,764
City of St. Louis | MO | 198,278
City of St. Louis | MO | 101,991
City of St. Louis | MO | 239,053
City of St. Louis | MO | 766,669
City of St. Louis | MO | 200,586
Columbia Housing Authority | MO | 338,088
Community Caring Council | MO | 186,389
Community Council of St. Charles County | MO | 67,679
Community LINC | MO | 110,058
Community Missions Corporation | MO | 187,278
Crider Health Center | MO | 153,153
Delta Area Economic Opportunity Corporation | MO | 149,719
Delta Area Economic Opportunity Corporation | MO | 116,657
Economic Security Corporation of Southwest Area | MO | 68,603
Economic Security Corporation of Southwest Area | MO | 37,426
Economic Security Corporation of Southwest Area | MO | 64,088
Economic Security Corporation of Southwest Area | MO | 38,376
Employment Connection | MO | 350,457
Epworth Children & Family Services, Inc | MO | 1,044,709
Families Assisted In Transitional Housing, Inc | MO | 43,647
Family Counseling Center, Inc | MO | 135,780
Family Counseling Center, Inc | MO | 120,003
Family Counseling Center, Inc | MO | 137,627
Family Self Help Center Inc. d/b/a Lafayette House | MO | 63,000
High Hope Employment Services, Inc | MO | 74,033
High Hope Employment Services, Inc | MO | 42,179
Jasper County Public Housing Agency | MO | 56,676
Johnson County HELP | MO | 110,500
Mental Health America of the Heartland | MO | 64,099
Mid America Assistance Coalition | MO | 43,358
Missouri Association for Social Welfare | MO | 110,794
Missouri Department of Mental Health | MO | 1,699,464
Missouri Department of Mental Health | MO | 137,496
Missouri Department of Mental Health | MO | 120,888
Missouri Department of Mental Health | MO | 83,088
Missouri Department of Mental Health | MO | 688,548
Missouri Department of Mental Health | MO | 307,860
Missouri Department of Mental Health | MO | 183,240
Missouri Department of Mental Health | MO | 212,880
Missouri Department of Mental Health | MO | 113,628
Missouri Department of Mental Health | MO | 262,800
Missouri Department of Mental Health | MO | 212,604
Missouri Department of Mental Health | MO | 264,828
Missouri Department of Mental Health | MO | 104,292
Missouri Department of Mental Health | MO | 532,860
Missouri Department of Mental Health | MO | 97,128
Missouri Department of Mental Health | MO | 143,724
Missouri Department of Mental Health | MO | 268,380
Missouri Department of Mental Health | MO | 28,140
Missouri Department of Mental Health | MO | 179,256
Missouri Department of Mental Health | MO | 477,240
Missouri Department of Mental Health | MO | 107,760
Missouri Department of Mental Health | MO | 138,696
Missouri Department of Mental Health | MO | 417,876
Missouri Department of Mental Health | MO | 374,316
Missouri Department of Mental Health | MO | 358,260
Missouri Department of Mental Health | MO | 1,024,104
Missouri Department of Mental Health | MO | 1,465,992
Missouri Department of Mental Health | MO | 124,380
Pettis County Community Partnership Inc | MO | 118,207
Phoenix Programs, Inc | MO | 74,113
Phoenix Programs, Inc | MO | 71,122
Preferred Family Healthcare, Inc | MO | 105,663
reStart, Inc | MO | 124,915
reStart, Inc | MO | 206,817
reStart, Inc | MO | 226,306
Ripley County Family Resource Center | MO | 53,570
Rose Brooks Center, Inc | MO | 207,967
SAVE, Inc | MO | 299,483
SAVE, Inc | MO | 201,153
SEMO Christian Restoration Center | MO | 70,756
Sheffield Place | MO | 163,079
Swope Health Services | MO | 185,281
The Housing Authority of Springfield | MO | 114,936
The Kansas City Metropolitan Lutheran Ministry | MO | 213,515
The Kitchen, Inc | MO | 82,950
The Kitchen, Inc | MO | 393,750
The Salvation Army | MO | 236,698
The Salvation Army—Midland Division | MO | 47,452
The Salvation Army—Midland Division | MO | 37,450
The Salvation Army—Midland Division | MO | 26,655
The Salvation Army—Midland Division | MO | 148,882
The Salvation Army—Midland Division | MO | 80,000
The Salvation Army—Midland Division | MO | 107,887
Truman Medical Center, Inc | MO | 518,157
AIDS Services Coalition | MS | 132,605
Back Bay Mission, Inc | MS | 92,160
Back Bay Mission, Inc | MS | 66,735
Back Bay Mission, Inc | MS | 86,021
Bolivar County Community Action Agency, Inc | MS | 176,201
Bolivar County Community Action Agency, Inc | MS | 473,286
Catholic Charities Inc | MS | 337,923
Catholic Charities, Inc | MS | 169,691
Forrest General Hospital | MS | 262,500
Forrest General Hospital | MS | 250,000
Grace House Inc | MS | 192,434
Gulf Coast Women's Center for Nonviolence, Inc | MS | 38,788
Gulf Coast Women's Center for Nonviolence, Inc | MS | 48,796
Mental Health Association of MS | MS | 27,328
Mental Health Association of MS | MS | 61,997
Mississippians United to End Homelessness | MS | 163,518
Mississippians United to End Homelessness | MS | 155,120
Mountain of Faith Ministries | MS | 254,740
Multi-County Community Service Agency, Inc | MS | 353,840
New Dimensions Development Foundation, Inc | MS | 159,238
New Life for Women, Inc | MS | 203,019
Open Doors Homeless Coalition | MS | 23,210
Open Doors Homeless Coalition | MS | 45,648
PTEH, Inc | MS | 118,650
PTEH, Inc | MS | 99,850
Recovery House, Inc | MS | 213,960
Recovery House, Inc | MS | 110,321
South Mississippi AIDS Task Force, Inc | MS | 129,046
Stewpot Community Services. Inc | MS | 49,392
Stewpot Community Services. Inc | MS | 200,000
University of Southern Mississippi—IDS | MS | 336,000
District 7 Human Resources Development Council | MT | 63,868
Florence Crittenton Home and Services | MT | 124,546
God's Love, Inc | MT | 143,305
Helena Housing Authority | MT | 184,128
Housing Authority of Billings | MT | 182,760
Housing Authority of Billings | MT | 96,480
Human Resource Development Council of District IX, Inc | MT | 51,600
Human Resource Development Council of District IX, Inc | MT | 38,948
Human Resources Council, District XII | MT | 90,958
Missoula County | MT | 102,371
Missoula County | MT | 147,498
Missoula Housing Authority | MT | 818,256
Montana Department of Commerce | MT | 247,500
Mountain Home Montana, Inc | MT | 76,798
Northwest Montana Human Resources, Inc | MT | 35,769
Poverello Center Inc | MT | 69,467
Public Housing Authority of Butte | MT | 85,032
Samaritan House, Inc | MT | 63,000
Second Chance Homes, Inc | MT | 51,619
State of Montana | MT | 66,980
Supporters of Abuse Free Environments (SAFE), Inc | MT | 34,000
Alamance-Caswell Area MH/DD/SA Authority | NC | 225,768
Alcohol and Drug Services of Guilford, Inc | NC | 34,996
As One Ministries, Inc | NC | 54,255
As One Ministries, Inc | NC | 63,840
Brunswick Family Assistance Agency, Inc | NC | 21,040
Brunswick Family Assistance Agency, Inc | NC | 21,316
Burlington Development Corporation | NC | 74,215
Cape Fear Housing for Independent Living, Inc | NC | 95,381
CenterPoint Human Services | NC | 219,420
CenterPoint Human Services | NC | 51,373
CenterPoint Human Services | NC | 111,300
Charlotte Center for Urban Ministry, Inc | NC | 150,060
Christians United Outreach Center | NC | 82,284
City of Winston-Salem | NC | 25,000
City of Winston-Salem | NC | 98,122
City of Winston-Salem | NC | 18,355
City of Winston-Salem | NC | 26,413
City of Winston-Salem | NC | 123,948
City of Winston-Salem | NC | 46,475
City of Winston-Salem | NC | 100,620
City of Winston-Salem | NC | 56,829
City of Winston-Salem | NC | 14,663
City of Winston-Salem | NC | 90,511
City of Winston-Salem | NC | 56,889
City of Winston-Salem | NC | 22,575
City of Winston-Salem | NC | 180,516
City of Winston-Salem | NC | 47,545
City of Winston-Salem | NC | 178,764
City of Winston-Salem | NC | 49,614
City of Winston-Salem | NC | 17,670
City of Winston-Salem | NC | 70,206
Cleveland County Abuse Prevention Council | NC | 37,158
Cleveland County Abuse Prevention Council | NC | 59,918
Cleveland County Abuse Prevention Council | NC | 9,286
Coastal Horizons Center, Inc | NC | 80,619
Community Alternatives for Supportive Abodes | NC | 425,004
Community Alternatives for Supportive Abodes | NC | 21,677
Community Alternatives for Supportive Abodes | NC | 188,248
Community Alternatives for Supportive Abodes | NC | 102,616
Community Alternatives for Supportive Abodes | NC | 85,575
Community Alternatives for Supportive Abodes | NC | 50,176
Community Link, Programs of Travelers Aid | NC | 224,682
Community Link, Programs of Travelers Aid | NC | 268,346
Community Link, Programs of Travelers Aid | NC | 234,983
Crossroads Behavioral Healthcare | NC | 38,468
Cumberland County, NC | NC | 84,134
Cumberland Interfaith Hospitality Network | NC | 120,588
Cumberland Interfaith Hospitality Network | NC | 262,736
East Carolina Behavioral Health | NC | 765,000
East Carolina Behavioral Health | NC | 283,092
East Carolina Behavioral Health | NC | 49,920
Family Service of the Piedmont, Inc | NC | 70,218
First Fruit Ministries | NC | 120,716
Five County Mental Health Authority | NC | 41,400
Five County Mental Health Authority | NC | 31,092
Five County Mental Health Authority | NC | 182,292
Five County Mental Health Authority | NC | 665,040
Gaston County Interfaith Hospitality Network, Inc | NC | 38,850
Gaston Lincoln Cleveland MH/DD/SA (Pathways) | NC | 111,588
Gaston Lincoln Cleveland MH/DD/SA (Pathways) | NC | 341,544
Genesis Home, Inc | NC | 174,999
Good Shepherd Ministries of Wilmington, Inc. (56-1566178) | NC | 56,073
Graham Housing Authority | NC | 59,052
Greensboro Housing Authority | NC | 423,948
Greensboro Housing Authority | NC | 477,369
Greensboro Housing Authority | NC | 21,996
Greensboro Urban Ministry | NC | 59,850
Homeward Bound of Asheville, Inc | NC | 22,339
Homeward Bound of Asheville, Inc | NC | 44,320
Homeward Bound of Asheville, Inc | NC | 147,886
Hope Haven Inc | NC | 52,867
Hope Haven Inc | NC | 383,500
Hope Haven Inc | NC | 53,980
Hope Haven Inc | NC | 63,000
Hospitality House of the Boone Area, Inc | NC | 31,928
Hospitality House of the Boone Area, Inc | NC | 29,179
Hospitality House of the Boone Area, Inc | NC | 31,181
Housing Authority of the City of Asheville | NC | 162,216
Housing Authority of the City of Asheville | NC | 77,676
Housing Authority of the City of Wilmington | NC | 43,318
Housing Authority of the City of Wilmington | NC | 134,112
Housing for New Hope, Inc | NC | 21,761
Inter-faith Alliance Corp | NC | 31,998
Joseph's House, Inc | NC | 43,730
Mary's House, Inc | NC | 135,982
Mecklenburg County | NC | 145,136
Mecklenburg County Area MH, DD, & SA Authority | NC | 294,336
Mecklenburg County Area MH, DD, & SA Authority | NC | 316,764
Mecklenburg County Area MH, DD, & SA Authority | NC | 44,363
Mecklenburg County Area MH, DD, & SA Authority | NC | 1,408,188
Mountain Youth Reosurces Inc | NC | 10,175
New River Service Authority | NC | 69,517
Next Step Ministries, Inc | NC | 37,800
North Carolina Housing Coalition | NC | 570,203
North Carolina Housing Coalition | NC | 75,249
North Carolina Housing Coalition | NC | 8,369
North Carolina Housing Coalition | NC | 10,096
Northwestern Housing Enterprises, Incorporated | NC | 33,018
Onslow Carteret Behavioral Healthcare Services | NC | 415,380
OPC Mental Health, Developmental Disabilities and Substance | NC | 312,000
OPC Mental Health, Developmental Disabilities and Substance | NC | 40,368
OPC Mental Health, Developmental Disabilities and Substance | NC | 109,202
OPC Mental Health, Developmental Disabilities and Substance | NC | 215,520
Open Door Ministries of High Point, Inc | NC | 48,919
Open Door Ministries of High Point, Inc | NC | 13,750
Opposing Abuse with Service, Information and Shelter | NC | 29,294
Passage Home, Inc | NC | 22,967
Passage Home, Inc | NC | 192,134
Passage Home, Inc | NC | 205,752
Piedmont Behavioral Healthcare | NC | 41,988
Piedmont Behavioral Healthcare | NC | 691,320
Piedmont Behavioral Healthcare | NC | 45,516
Piedmont Behavioral Healthcare | NC | 88,644
Rockingham County Help for Homeless, Inc | NC | 116,403
Rockingham County Help for Homeless, Inc | NC | 454,503
Rockingham County Help for Homeless, Inc | NC | 71,221
Salvation Army | NC | 226,646
Salvation Army | NC | 87,499
Sandhills Center LME | NC | 250,500
Sandhills Community Action Program, Inc | NC | 6,444
Sandhills Community Action Program, Inc | NC | 240,792
Smoky Mountain Center | NC | 269,880
Smoky Mountain Center | NC | 373,140
St. Peter's Homes, Inc | NC | 33,333
Step & Stages Disabled Veterans Resource Agency INC | NC | 47,844
Surry Homeless and Affordable Housing Coalition | NC | 60,091
The Arc of North Carolina | NC | 33,214
The Greenville Community Shelters, Inc | NC | 72,177
The Housing Authority of The City of Durham | NC | 95,220
The New Reidsville Housing Authority | NC | 33,528
The New Reidsville Housing Authority | NC | 14,976
The Salvation Army, a Georgia Corporation | NC | 35,470
The Salvation Army, a Georgia Corporation | NC | 80,057
The Salvation Army, a Georgia Corporation | NC | 148,015
The Salvation Army, A Georgia Corporation for the Salvation | NC | 19,274
The Servant Center, Inc | NC | 47,586
The Servant Center, Inc | NC | 125,413
United Community Ministries | NC | 88,200
United Community Ministries | NC | 87,570
Urban Ministries of Durham, Inc | NC | 62,345
Wake County Human Services | NC | 333,600
Wake County Human Services | NC | 210,900
Wake County Human Services | NC | 935,316
Wake County Human Services | NC | 231,684
Wake County Human Services | NC | 220,238
WAMY Community Action, Inc | NC | 35,567
Western Highlands, A Local Management Entity | NC | 256,992
Western North Carolina Community Health Services, Inc | NC | 260,360
Wilmington Housing Finance and Development Inc | NC | 62,333
Wilmington Interfaith Hospitality Network, Inc | NC | 86,997
With Friends, Inc | NC | 66,457
XDS Inc | NC | 28,047
XDS Inc | NC | 18,698
Youth Focus Inc | NC | 51,700
Abused Adult Resource Center | ND | 60,000
Abused Adult Resource Center | ND | 78,819
Burleigh County Housing Authority | ND | 165,012
Community Violence Intervention Center Inc | ND | 95,845
Fargo Housing and Redevelopment Authority | ND | 80,256
Fargo Housing and Redevelopment Authority | ND | 77,760
Fargo Housing and Redevelopment Authority | ND | 150,000
Fargo Housing and Redevelopment Authority | ND | 198,828
Grand Lodge of North Dakota, I.O.O.F | ND | 46,675
North Dakota Association for the Disabled, Inc | ND | 34,184
North Dakota Coalition for Homeless People, Inc | ND | 74,072
North Dakota Dept. of Commerce | ND | 227,952
Prairie Harvest Mental Health | ND | 84,999
Red River Valley Community Action | ND | 45,202
Ruth Meiers Hospitality House Inc | ND | 39,999
St. Vincent of Grand Forks | ND | 15,277
Women's Alliance, Inc. DBA: Domestic Violence and Rape Crisi | ND | 37,600
YWCA Cass Clay | ND | 75,948
YWCA Cass Clay | ND | 59,850
YWCA Cass Clay | ND | 134,277
YWCA Cass Clay | ND | 80,504
Blue Valley Community Action, Inc | NE | 24,677
Blue Valley Community Action, Inc | NE | 200,502
Care Corps, Inc | NE | 122,067
Catholic Social Services | NE | 115,148
Catholic Social Services | NE | 95,658
CEDARS Youth Services | NE | 130,707
CenterPointe Inc | NE | 446,251
CenterPointe Inc | NE | 90,654
CenterPointe Inc | NE | 191,797
CenterPointe Inc | NE | 191,642
Central Nebraska Community Services, Inc | NE | 197,437
Central Nebraska Community Services, Inc | NE | 127,085
Cirrus House, Inc | NE | 46,433
City of Omaha | NE | 158,136
Community Action of Nebraska | NE | 31,896
Community Action Partnership of Lancaster & Saunders Counties | NE | 460,862
Community Action Partnership of Western Nebraska | NE | 31,880
Community Action Partnership of Western Nebraska | NE | 23,503
Goldenrod Hills Community Action, Inc | NE | 27,171
Heartland Family Service | NE | 157,125
Heartland Family Service | NE | 93,606
Heartland Family Service | NE | 406,026
Heartland Family Service | NE | 445,280
Heartland Family Service | NE | 265,713
Hope of Glory Ministries, Inc | NE | 76,822
Iowa Institute for Community Alliances | NE | 121,537
Monument Family Connections | NE | 46,474
St. Monica's | NE | 140,456
The Christian Worship Center | NE | 95,673
The Salvation Army | NE | 58,020
The Salvation Army | NE | 146,694
The Salvation Army | NE | 138,897
Volunteers of America, Dakotas | NE | 300,809
Behavioral Health & Dev. Serv. of Strafford County, Inc | NH | 85,865
Child and Family Services | NH | 111,529
Families in Transition | NH | 44,000
Families in Transition | NH | 122,500
Families in Transition | NH | 111,300
Families in Transition | NH | 50,340
Families in Transition | NH | 67,183
Greater Nashua Council on Alcoholism, Inc | NH | 60,083
Harbor Homes, Inc | NH | 104,440
Harbor Homes, Inc | NH | 171,308
Harbor Homes, Inc | NH | 13,121
Harbor Homes, Inc | NH | 873,170
Harbor Homes, Inc | NH | 13,466
Harbor Homes, Inc | NH | 26,126
Harbor Homes, Inc | NH | 59,545
Harbor Homes, Inc | NH | 56,141
Harbor Homes, Inc | NH | 50,000
Harbor Homes, Inc | NH | 13,121
Helping Hands Outreach Ministries, Inc | NH | 33,705
Helping Hands Outreach Ministries, Inc | NH | 70,885
Marguerite's Place Inc | NH | 58,480
My Friend's Place | NH | 54,239
Nashua Housing Authority | NH | 33,804
Northern Human Services | NH | 132,011
Southern New Hampshire Services, Inc | NH | 32,191
Southern New Hampshire Services, Inc | NH | 36,039
State of New Hampshire | NH | 196,762
State of New Hampshire | NH | 12,778
State of New Hampshire | NH | 52,838
State of New Hampshire | NH | 71,766
State of New Hampshire | NH | 116,524
State of New Hampshire | NH | 236,866
State of New Hampshire | NH | 188,527
State of New Hampshire | NH | 14,154
State of New Hampshire | NH | 247,279
State of New Hampshire | NH | 80,640
State of New Hampshire | NH | 96,078
State of New Hampshire | NH | 99,632
State of New Hampshire | NH | 112,951
State of New Hampshire | NH | 68,092
State of New Hampshire | NH | 42,097
State of New Hampshire | NH | 88,497
State of New Hampshire | NH | 357,354
State of New Hampshire | NH | 293,400
State of New Hampshire | NH | 250,176
State of New Hampshire | NH | 72,590
State of New Hampshire | NH | 79,047
State of New Hampshire | NH | 37,496
The Housing Partnership | NH | 143,815
The Way Home, Inc | NH | 97,038
The Way Home, Inc | NH | 47,734
The Way Home, Inc | NH | 45,025
The Way Home, Inc | NH | 63,000
Tri County CAP, Inc | NH | 188,568
180 Turning Lives Around, Inc | NJ | 122,805
180 Turning Lives Around, Inc | NJ | 142,530
AAH of Bergen County, Inc | NJ | 88,322
AAH of Bergen County, Inc | NJ | 98,437
AAH of Bergen County, Inc | NJ | 78,925
Advance housing, Inc | NJ | 19,812
Advance housing, Inc | NJ | 167,735
Advance housing, Inc | NJ | 50,910
Advance housing, Inc | NJ | 358,255
Advance housing, Inc | NJ | 78,536
Alternatives, Inc | NJ | 15,557
Alternatives, Inc | NJ | 98,478
Alternatives, Inc | NJ | 63,170
Alternatives, Inc | NJ | 101,278
Bergen County Community Action Partnership, Inc | NJ | 92,748
Bergen County Community Action Partnership, Inc | NJ | 93,712
Bergen County Community Action Partnership, Inc | NJ | 63,702
Burlington County Community Action Program | NJ | 14,172
Burlington County Community Action Program | NJ | 10,667
Camden County | NJ | 388,620
Camden County | NJ | 284,580
Camden County Council On Economic Opportunity, Inc | NJ | 149,704
Camden County Council On Economic Opportunity, Inc | NJ | 191,170
Camden County Council On Economic Opportunity, Inc | NJ | 133,674
Cape Counseling Services | NJ | 170,760
Cape Counseling Services | NJ | 26,604
Career Opportunity Development | NJ | 51,442
Catholic Charities Diocese of Metuchen | NJ | 233,047
Catholic Charities of the Archdiocese of Newark | NJ | 248,664
Catholic Charities of the Archdiocese of Newark | NJ | 160,000
Catholic Charities, Diocese of Trenton | NJ | 24,860
Catholic Charities, Diocese of Trenton | NJ | 69,218
Center For Family Services, Inc | NJ | 30,580
Center For Family Services, Inc | NJ | 67,217
Center For Family Services, Inc | NJ | 210,370
Center For Family Services, Inc | NJ | 70,544
Center For Family Services, Inc | NJ | 35,437
Center For Family Services, Inc | NJ | 30,935
Center For Family Services, Inc | NJ | 18,130
City of East Orange | NJ | 182,460
City of East Orange | NJ | 388,440
City of Newark | NJ | 1,059,600
City of Newark | NJ | 647,400
City of Trenton | NJ | 175,296
City of Trenton | NJ | 120,306
City of Trenton | NJ | 53,100
City of Trenton | NJ | 293,184
City of Trenton | NJ | 41,597
City of Trenton | NJ | 18,519
City of Trenton | NJ | 195,600
City of Trenton | NJ | 158,808
City of Trenton | NJ | 121,196
City of Trenton | NJ | 47,808
City of Trenton | NJ | 7,613
City of Trenton | NJ | 24,120
City of Trenton | NJ | 100,956
City of Trenton | NJ | 796,500
City of Trenton | NJ | 83,968
Collaborative Support Programs of New Jersey | NJ | 453,180
Collaborative Support Programs of New Jersey | NJ | 26,328
Collaborative Support Programs of New Jersey | NJ | 776,880
Collaborative Support Programs of New Jersey | NJ | 76,524
Community Hope, Inc | NJ | 39,387
Community Hope, Inc | NJ | 28,198
Community Hope, Inc | NJ | 30,189
Comprehensive Behavioral Healthcare Inc | NJ | 110,376
County of Bergen | NJ | 93,068
County of Bergen | NJ | 85,900
County of Essex | NJ | 258,960
County of Monmouth | NJ | 284,700
County of Monmouth | NJ | 78,336
County of Monmouth | NJ | 404,508
County of Monmouth | NJ | 217,000
County of Monmouth | NJ | 279,480
County of Monmouth | NJ | 183,000
County of Morris | NJ | 88,560
Covenant House New Jersey, Inc | NJ | 144,717
Covenant House New Jersey, Inc | NJ | 122,232
Covenant House New Jersey, Inc | NJ | 51,051
Dooley House Inc | NJ | 211,974
East Orange General Hospital | NJ | 245,600
Easter Seal Society of New Jersey Inc, The | NJ | 46,664
Easter Seal Society of New Jersey Inc, The | NJ | 43,207
Easter Seal Society of New Jersey Inc, The | NJ | 7,464
Elizabeth/Union County CoC | NJ | 80,656
Elizabeth/Union County CoC | NJ | 13,300
Elizabeth/Union County CoC | NJ | 1,101,229
Elizabeth/Union County CoC | NJ | 36,120
Elizabeth/Union County CoC | NJ | 26,917
Elizabeth/Union County CoC | NJ | 258,960
Elizabeth/Union County CoC | NJ | 284,206
Elizabeth/Union County CoC | NJ | 94,427
Elizabeth/Union County CoC | NJ | 49,020
Elizabeth/Union County CoC | NJ | 336,924
Elizabeth/Union County CoC | NJ | 196,068
Elizabeth/Union County CoC | NJ | 99,342
Elizabeth/Union County CoC | NJ | 217,714
Elizabeth/Union County CoC | NJ | 25,836
Elizabeth/Union County CoC | NJ | 59,184
Elizabeth/Union County CoC | NJ | 470,100
Elizabeth/Union County CoC | NJ | 55,488
Elizabeth/Union County CoC | NJ | 160,478
Elizabeth/Union County CoC | NJ | 623,916
Elizabeth/Union County CoC | NJ | 16,665
Elizabeth/Union County CoC | NJ | 18,654
Family Service of Burlington County, New Jersey | NJ | 42,000
HABcore, Inc | NJ | 78,899
HABcore, Inc | NJ | 374,638
HABcore, Inc | NJ | 172,473
Hispanic Multi Purpose Service Center | NJ | 41,902
Homeless Solutions Inc | NJ | 64,299
Homeless Solutions Inc | NJ | 219,397
Homeless Solutions Inc | NJ | 396,965
Housing Authority of Bergen County | NJ | 2,150,940
Housing Authority of Bergen County | NJ | 109,788
Housing Authority of Bergen County | NJ | 588,060
Housing Authority of the City of Jersey City | NJ | 639,240
Housing Authority of The City of Paterson | NJ | 130,644
Housing Authority of The City of Paterson | NJ | 127,248
Housing Authority of the Township of Edison | NJ | 78,813
Housing Authority of the Township of Edison | NJ | 86,940
Housing Authority of the Township of Edison | NJ | 517,440
Housing Authority of the Township of Edison | NJ | 90,568
Interfaith Homeless Outreach Council | NJ | 10,171
Isaiah House, Inc | NJ | 249,495
Jersey Battered Women's Service, Inc | NJ | 198,137
Jersey City Episcopal Community Development | NJ | 391,797
Lakewood Housing Authority | NJ | 34,057
Lakewood Housing Authority | NJ | 104,700
Lakewood Housing Authority | NJ | 65,820
Lakewood Housing Authority | NJ | 30,504
Let's Celebrate, Inc | NJ | 83,794
Making It Possible to end Homelessness | NJ | 63,349
Mental Health Association of Morris County, Inc | NJ | 60,060
Monmouth Housing Alliance | NJ | 43,923
New Community Corporation | NJ | 735,000
New Jersey Community Development Corporation | NJ | 82,934
New Jersey Department of Military and Veterans Affairs | NJ | 180,629
New Jersey Housing and Mortgage Finance Agency | NJ | 25,000
New Jersey Housing and Mortgage Finance Agency | NJ | 19,970
New Jersey Housing and Mortgage Finance Agency | NJ | 56,727
New Jersey Housing and Mortgage Finance Agency | NJ | 2,000
New Jersey Housing and Mortgage Finance Agency | NJ | 85,667
New Jersey Housing and Mortgage Finance Agency | NJ | 25,000
New Jersey Housing and Mortgage Finance Agency | NJ | 3,000
New Jersey Housing and Mortgage Finance Agency | NJ | 45,028
New Jersey Housing and Mortgage Finance Agency | NJ | 2,560
New Jersey Housing and Mortgage Finance Agency | NJ | 40,655
New Jersey Housing and Mortgage Finance Agency | NJ | 22,667
New Jersey Housing and Mortgage Finance Agency | NJ | 1,998
New Jersey Housing and Mortgage Finance Agency | NJ | 2,001
New Jersey Housing and Mortgage Finance Agency | NJ | 2,457
New Jersey Housing and Mortgage Finance Agency | NJ | 149,999
New Jersey Housing and Mortgage Finance Agency | NJ | 2,667
New Jersey Housing and Mortgage Finance Agency | NJ | 16,687
New Jersey Housing and Mortgage Finance Agency | NJ | 3,000
New Jersey Housing and Mortgage Finance Agency | NJ | 69,000
New Jersey Housing and Mortgage Finance Agency | NJ | 17,000
NJ Department of Community Affairs | NJ | 198,984
NJ Department of Community Affairs | NJ | 1,021,440
NJ Department of Community Affairs | NJ | 268,284
NJ Department of Community Affairs | NJ | 168,324
NJ Department of Community Affairs | NJ | 35,472
NJ Department of Community Affairs | NJ | 257,412
NJ Department of Community Affairs | NJ | 168,324
NJ Department of Community Affairs | NJ | 170,436
NJ Department of Community Affairs | NJ | 134,544
NJ Department of Community Affairs | NJ | 94,680
NJ Department of Community Affairs | NJ | 129,480
NJ Department of Community Affairs | NJ | 143,832
NJ Department of Community Affairs | NJ | 69,451
NJ Department of Community Affairs | NJ | 86,400
NJ Department of Community Affairs | NJ | 70,944
NJ Department of Community Affairs | NJ | 53,280
NJ Department of Community Affairs | NJ | 190,452
North Hudson Community Action Corporation | NJ | 404,148
Ocean Community Economic Action Now, Inc | NJ | 81,957
Ocean Community Economic Action Now, Inc | NJ | 41,697
Ocean Community Economic Action Now, Inc | NJ | 38,500
Ocean Community Economic Action Now, Inc | NJ | 40,718
Ocean's Harbor House | NJ | 19,372
Passaic County Department of Human Services | NJ | 19,776
Passaic County Department of Human Services | NJ | 235,260
Passaic County Department of Human Services | NJ | 369,480
Passaic County Department of Human Services | NJ | 806,760
Positive Health Care, Inc | NJ | 176,283
Project H.O.P.E. | NJ | 83,693
Project Live, Inc | NJ | 971,964
Saint Joseph's Home | NJ | 558,534
Salem County Inter Agency Council of Human Services | NJ | 140,560
Shelter Our Sisters | NJ | 16,382
Shelter Our Sisters | NJ | 23,833
South Jersey Behavioral Health Resources, Inc | NJ | 32,809
St. Philip's Ministry UMC | NJ | 63,461
Strengthen Our Sisters | NJ | 130,652
The Center in Asbury Park, Inc | NJ | 184,819
The Dackks Group for Supportive Housing Development, Inc | NJ | 41,335
The House of Faith, Inc | NJ | 245,266
The Lester A. Behavioral Health Center Inc | NJ | 30,526
The Lester A. Behavioral Health Center Inc | NJ | 248,663
The Lester A. Behavioral Health Center Inc | NJ | 15,360
The Salvation Army | NJ | 134,510
Township of Irvington | NJ | 138,365
Township of Irvington/INIC | NJ | 250,474
Transitional Housing Services, Inc | NJ | 97,093
Triple C Housing Inc | NJ | 54,425
United Way of Hudson County | NJ | 393,006
Vantage Health System, Inc | NJ | 90,896
Vantage Health System, Inc | NJ | 217,402
Vetgroup, Inc | NJ | 20,664
Volunteers Of America Delaware Valley Inc | NJ | 142,267
Volunteers Of America Delaware Valley Inc | NJ | 88,970
Volunteers Of America Delaware Valley Inc | NJ | 86,458
Volunteers Of America Delaware Valley Inc | NJ | 117,344
Volunteers Of America Delaware Valley Inc | NJ | 115,874
Volunteers Of America Delaware Valley Inc | NJ | 103,005
Warren County Housing Authority | NJ | 187,020
West New York Housing Authority | NJ | 1,136,220
WomenRising | NJ | 644,268
Albuquerque HealthCare for the Homeless, Inc | NM | 135,267
Barrett Foundation, Inc | NM | 97,447
Barrett Foundation, Inc | NM | 23,780
Bernalillo County | NM | 92,329
Catholic Charities | NM | 241,153
Catholic Charities | NM | 223,055
Catholic Charities | NM | 51,371
Catholic Charities | NM | 202,692
Catholic Charities of Gallup | NM | 26,727
City of Albuquerque | NM | 1,157,556
City of Albuquerque | NM | 366,960
City of Albuquerque | NM | 223,709
City of Albuquerque | NM | 895,822
City of Las Cruces, New Mexico | NM | 99,120
City of Santa Fe | NM | 224,760
City of Santa Fe | NM | 159,684
City of Santa Fe | NM | 134,484
City of Santa Fe | NM | 235,164
Community Area Resource Enterprise | NM | 400,000
County of Sandoval | NM | 228,576
Crisis Center of Northern New Mexico | NM | 380,550
Crossroads for Women (formerly Human Rights Advocacy) | NM | 112,834
Crossroads for Women (formerly Human Rights Advocacy) | NM | 191,940
Curry County | NM | 128,880
Esperanza Shelter For Battered Families, Inc | NM | 94,500
Goodwill Industries of New Mexico | NM | 114,866
Haven House, Inc | NM | 50,000
La Casa, Inc | NM | 292,166
Los Lunas Village of | NM | 183,348
New Mexico Coalition to End Homelessness | NM | 394,798
S.A.F.E. House | NM | 42,096
Saint Elizabeth Shelter Corporation | NM | 72,713
Saint Elizabeth Shelter Corporation | NM | 192,240
San Juan County Partnership | NM | 66,713
Socorro County Housing Authority | NM | 290,880
Socorro County Housing Authority | NM | 95,916
St. Martin's Hospitality Center | NM | 115,500
Supportive Housing Coalition of New Mexico | NM | 171,226
Supportive Housing Coalition of New Mexico | NM | 26,775
Transitional Living Services, Inc | NM | 276,300
Transitional Living Services, Inc | NM | 105,000
Valencia Shelter Services for Victims of Domestic Violence | NM | 106,666
HELP Las Vegas Housing Corporation | NV | 195,230
Churchill Council on Alcohol and Other Drugs | NV | 48,509
City of Reno | NV | 69,400
City of Reno | NV | 110,292
Department of Health and Human Services | NV | 240,612
Douglas County | NV | 133,449
HELP Las Vegas Housing Corporation II | NV | 155,780
HELP of Southern Nevada | NV | 1,225,000
Henderson Allied Community Advocates | NV | 105,328
Henderson Allied Community Advocates | NV | 162,056
Lutheran Social Services of Nevada | NV | 104,556
Nevada Community Associates, Inc | NV | 216,226
Nevada Partnership for Homeless Youth | NV | 221,854
Northern Nevada Adult Mental Health Services | NV | 53,280
Northern Nevada Adult Mental Health Services | NV | 418,812
Northern Nevada Community Housing Resource Board | NV | 51,955
ReStart | NV | 812,489
Southern Nevada Adult Mental Health Services | NV | 185,508
Southern Nevada Adult Mental Health Services | NV | 901,896
Southern Nevada Adult Mental Health Services | NV | 231,780
Southern Nevada Adult Mental Health Services | NV | 294,072
St. Jude's Ranch for Children | NV | 265,284
St. Vincent HELP Inc | NV | 120,069
St. Vincent HELP Inc | NV | 50,754
St. Vincent HELP Inc | NV | 86,879
The Salvation Army, Clark County, Nevada | NV | 323,451
The Salvation Army, Clark County, Nevada | NV | 429,949
United States Veterans Initiative | NV | 116,015
Vitality Center | NV | 84,164
Washoe County | NV | 126,954
Washoe County | NV | 56,832
Women's Development Center | NV | 643,348
Women's Development Center | NV | 384,482
Women's Development Center | NV | 82,448
Women's Development Center | NV | 43,625
Adirondack Vets House, Inc | NY | 78,460
Adirondack Vets House, Inc | NY | 75,417
Albany Housing Authority | NY | 152,892
Albany Housing Authority | NY | 279,600
Albany Housing Authority | NY | 44,220
Albany Housing Authority | NY | 244,908
Albany Housing Authority | NY | 235,128
Albany Housing Authority | NY | 53,064
Albany Housing Authority | NY | 111,996
Albany Housing Authority | NY | 216,168
Albany Housing Coalition, Inc | NY | 38,251
Albany Housing Coalition, Inc | NY | 43,155
Albany Housing Coalition, Inc | NY | 63,502
Albany Housing Coalition, Inc | NY | 29,970
Albany Housing Coalition, Inc | NY | 21,000
Ali Forney Center | NY | 527,857
Ali Forney Center | NY | 438,598
Altamont Program, Inc | NY | 31,150
Anchor House, Inc | NY | 240,648
Argus Community, Inc | NY | 371,322
Argus Community, Inc | NY | 370,278
Argus Community, Inc | NY | 430,101
Association to Benefit Children | NY | 115,706
Auburn Housing Authority | NY | 37,200
Bailey House Inc | NY | 629,300
Bailey House Inc | NY | 166,666
Banana Kelly Improvement Assoc Inc | NY | 386,525
Basics, Inc | NY | 353,208
Bethesda House of Schenectady, Inc | NY | 22,300
Bethesda House of Schenectady, Inc | NY | 48,083
Bethesda House of Schenectady, Inc | NY | 63,152
Bethesda House of Schenectady, Inc | NY | 72,351
Bethesda House of Schenectady, Inc | NY | 63,564
Bethesda House of Schenectady, Inc | NY | 152,738
Binghamton Housing Authority | NY | 107,280
Bowery Residents' Committee, Inc | NY | 360,106
Bowery Residents' Committee, Inc | NY | 511,358
Bowery Residents' Committee, Inc | NY | 497,954
Bowery Residents' Committee, Inc | NY | 355,001
Bowery Residents' Committee, Inc | NY | 368,496
Bowery Residents' Committee, Inc | NY | 318,891
Bowery Residents' Committee, Inc | NY | 364,883
BronxWorks Inc | NY | 1,200,000
BronxWorks Inc | NY | 105,000
BronxWorks Inc | NY | 77,030
Brooklyn Bureau of Community Service | NY | 474,924
Brooklyn Bureau of Community Service | NY | 249,674
Capital Area Peer Services | NY | 96,017
Catholic Charities Diocese of Rockville Centre | NY | 155,595
Catholic Charities Diocese of Rockville Centre | NY | 174,584
Catholic Charities Diocese of Rockville Centre | NY | 222,584
Catholic Charities Diocese of Rockville Centre | NY | 739,431
Catholic Charities Diocese of Rockville Centre | NY | 190,664
Catholic Charities Housing Office | NY | 87,937
Catholic Charities Housing Office | NY | 125,932
Catholic Charities Housing Office | NY | 222,485
Catholic Charities of Chemung/Schuyler | NY | 93,534
Catholic Charities of Chemung/Schuyler | NY | 152,231
Catholic Charities of Chemung/Schuyler | NY | 103,356
Catholic Charities of Chemung/Schuyler | NY | 134,179
Catholic Charities of Chemung/Schuyler | NY | 47,202
Catholic Charities of Chemung/Schuyler | NY | 89,796
Catholic Charities of Rochester dba Catholic Family Center | NY | 133,879
Catholic Charities of Rochester dba Catholic Family Center | NY | 246,941
Catholic Charities of the Roman Catholic Diocese of Syracuse | NY | 83,332
Catholic Charities of the Roman Catholic Diocese of Syracuse | NY | 67,050
Catholic Charities of the Roman Catholic Diocese of Syracuse | NY | 87,866
Catholic Charities of the Roman Catholic Diocese of Syracuse | NY | 215,977
Catholic Charities of the Roman Catholic Diocese of Syracuse | NY | 50,263
Catholic Charities of the Roman Catholic Diocese of Syracuse | NY | 218,293
Catholic Charities of the Roman Catholic Diocese of Syracuse | NY | 313,012
Catholic Charities of the Roman Catholic Diocese of Syracuse | NY | 215,720
Catholic Charities of the Roman Catholic Diocese of Syracuse | NY | 282,796
Cattaraugus Community Action, Inc | NY | 94,314
Cayuga/Seneca Community Action Agency, Inc | NY | 35,289
Cayuga/Seneca Community Action Agency, Inc | NY | 33,660
Cayuga/Seneca Community Action Agency, Inc | NY | 59,869
CDCLI Housing Development Fund Corporation | NY | 28,503
Central New York Services, Inc | NY | 217,753
Central New York Services, Inc | NY | 290,154
Central New York Services, Inc | NY | 159,362
Central New York Services, Inc | NY | 87,500
Central New York Services, Inc | NY | 100,000
Central New York Services, Inc | NY | 100,000
Central New York Services, Inc | NY | 142,543
Central New York Services, Inc | NY | 185,034
Chadwick Residence, Inc | NY | 31,957
Chadwick Residence, Inc | NY | 58,920
Chadwick Residence, Inc | NY | 188,720
Chautauqua Opportunities, Inc | NY | 21,667
Circulo de la Hispanidad | NY | 133,024
Circulo de la Hispanidad | NY | 165,175
City Mission Society, Inc | NY | 1,050,000
City of Mount Vernon (NY) | NY | 143,031
City of Mount Vernon (NY) | NY | 49,749
City of Mount Vernon (NY) | NY | 60,768
City of Mount Vernon (NY) | NY | 112,728
City of Mount Vernon (NY) | NY | 30,450
City of Mount Vernon (NY) | NY | 70,896
City of Mount Vernon (NY) | NY | 33,273
City of Mount Vernon (NY) | NY | 37,800
City of Mount Vernon (NY) | NY | 171,675
City of Mount Vernon (NY) | NY | 92,976
City of Mount Vernon (NY) | NY | 43,260
City of Saratoga Springs | NY | 255,120
City of Schenectady | NY | 63,960
City of Schenectady | NY | 127,920
Coalition for the Homeless | NY | 375,786
Columba Kavanagh House, Inc | NY | 388,163
COLUMBIA OPPORTUNITIES INCORPORATED | NY | 9,697
COLUMBIA OPPORTUNITIES INCORPORATED | NY | 2,145
Common Ground Community IV HDFC | NY | 141,382
Common Ground Community IV HDFC | NY | 416,468
Community Access, Inc | NY | 224,210
Community Access, Inc | NY | 240,318
Community Access, Inc | NY | 404,974
Community Action For Human Services, Inc | NY | 436,241
Community Action for Human Services, Inc | NY | 129,207
Community Action of Greene County, Inc | NY | 88,350
Community Housing Innovations, Inc | NY | 63,123
Community Housing Innovations, Inc | NY | 168,638
Community Housing Innovations, Inc | NY | 178,627
Community Housing Innovations, Inc | NY | 52,148
Community Housing Innovations, Inc | NY | 70,316
Community Housing Innovations, Inc | NY | 48,093
Community Housing Innovations, Inc | NY | 137,665
Community Housing Innovations, Inc | NY | 126,602
Community Housing Innovations, Inc | NY | 109,697
Community Housing Innovations, Inc | NY | 166,684
Community Missions of Niagara Frontier, Inc | NY | 68,676
Community Services for the Developmentally Disabled, Inc | NY | 269,042
Community, Counseling, & Mediation | NY | 238,951
Community, Counseling, & Mediation | NY | 232,181
Comunilife, Inc | NY | 635,623
Comunilife, Inc | NY | 663,215
Concern for Independent Living, Inc | NY | 216,420
Corporation for AIDS Research, Education and Services, Inc | NY | 25,000
Corporation for AIDS Research, Education and Services, Inc | NY | 34,666
Corporation for AIDS Research, Education and Services, Inc | NY | 16,666
Corporation for AIDS Research, Education and Services, Inc | NY | 5,000
Corporation for AIDS Research, Education and Services, Inc | NY | 33,333
Council of Alcohol and Drug Abuse of Sullivan County | NY | 147,123
Council of Alcohol and Drug Abuse of Sullivan County | NY | 39,796
Council of Alcohol and Drug Abuse of Sullivan County | NY | 13,079
County of Dutchess | NY | 81,864
County of Dutchess | NY | 129,132
County of Dutchess | NY | 84,384
County of Dutchess | NY | 169,920
County of Dutchess | NY | 53,532
County of Dutchess | NY | 70,512
COUNTY OF NASSAU ECONOMIC DEVELOPMENT OFFICE OF HOUSING & IA | NY | 339,260
Covenant House New York/Under 21, Inc | NY | 594,542
Covenant House New York/Under 21, Inc | NY | 376,444
Covenant House New York/Under 21, Inc | NY | 419,148
Covenant House New York/Under 21, Inc | NY | 504,647
Covenant House New York/Under 21, Inc | NY | 129,654
Covenant House New York/Under 21, Inc | NY | 166,948
Covenant House New York/Under 21, Inc | NY | 177,978
Crystal Run Village, Inc | NY | 133,350
CUCS, Inc | NY | 1,302,539
CUCS, Inc | NY | 238,140
CUCS, Inc | NY | 199,999
CUCS, Inc | NY | 226,800
CUCS, Inc | NY | 298,736
CUCS, Inc | NY | 103,950
Damon House New York, Inc | NY | 262,479
Department of Community Mental Health | NY | 209,352
Department of Community Mental Health | NY | 559,944
Department of Community Mental Health | NY | 1,247,676
Department of Community Mental Health | NY | 473,988
Department of Community Mental Health | NY | 689,532
Department of Community Mental Health | NY | 993,756
Department of Community Mental Health | NY | 1,142,928
Department of Community Mental Health | NY | 479,916
Department of Community Mental Health | NY | 233,592
Department of Community Mental Health | NY | 458,364
Department of Community Mental Health | NY | 980,652
DePaul Community Services | NY | 82,219
Domestic Violence and Rape Crisis Services of Saratoga Count | NY | 114,536
Domestic Violence and Rape Crisis Services of Saratoga Count | NY | 36,607
Donald Reed | NY | 172,908
DUNKIRK HOUSING AUTHORITY | NY | 120,384
East House Corporation | NY | 72,429
East New York Urban Youth Corps, Inc | NY | 96,756
Ecclesia Ministries of Newburgh, Inc | NY | 62,952
Education & Assistance Corporation | NY | 107,139
El Regreso Foundation | NY | 253,855
Emergency Housing Group, Inc | NY | 186,148
Equinox, Inc | NY | 98,210
Equinox, Inc | NY | 84,955
Equinox, Inc | NY | 82,363
Equinox, Inc | NY | 63,675
Erie County Department of Mental Health | NY | 708,336
Erie County Department of Mental Health | NY | 306,144
Erie County Department of Mental Health | NY | 208,456
Erie County Department of Mental Health | NY | 154,524
Erie County Department of Mental Health | NY | 291,780
Erie County Department of Mental Health | NY | 577,017
Erie County Department of Mental Health | NY | 500,771
Erie County Department of Mental Health | NY | 879,708
Erie County Department of Mental Health | NY | 243,625
ETC Housing Corporation | NY | 11,466
FACES NY | NY | 133,913
FACES NY | NY | 184,553
FACES NY | NY | 152,092
Fairview Recovery Services ,Inc | NY | 143,732
Fairview Recovery Services ,Inc | NY | 91,000
Fairview Recovery Services ,Inc | NY | 82,000
Family Nurturing Center of Central New York Inc | NY | 105,810
Family of Woodstock, Inc | NY | 91,667
Family of Woodstock, Inc | NY | 69,530
Family Residences and Essential Enterprises, Inc | NY | 63,775
Family Residences and Essential Enterprises, Inc | NY | 104,022
Family Service League, Inc | NY | 92,344
Family Service League, Inc | NY | 252,049
Federation Employment and Guidance Service, Inc | NY | 676,767
Federation Employment and Guidance Service, Inc | NY | 558,906
Federation Employment and Guidance Service, Inc | NY | 595,000
Federation Employment and Guidance Service, Inc | NY | 582,961
Federation Employment and Guidance Service, Inc | NY | 238,319
Federation of Organizations for the New York State Mentally | NY | 100,849
Federation of Organizations for the New York State Mentally | NY | 45,268
Federation of Organizations for the New York State Mentally | NY | 46,235
Foundation for Research on Sexually Transmitted Diseases | NY | 871,533
Fountain House, Inc | NY | 639,295
Gateway Community Industries, Inc | NY | 41,020
Gateway Community Industries, Inc | NY | 65,806
Gateway Community Industries, Inc | NY | 91,069
Gateway Community Industries, Inc | NY | 45,120
Gateway Community Industries, Inc | NY | 41,307
Gateway Community Industries, Inc | NY | 49,876
Gateway Community Industries, Inc | NY | 70,350
Geneva Housing Authority | NY | 62,460
Geneva Housing Authority | NY | 104,011
Geneva Housing Authority | NY | 241,860
Gerard Place Housing Development Fund Company, Inc | NY | 177,909
Glens Falls Housing Authority | NY | 31,488
Glens Falls Housing Authority | NY | 114,264
Glens Falls Housing Authority | NY | 88,860
Goddard Riverside Community Center | NY | 280,889
Goddard Riverside Community Center | NY | 169,644
Goddard Riverside Community Center | NY | 96,657
Goddard Riverside Community Center | NY | 153,696
Good Shepherd Services | NY | 414,000
Grace Smith House, Inc | NY | 11,209
Grace Smith House, Inc | NY | 18,385
Greyston Health Services, Inc | NY | 251,111
H.E.L.P. Equity Homes, Inc | NY | 132,720
H.E.L.P. Equity Homes, Inc | NY | 165,914
H.O.M.E.E. CLINIC, INC | NY | 131,936
Harlem United Community AIDS Center | NY | 364,817
Harlem United Community AIDS Center | NY | 227,834
HELP Social Service Corporation | NY | 1,008,349
HELP Social Service Corporation | NY | 791,172
HELP Suffolk Inc | NY | 127,897
Helping Hands Unlimited | NY | 160,886
Heritage Health and Housing, Inc | NY | 159,935
Heritage Health and Housing, Inc | NY | 249,494
Heritage Health and Housing, Inc | NY | 330,486
Heritage Health and Housing, Inc | NY | 110,528
Homeless Action Committee, Inc | NY | 79,747
Homeless Action Committee, Inc | NY | 69,974
Homeless Alliance of Western New York, Inc | NY | 156,450
Homeless and Travelers Aid Society of the Capital District, | NY | 113,701
Homeless and Travelers Aid Society of the Capital District, | NY | 186,957
Homeless and Travelers Aid Society of the Capital District, | NY | 80,523
Housing + Solutions | NY | 313,584
Housing + Solutions | NY | 231,676
Housing + Solutions | NY | 156,549
Housing Options Made Easy, Inc | NY | 227,772
Housing Options Made Easy, Inc | NY | 165,318
Housing Works, Inc | NY | 371,276
Housing Works, Inc | NY | 333,635
Housing Works, Inc | NY | 286,535
Housing Works, Inc | NY | 469,535
Hudson River Housing, Inc | NY | 40,274
Hudson River Housing, Inc | NY | 34,913
Hudson River Housing, Inc | NY | 138,842
Hudson River Housing, Inc | NY | 133,663
Human Services Coalition of Cayuga County Inc | NY | 15,460
Independent Living, Inc | NY | 60,315
Independent Living, Inc | NY | 129,885
Institute for Community Living, Inc | NY | 141,627
Institute for Community Living, Inc | NY | 230,945
Institute for Community Living, Inc | NY | 240,060
Institute for Community Living, Inc | NY | 315,787
Institute for Community Living, Inc | NY | 377,444
Institute for Community Living, Inc | NY | 126,394
Institute for Community Living, Inc | NY | 672,657
Institute for Community Living, Inc | NY | 181,207
Institute for Community Living, Inc | NY | 26,496
Institute for Community Living, Inc | NY | 109,319
Institute for Community Living, Inc | NY | 126,395
Interfaith Nutrition Network | NY | 34,959
Interfaith Partnership for the Homeless | NY | 145,105
Interfaith Partnership for the Homeless | NY | 53,683
JCTOD Outreach, Inc. dba Johnson Park Center | NY | 200,771
Jefferson County Department of Social Services | NY | 23,256
Jefferson County Department of Social Services | NY | 263,568
Jericho Project | NY | 49,671
Jewish Board of Family and Children's Services, Inc | NY | 283,500
Jewish Board of Family and Children's Services, Inc | NY | 415,395
Joseph's House and Shelter, Inc | NY | 61,493
Joseph's House and Shelter, Inc | NY | 55,491
Joseph's House and Shelter, Inc | NY | 70,000
Kenmore Housing Development Fund Corp | NY | 390,576
Lakeview Mental Health | NY | 84,091
Lantern Community Services | NY | 630,000
Legal Aid Society of Northeastern New York | NY | 33,183
Legal Aid Society of Northeastern New York | NY | 30,120
Legal Aid Society of Northeastern New York | NY | 35,595
Legal Assistance of Western New York, Inc | NY | 33,600
Lenox Hill Neighborhood House | NY | 285,998
Liberty Resources, Inc | NY | 63,355
Long Island Coalition for the Homeless | NY | 63,000
Long Island Coalition for the Homeless | NY | 21,000
Long Island Coalition for the Homeless | NY | 134,400
Long Island Coalition for the Homeless | NY | 79,573
Long Island Coalition for the Homeless | NY | 70,000
Lower Eastside Service Center, Inc | NY | 492,100
Lower Eastside Service Center, Inc | NY | 300,000
Lutheran Social Services of New York | NY | 210,000
Lutheran Social Services of New York | NY | 397,950
Mental Health America of Dutchess County | NY | 54,250
Mental Health Association in Orange County, Inc | NY | 244,472
Mental Health Association in Ulster County Inc | NY | 58,209
Mental Health Association of Nassau County | NY | 205,475
Mental Health Association of New York City, Inc | NY | 584,272
Mental Health Association of New York City, Inc | NY | 291,244
MercyHaven, Inc | NY | 10,194
Metropolitan Council on Jewish Poverty | NY | 99,942
Mohawk Opportunities, Inc | NY | 125,347
Mohawk Opportunities, Inc | NY | 72,612
Mohawk Opportunities, Inc | NY | 56,355
MOMMAS, Inc | NY | 57,135
Monroe County | NY | 51,030
MTI Residential Services Inc | NY | 217,003
MTI Residential Services Inc | NY | 165,608
MTI Residential Services Inc | NY | 173,820
Nassau County Coalition Against Domestic Violence | NY | 136,603
Nassau County Coalition Against Domestic Violence | NY | 105,202
Nassau County Coalition Against Domestic Violence | NY | 122,356
Nassau/Suffolk Law Services Committee, Inc | NY | 69,616
Nassau/Suffolk Law Services Committee, Inc | NY | 69,616
Nassau/Suffolk Law Services Committee, Inc | NY | 54,090
Neighborhood Coalition for Shelter | NY | 243,070
Newburgh Interfaith Emergency Housing Inc | NY | 102,234
NYC Department of Housing Preservation and Development | NY | 559,680
NYC Department of Housing Preservation and Development | NY | 643,632
NYC Department of Housing Preservation and Development | NY | 65,640
NYC Department of Housing Preservation and Development | NY | 447,744
NYC Department of Housing Preservation and Development | NY | 601,656
NYC Department of Housing Preservation and Development | NY | 475,728
NYC Department of Housing Preservation and Development | NY | 601,656
NYC Department of Housing Preservation and Development | NY | 475,728
NYC Department of Housing Preservation and Development | NY | 559,680
NYC Department of Housing Preservation and Development | NY | 559,680
NYC Department of Housing Preservation and Development | NY | 349,800
NYC Department of Housing Preservation and Development | NY | 898,596
NYC Department of Housing Preservation and Development | NY | 1,049,400
NYC Department of Housing Preservation and Development | NY | 839,520
NYC Department of Housing Preservation and Development | NY | 475,728
NYC Department of Housing Preservation and Development | NY | 783,552
NYC Department of Housing Preservation and Development | NY | 1,007,424
NYC Department of Housing Preservation and Development | NY | 580,800
NYC Department of Housing Preservation and Development | NY | 279,840
NYC Department of Housing Preservation and Development | NY | 475,728
NYC Department of Housing Preservation and Development | NY | 810,048
NYC Department of Housing Preservation and Development | NY | 1,399,200
NYC Department of Housing Preservation and Development | NY | 1,189,320
NYC Department of Housing Preservation and Development | NY | 319,104
NYC Department of Housing Preservation and Development | NY | 699,600
NYC Department of Housing Preservation and Development | NY | 632,748
NYC Department of Housing Preservation and Development | NY | 447,744
NYC Department of Housing Preservation and Development | NY | 405,768
NYC Department of Housing Preservation and Development | NY | 1,958,880
NYC Department of Housing Preservation and Development | NY | 447,744
NYC Department of Housing Preservation and Development | NY | 321,816
NYC Department of Housing Preservation and Development | NY | 263,868
NYC Department of Housing Preservation and Development | NY | 699,600
NYC Department of Housing Preservation and Development | NY | 469,092
NYC Department of Housing Preservation and Development | NY | 699,600
NYC Department of Housing Preservation and Development | NY | 559,680
NYC Department of Housing Preservation and Development | NY | 979,440
NYC Department of Housing Preservation and Development | NY | 601,656
NYC Department of Housing Preservation and Development | NY | 601,656
NYC Department of Housing Preservation and Development | NY | 1,762,992
NYC Department of Housing Preservation and Development | NY | 503,712
NYC Department of Housing Preservation and Development | NY | 601,656
NYC Department of Housing Preservation and Development | NY | 4,210,260
NYC Department of Housing Preservation and Development | NY | 615,648
NYC Department of Housing Preservation and Development | NY | 503,712
NYC Department of Housing Preservation and Development | NY | 377,784
NYC Department of Housing Preservation and Development | NY | 209,880
NYS Office of Alcoholism and Substance Abuse Services | NY | 198,708
NYS Office of Alcoholism and Substance Abuse Services | NY | 932,244
NYS Office of Alcoholism and Substance Abuse Services | NY | 99,960
NYS Office of Alcoholism and Substance Abuse Services | NY | 151,320
NYS Office of Alcoholism and Substance Abuse Services | NY | 420,948
NYS Office of Alcoholism and Substance Abuse Services | NY | 82,824
NYS Office of Alcoholism and Substance Abuse Services | NY | 764,556
NYS Office of Alcoholism and Substance Abuse Services | NY | 275,220
NYS Office of Alcoholism and Substance Abuse Services | NY | 110,844
NYS Office of Alcoholism and Substance Abuse Services | NY | 479,388
NYS Office of Alcoholism and Substance Abuse Services | NY | 320,592
NYS Office of Alcoholism and Substance Abuse Services | NY | 759,348
NYS Office of Alcoholism and Substance Abuse Services | NY | 215,256
NYS Office of Alcoholism and Substance Abuse Services | NY | 145,332
NYS Office of Alcoholism and Substance Abuse Services | NY | 129,576
NYS Office of Alcoholism and Substance Abuse Services | NY | 202,968
NYS Office of Alcoholism and Substance Abuse Services | NY | 367,092
NYS Office of Alcoholism and Substance Abuse Services | NY | 144,708
NYS Office of Alcoholism and Substance Abuse Services | NY | 158,736
NYS Office of Alcoholism and Substance Abuse Services | NY | 223,680
NYS Office of Alcoholism and Substance Abuse Services | NY | 162,012
NYS Office of Alcoholism and Substance Abuse Services | NY | 135,048
NYS Office of Alcoholism and Substance Abuse Services | NY | 302,640
NYS Office of Alcoholism and Substance Abuse Services | NY | 509,004
NYS Office of Alcoholism and Substance Abuse Services | NY | 765,816
NYS Office of Alcoholism and Substance Abuse Services | NY | 332,904
NYS Office of Alcoholism and Substance Abuse Services | NY | 105,132
NYS Office of Alcoholism and Substance Abuse Services | NY | 195,492
NYS Office of Alcoholism and Substance Abuse Services | NY | 199,992
NYS Office of Alcoholism and Substance Abuse Services | NY | 229,752
NYS Office of Alcoholism and Substance Abuse Services | NY | 144,444
NYS Office of Alcoholism and Substance Abuse Services | NY | 196,716
NYS Office of Alcoholism and Substance Abuse Services | NY | 216,384
NYS Office of Alcoholism and Substance Abuse Services | NY | 200,124
NYS Office of Alcoholism and Substance Abuse Services | NY | 218,544
NYS Office of Alcoholism and Substance Abuse Services | NY | 134,688
NYS Office of Alcoholism and Substance Abuse Services | NY | 121,728
NYS Office of Alcoholism and Substance Abuse Services | NY | 239,040
NYS Office of Mental Health | NY | 156,408
NYS Office of Mental Health | NY | 101,304
NYS Office of Mental Health | NY | 341,004
NYS Office of Mental Health | NY | 182,232
NYS Office of Mental Health | NY | 39,864
NYS Office of Mental Health | NY | 95,760
NYS Office of Mental Health | NY | 202,608
NYS Office of Mental Health | NY | 510,132
NYS Office of Mental Health | NY | 125,928
NYS Office of Mental Health | NY | 106,596
NYS Office of Mental Health | NY | 306,960
NYS Office of Mental Health | NY | 253,260
NYS Office of Mental Health | NY | 367,500
NYS Office of Mental Health | NY | 479,988
NYS Office of Mental Health | NY | 371,628
NYS Office of Mental Health | NY | 301,500
NYS Office of Mental Health | NY | 179,304
NYS Office of Mental Health | NY | 112,692
NYS Office of Mental Health | NY | 173,448
NYS Office of Mental Health | NY | 593,880
NYS Office of Mental Health | NY | 218,712
NYS Office of Mental Health | NY | 395,436
NYS Office of Mental Health | NY | 163,368
NYS Office of Mental Health | NY | 353,100
Oneida County Department of Mental Health | NY | 14,927
Oneida County Department of Mental Health | NY | 104,900
Oneida County Department of Mental Health | NY | 37,483
Oneida County Workforce Development | NY | 39,900
Onondaga Case Management Services, Inc | NY | 234,486
Options for Community Living, Inc | NY | 86,706
Options for Community Living, Inc | NY | 48,622
Options for Community Living, Inc | NY | 85,870
Options for Community Living, Inc | NY | 80,563
Options for Community Living, Inc | NY | 119,592
Options for Community Living, Inc | NY | 49,804
Options for Independence | NY | 73,960
Options for Independence | NY | 79,540
Orange County | NY | 67,968
Orange County | NY | 67,968
Palladia, Inc | NY | 458,882
Palladia, Inc | NY | 158,957
Palladia, Inc | NY | 492,830
Palladia, Inc | NY | 137,536
Palladia, Inc | NY | 265,599
Palladia, Inc | NY | 282,790
Palladia, Inc | NY | 830,975
Palladia, Inc | NY | 704,884
Palladia, Inc | NY | 265,060
Palladia, Inc | NY | 556,583
PathStone Corporation | NY | 65,450
PathStone Corporation | NY | 16,687
Pathways to Housing Inc | NY | 274,156
Pathways to Housing Inc | NY | 538,701
Pathways to Housing Inc | NY | 154,015
Pathways to Housing Inc | NY | 426,777
Pathways to Housing Inc | NY | 584,268
Phase Piggy Back Inc | NY | 305,947
Phase Piggy Back Inc | NY | 137,838
Pibly Residential Programs, Inc | NY | 463,234
Plattsburgh Housing Authority | NY | 110,712
Plattsburgh Housing Authority | NY | 55,356
Postgraduate Center for Mental Health | NY | 472,677
Praxis Housing Initiatives, Inc | NY | 800,633
Project Hospitality 385 Housing Development Fund Corporation | NY | 477,034
Project Hospitality, Inc | NY | 371,843
Project Renewal, Inc | NY | 409,798
Project Renewal, Inc | NY | 328,300
Project Renewal, Inc | NY | 135,568
Project Renewal, Inc | NY | 428,982
Project Renewal, Inc | NY | 670,770
Project Renewal, Inc | NY | 322,845
Project Renewal, Inc | NY | 532,669
Projects to Empower and Organize the Psychiatrically Labeled | NY | 82,152
Projects to Empower and Organize the Psychiatrically Labeled | NY | 58,999
Providence Housing Development Corporation | NY | 602,168
Regional Economic Community Action Program, Inc | NY | 72,376
Rehabilitation Support Services | NY | 60,119
Rehabilitation Support Services | NY | 66,381
Rehabilitation Support Services | NY | 104,372
Rehabilitation Support Services, Inc | NY | 69,865
Rochester Housing Authority | NY | 157,920
Rochester Housing Authority | NY | 90,360
Rochester Housing Authority | NY | 522,000
Rochester Housing Authority | NY | 186,852
Rochester Housing Authority | NY | 2,268,504
Rochester Housing Authority | NY | 880,692
Rochester Housing Authority | NY | 357,120
Rochester Housing Authority | NY | 725,784
Rochester Housing Authority | NY | 208,836
Rochester Housing Authority | NY | 324,600
Rockland County, New York | NY | 105,833
Rockland County, New York | NY | 74,000
Rockland County, New York | NY | 215,610
Safe Harbors of the Hudson, Inc | NY | 157,500
SAFE Inc., of Schenectady | NY | 48,267
Safe Space NYC Inc | NY | 225,610
Samaritan Village, Inc | NY | 342,709
Samaritan Village, Inc | NY | 183,750
Saratoga County Rural Preservation Company | NY | 43,417
Schenectady Community Action Program, Inc | NY | 145,166
Schenectady Community Action Program, Inc | NY | 163,231
Schenectady Community Action Program, Inc | NY | 165,905
Schenectady Community Action Program, Inc | NY | 110,205
Schenectady Municipal Housing Authority | NY | 467,232
Services for the UnderServed, Inc | NY | 141,516
Services for the UnderServed, Inc | NY | 404,203
Services for the UnderServed, Inc | NY | 345,362
Services for the UnderServed, Inc | NY | 536,347
Services for the UnderServed, Inc | NY | 74,812
Services for the UnderServed, Inc | NY | 210,728
Services for the UnderServed, Inc | NY | 588,490
Society of St. Vincent de Paul, Diocesan Council of RVC | NY | 103,571
Society of St. Vincent de Paul, Diocesan Council of RVC | NY | 252,559
Society of St. Vincent de Paul, Diocesan Council of RVC | NY | 257,300
Society of St. Vincent de Paul, Diocesan Council of RVC | NY | 166,135
Society of St. Vincent de Paul, Diocesan Council of RVC | NY | 214,894
Society of St. Vincent de Paul, Diocesan Council of RVC | NY | 154,509
Sojourner House at PathStone, Inc | NY | 135,640
Sojourner House at PathStone, Inc | NY | 89,273
South shore Association for Independent Living, Inc | NY | 92,922
South shore Association for Independent Living, Inc | NY | 148,713
South shore Association for Independent Living, Inc | NY | 225,038
Southern Tier Environments for Living, Inc | NY | 56,516
Spanish Action League of Onondaga County, Inc | NY | 33,247
Spiritus Christi Prison Outreach, Inc | NY | 143,149
Spiritus Christi Prison Outreach, Inc | NY | 94,500
Spiritus Christi Prison Outreach, Inc | NY | 80,000
Steuben Churchpeople Against Poverty, Inc | NY | 68,137
Steuben County | NY | 426,168
Suburban Housing Development & Research, Inc | NY | 55,836
Suburban Housing Development & Research, Inc | NY | 38,451
Suburban Housing Development & Research, Inc | NY | 123,680
Suburban Housing Development & Research, Inc | NY | 42,000
Suffolk County United Veterans | NY | 69,908
Support Ministries, Inc | NY | 112,137
Support Ministries, Inc | NY | 91,705
Syracuse Brick House Inc | NY | 182,292
Syracuse Brick House Inc | NY | 111,286
Syracuse Brick House Inc | NY | 272,450
Syracuse Brick House Inc | NY | 105,256
Syracuse Brick House Inc | NY | 83,988
Syracuse Brick House Inc | NY | 95,899
Syracuse Brick House Inc | NY | 95,252
Syracuse Brick House Inc | NY | 221,092
Syracuse Brick House Inc | NY | 187,426
Syracuse Housing Authority | NY | 1,844,280
Syracuse Housing Authority | NY | 759,432
Tempro Development co. Inc | NY | 126,622
The Bridge Inc | NY | 112,163
The Bridge Inc | NY | 366,262
The Bridge Inc | NY | 115,431
The Bridge Inc | NY | 304,581
The Bridge Inc | NY | 101,909
The Bridge Inc | NY | 224,339
The Center for Youth Services, Inc | NY | 33,251
The Center for Youth Services, Inc | NY | 126,871
The City of New York Department of Homeless Services | NY | 545,459
The City of New York Department of Homeless Services | NY | 728,535
The Doe Fund, Inc | NY | 348,447
The Doe Fund, Inc | NY | 1,062,269
The Doe Fund, Inc | NY | 1,951,512
The Fortune Society, Inc | NY | 448,157
The Mental Health Association of Columbia-Greene Counties, | NY | 78,210
The Mental Health Association of Columbia-Greene Counties, | NY | 29,932
The Mental Health Association of Columbia-Greene Counties, | NY | 20,483
The Municipal Housing Authority for the City of Yonkers | NY | 20,256
The Municipal Housing Authority for the City of Yonkers | NY | 48,729
The Municipal Housing Authority for the City of Yonkers | NY | 450,840
The Municipal Housing Authority for the City of Yonkers | NY | 236,659
The Municipal Housing Authority for the City of Yonkers | NY | 32,333
The Municipal Housing Authority for the City of Yonkers | NY | 102,274
The Municipal Housing Authority for the City of Yonkers | NY | 20,256
The Municipal Housing Authority for the City of Yonkers | NY | 73,049
The Municipal Housing Authority for the City of Yonkers | NY | 105,000
The Municipal Housing Authority for the City of Yonkers | NY | 46,034
The Municipal Housing Authority for the City of Yonkers | NY | 180,713
The Rescue Mission Alliance of Syracuse, NY | NY | 100,000
The Salvation Army | NY | 51,427
The Salvation Army | NY | 83,702
The Salvation Army | NY | 221,056
The Salvation Army | NY | 99,999
The Salvation Army | NY | 115,448
The Salvation Army | NY | 163,244
The Salvation Army | NY | 52,789
The Salvation Army | NY | 236,697
The Salvation Army | NY | 293,290
Tompkins Community Action, Inc | NY | 84,713
Tompkins Community Action, Inc | NY | 60,126
Transitional Services Association, Inc | NY | 34,721
Transitional Services of New York for Long Island, Inc | NY | 57,456
Troy Housing Authority | NY | 102,384
Troy Housing Authority | NY | 230,988
Troy Housing Authority | NY | 35,376
Troy Housing Authority | NY | 57,564
Troy Housing Authority | NY | 89,544
Troy Housing Authority | NY | 26,532
Troy Housing Authority | NY | 250,188
Ulster County Department of Social Services | NY | 179,472
Ulster County Department of Social Services | NY | 309,456
United Bronx Parents, Inc | NY | 419,528
United Cerebral Palsy and Handicapped Persons Association | NY | 175,085
United Church Home, Inc | NY | 654,525
United Veterans Beacon House, Inc | NY | 136,099
Unity House of Troy, Inc | NY | 625,830
Unity House of Troy, Inc | NY | 61,454
Unity House of Troy, Inc | NY | 183,170
University Consultation & Treatment Center for Mental Hygien | NY | 244,998
Urban Justice Center | NY | 142,711
Urban Justice Center | NY | 109,686
Urban Pathways, Inc | NY | 357,451
Urban Pathways, Inc | NY | 174,673
Urban Pathways, Inc | NY | 149,030
Urban Resource Institute | NY | 250,294
Veritas Therapeutic Community Inc | NY | 273,347
Veritas Therapeutic Community Inc | NY | 102,678
Veterans Outreach Center | NY | 76,127
Violence Intervention Program, Inc | NY | 324,920
Vocational Instruction Project Community Services, Inc | NY | 227,666
Vocational Instruction Project Community Services, Inc | NY | 278,854
Vocational Instruction Project Community Services, Inc | NY | 90,016
Volunteers of America of Western New York, Inc | NY | 166,000
Volunteers of America of Western New York, Inc | NY | 430,000
Volunteers of America of Western New York, Inc | NY | 692,850
Warren Washington Association for Mental Health | NY | 38,608
Warren Washington Association for Mental Health | NY | 39,099
Warren Washington Association for Mental Health | NY | 16,065
Wayne County Action Program, Inc | NY | 22,256
Wayne County Action Program, Inc | NY | 50,826
West Side Federation for Senior and Supportive Housing, Inc | NY | 362,197
West Side Federation for Senior and Supportive Housing, Inc | NY | 155,715
West Side Federation for Senior and Supportive Housing, Inc | NY | 110,205
Westchester County Dept. of Social Services | NY | 100,000
Westchester County Dept. of Social Services | NY | 48,530
Westchester County Dept. of Social Services | NY | 105,000
Westchester County Dept. of Social Services | NY | 525,185
Westchester County Dept. of Social Services | NY | 30,000
Westchester County Dept. of Social Services | NY | 121,776
Westchester County Dept. of Social Services | NY | 205,485
Westchester County Dept. of Social Services | NY | 345,652
Weston United Community Renewal, Inc | NY | 224,900
Wilson Commencement Park | NY | 139,025
Women In Need, Inc | NY | 446,787
Women In Need, Inc | NY | 327,681
Women In Need, Inc | NY | 326,070
Women In Need, Inc | NY | 405,062
Women In Need, Inc | NY | 363,711
Women In Need, Inc | NY | 265,059
Women In Need, Inc | NY | 325,270
Y.W.C.A. of the Mohawk Valley | NY | 161,836
Y.W.C.A. of the Mohawk Valley | NY | 354,107
YMCA of Greater New York | NY | 570,504
Young Women's Christian Association of Syracuse & Onondaga C | NY | 165,768
YWCA of Binghamton/Broome County | NY | 152,077
YWCA of Binghamton/Broome County | NY | 107,081
YWCA of Binghamton/Broome County | NY | 99,074
YWCA of Rochester and Monroe County | NY | 123,781
YWCA of Schenectady | NY | 211,271
YWCA of the Greater Capital Region | NY | 76,958
YWCA of the Greater Capital Region | NY | 26,250
YWCA of the Tonawandas and Niagara Frontier, Inc | NY | 31,271
YWCA of Western New York, Inc | NY | 70,367
300 Beds, Inc./Harbor House | OH | 117,551
ACCESS, Inc | OH | 118,711
Akron Metropolitan Housing Authority | OH | 247,716
Akron Metropolitan Housing Authority | OH | 73,752
Akron Metropolitan Housing Authority | OH | 200,784
Akron Metropolitan Housing Authority | OH | 441,996
Allen Metropolitan Housing Authority | OH | 178,200
Alliance for Children & Families | OH | 126,786
Alliance for Children & Families | OH | 202,003
Amethyst, Inc | OH | 163,120
Appleseed Community Mental Health Center, Inc | OH | 67,549
Ashtabula County Mental Health and Recovery Services Board | OH | 316,992
Athens Metropolitan Housing Authority | OH | 164,040
Athens Metropolitan Housing Authority | OH | 219,108
Aurora Project, Inc | OH | 103,772
Beatitude House | OH | 207,028
Beatitude House | OH | 141,334
Beatitude House | OH | 134,435
Bethany House Services, Inc | OH | 316,538
Bethany House Services, Inc | OH | 26,174
Catholic Charities Diocese of Toledo, Inc | OH | 128,108
Catholic Charities Diocese of Toledo, Inc | OH | 89,397
Catholic Charities Diocese of Toledo, Inc | OH | 86,552
Catholic Charities Regional Agency | OH | 51,888
Center for Respite Care, Inc | OH | 314,386
Center for Respite Care, Inc | OH | 159,420
Cincinnati/Hamilton County CoC for the Homeless, Inc | OH | 285,701
Cincinnati/Hamilton County CoC for the Homeless, Inc | OH | 95,645
CincySmiles Foundation | OH | 179,765
City of Cincinnati | OH | 117,600
City of Cincinnati | OH | 5,089,308
City of Cincinnati | OH | 276,696
City of Cincinnati | OH | 858,060
City of Cincinnati | OH | 422,520
City of Cincinnati | OH | 441,000
City of Dayton, Ohio | OH | 443,856
City of Dayton, Ohio | OH | 1,885,464
City of Dayton, Ohio | OH | 160,080
City of Springfield | OH | 31,680
City of Youngstown | OH | 249,840
Cleveland Tenants Organization | OH | 52,500
Cogswell Hall, Inc | OH | 97,735
Coleman Professional Services | OH | 89,462
Coleman Professional Services | OH | 70,000
Coleman Professional Services | OH | 70,927
Coleman Professional Services | OH | 31,521
Columbiana County Mental Health Clinic dba The Counseling Ce | OH | 36,667
Columbiana Metropolitan Housing Authority | OH | 224,028
Columbiana Metropolitan Housing Authority | OH | 30,240
Columbiana Metropolitan Housing Authority | OH | 30,240
Columbus Metropolitan Housing Authority | OH | 1,214,460
Columbus Metropolitan Housing Authority | OH | 1,313,004
Columbus Metropolitan Housing Authority | OH | 687,708
Columbus Metropolitan Housing Authority | OH | 119,400
Columbus Metropolitan Housing Authority | OH | 735,564
Columbus Metropolitan Housing Authority | OH | 93,480
Community Action Agency of Columbiana County, Inc | OH | 95,730
Community Action Commission of Fayette County | OH | 64,914
Community Action Partnership of the Greater Dayton Area | OH | 56,371
Community Health Center | OH | 29,049
Community Health Center | OH | 73,165
Community Health Center | OH | 116,475
Community Housing Network, Inc | OH | 226,315
Community Housing Network, Inc | OH | 245,103
Community Housing Network, Inc | OH | 260,673
Community Housing Network, Inc | OH | 97,293
Community Housing Network, Inc | OH | 184,834
Community Housing Network, Inc | OH | 236,416
Community Housing Network, Inc | OH | 35,233
Community Housing Network, Inc | OH | 298,939
Community Housing Network, Inc | OH | 656,422
Community Housing Network, Inc | OH | 87,316
Community Housing Network, Inc | OH | 83,283
Community Housing Network, Inc | OH | 59,060
Community Legal Aid Services, Inc | OH | 17,850
Community Services of Stark County, Inc | OH | 133,333
Community Shelter Board | OH | 166,413
Community Support Services Inc | OH | 396,824
Community Support Services, Inc | OH | 878,580
Community Support Services, Inc | OH | 162,365
Continue Life Inc | OH | 212,973
Crisis Intervention and Recovery Center, Inc | OH | 62,132
Cuyahoga County | OH | 9,874,464
Cuyahoga County | OH | 148,236
Cuyahoga County | OH | 174,731
Cuyahoga County | OH | 317,109
Cuyahoga County | OH | 77,167
Cuyahoga County | OH | 157,872
Cuyahoga County | OH | 432,600
Cuyahoga County | OH | 302,400
Cuyahoga County | OH | 270,705
Cuyahoga County | OH | 537,741
Cuyahoga County | OH | 447,540
Cuyahoga Metropolitan Housing Authority | OH | 386,373
Daybreak, Inc | OH | 410,868
Daybreak, Inc | OH | 191,774
Emerald Development & Economic Network (EDEN), Inc | OH | 468,367
Emerald Development & Economic Network (EDEN), Inc | OH | 703,431
Emerald Development & Economic Network (EDEN), Inc | OH | 335,036
Emerald Development & Economic Network (EDEN), Inc | OH | 471,666
Emerald Development & Economic Network (EDEN), Inc | OH | 555,615
Emerald Development & Economic Network (EDEN), Inc | OH | 572,959
Emerald Development & Economic Network (EDEN), Inc | OH | 27,276
Family & Community Services, Inc | OH | 184,701
Family & Community Services, Inc | OH | 37,124
Family & Community Services, Inc | OH | 45,933
Family & Community Services, Inc | OH | 118,356
Family Abuse Shelter of Miami County, Inc | OH | 42,000
Family Abuse Shelter of Miami County, Inc | OH | 16,000
Family Outreach Community United Services | OH | 119,220
Family Outreach Community United Services | OH | 404,981
Family Outreach Community United Services | OH | 88,915
Family Outreach Community United Services | OH | 271,820
Family Outreach Community United Services | OH | 308,076
Family Recovery Center | OH | 70,606
Family Violence Prevention Center of Greene County, Inc | OH | 56,293
Family Violence Prevention Center of Greene County, Inc | OH | 66,761
Findlay Hope House for the Homeless, Inc | OH | 624,201
Freestore/Foodbank, Inc | OH | 72,886
Freestore/Foodbank, Inc | OH | 170,449
Geauga County Board of Mental Health & Recovery Services | OH | 89,040
Greene Metropolitan Housing Authority | OH | 147,768
H. M. Life Opportunity Services | OH | 179,584
Hitchcock Center For Women, Inc | OH | 275,403
Hitchcock Center For Women, Inc | OH | 236,841
Hocking Metropolitan Housing Authority | OH | 215,184
Homefull | OH | 174,394
Huckleberry House, Inc | OH | 235,406
Humility of Mary | OH | 76,624
Humility of Mary | OH | 32,322
ICAN Inc | OH | 100,497
ICAN Inc | OH | 86,692
ICAN Inc | OH | 77,350
ICAN Inc | OH | 48,134
ICAN Inc | OH | 89,860
ICAN Inc | OH | 46,856
Interfaith Hospitality Network of Greater Cincinnati | OH | 529,494
Interfaith Hospitality Network of Springfield, Inc | OH | 212,719
Ironton Lawrence County Area Community Action Organization I | OH | 104,200
Jefferson County Community Action Council | OH | 138,432
Jefferson County Prevention and Recovery Board | OH | 234,372
Jefferson County Prevention and Recovery Board | OH | 354,632
JOSEPH HOUSE, INC | OH | 77,049
JOSEPH HOUSE, INC | OH | 107,660
Joseph's Home | OH | 273,056
Knox Metropolitan Housing Authority | OH | 135,468
Lake County Alcohol, Drug Addiction and Mental Health Servic | OH | 216,744
Lake County Alcohol, Drug Addiction and Mental Health Servic | OH | 430,560
Lakewood Christian Service Center | OH | 41,398
Legacy III, Inc | OH | 360,408
Legacy III, Inc | OH | 75,920
Licking County Coalition for Housing | OH | 588,371
Licking Metropolitan Housing Authority | OH | 106,080
Licking Metropolitan Housing Authority | OH | 202,428
Lighthouse Youth Services, Inc | OH | 31,808
Lighthouse Youth Services, Inc | OH | 363,258
Lighthouse Youth Services, Inc | OH | 147,025
Lighthouse Youth Services, Inc | OH | 100,601
Lorain Metropolitan Housing Authority | OH | 509,280
Lucas Co. TASC, Inc | OH | 92,830
Lucas Co. TASC, Inc | OH | 212,595
Lutheran Metropolitan Ministry | OH | 50,157
Maryhaven | OH | 48,015
Maryhaven | OH | 137,936
McKinley Hall, Inc | OH | 40,615
Medina County Alcohol, Drug Addiction and Mental Health Boar | OH | 199,207
Medina Metropolitan Housing Authority | OH | 345,504
Mental Health & Recovery Board of Union County | OH | 73,361
Mental Health & Recovery Board of Union County | OH | 60,580
Mental Health and Recovery Services Board of Lucas County | OH | 94,140
Mental Health and Recovery Services Board of Lucas County | OH | 393,486
Mental Health and Recovery Services Board of Lucas County | OH | 241,752
Mental Health and Recovery Services Board of Stark County | OH | 105,437
Mental Health and Recovery Services Board of Stark County | OH | 47,957
Mental Health Services for Homeless Persons, Inc | OH | 264,099
Mental Health Services for Homeless Persons, Inc | OH | 39,032
Mental Health Services for Homeless Persons, Inc | OH | 229,897
Mental Health Services for Homeless Persons, Inc | OH | 469,586
Mental Health Services for Homeless Persons, Inc | OH | 456,968
Mental Health Services for Homeless Persons, Inc | OH | 446,546
Mental Health Services for Homeless Persons, Inc | OH | 459,931
Mental Health Services for Homeless Persons, Inc | OH | 509,646
Mental Health Services for Homeless Persons, Inc | OH | 206,741
Mental Health Services for Homeless Persons, Inc | OH | 1,318,590
Mental Health, Drug and Alcohol Services Board | OH | 40,348
Mercy Manor, Inc | OH | 101,718
Meridian Services, Inc | OH | 136,786
Meridian Services, Inc | OH | 80,876
Meridian Services, Inc | OH | 124,640
Meridian Services, Inc | OH | 113,300
Meridian Services, Inc | OH | 35,945
Miami Valley Housing Opportunities, Inc | OH | 50,364
Miami Valley Housing Opportunities, Inc | OH | 429,583
Miami Valley Housing Opportunities, Inc | OH | 127,105
Montgomery County Board of County Commissioners | OH | 137,898
National Church Residences | OH | 424,210
National Church Residences | OH | 250,092
Neighborhood Health Association of Toledo, Inc | OH | 52,979
Neighborhood Properties, Inc | OH | 77,675
Neighborhood Properties, Inc | OH | 229,249
Neighborhood Properties, Inc | OH | 239,499
Neighborhood Properties, Inc | OH | 180,088
Neighborhood Properties, Inc | OH | 108,889
Neighborhood Properties, Inc | OH | 90,649
Neighborhood Properties, Inc | OH | 73,975
New Life Community | OH | 55,643
New Sunrise Properties, Inc | OH | 28,137
North Coast Community Homes, Inc | OH | 33,468
Ohio Department of Development | OH | 212,536
Ohio Department of Development | OH | 245,000
Ohio Multi-County Development Corporation | OH | 126,029
Ohio Multi-County Development Corporation | OH | 360,628
Ohio Valley Goodwill Industries Rehabilitation Center, Inc | OH | 172,001
Oriana House, Inc | OH | 15,225
Otis Gibbs Helping Hand Center | OH | 109,922
Over-the-Rhine Community Housing | OH | 56,037
Pickaway County Community Action Organization, Inc | OH | 123,145
PLACES, Inc | OH | 71,081
PLACES, Inc | OH | 214,781
PLACES, Inc | OH | 735,220
PLACES, Inc | OH | 490,117
Portage Metropolitan Housing Authority | OH | 184,380
Preparation for Adult Living (PAL) Mission | OH | 66,666
Project Woman of Springfield and Clark County | OH | 35,679
Residential Administrators, Inc | OH | 102,721
Residential Administrators, Inc | OH | 95,962
Shelterhouse Volunteer Group | OH | 93,000
Shelterhouse Volunteer Group | OH | 247,062
Southeast, Inc | OH | 260,680
Springfield District Council of the St Vincent de Paul Socie | OH | 23,040
Springfield Metropolitan Housing Authority | OH | 107,448
St. Paul's Community Center | OH | 183,816
St. Paul's Community Center | OH | 399,487
St. Vincent de Paul Social Services, Inc | OH | 181,200
St. Vincent de Paul Social Services, Inc | OH | 106,910
St. Vincent de Paul Social Services, Inc | OH | 109,410
Stark Metropolitan Housing Authority | OH | 167,628
Stark Metropolitan Housing Authority | OH | 178,920
Stark Metropolitan Housing Authority | OH | 413,688
Summit County Children Services | OH | 115,643
Talbert House | OH | 165,000
Tender Mercies, Inc | OH | 299,491
Tender Mercies, Inc | OH | 58,630
The AIDS Taskforce of Greater Cleveland | OH | 111,330
The AIDS Taskforce of Greater Cleveland | OH | 75,655
The Center for Individual and Family Services | OH | 56,066
The Salvation Army | OH | 178,615
The Salvation Army | OH | 29,644
Tom Geiger Guest House, Inc | OH | 52,500
Transitional Housing, Inc | OH | 122,528
Tri-County Board of Recovery & Mental Health Services | OH | 36,408
Trumbull Mental Health and Recovery Board | OH | 230,436
Trumbull Mental Health and Recovery Board | OH | 97,767
Trumbull Mental Health and Recovery Board | OH | 1,395,720
Tuscarawas Metropolitan Housing Authority | OH | 132,744
Volunteers of America Northwest Ohio, Inc | OH | 286,661
Volunteers of America Northwest Ohio, Inc | OH | 291,955
Volunteers of America of Greater Ohio | OH | 357,325
Volunteers of America of Greater Ohio | OH | 262,500
Volunteers of America of Greater Ohio, Inc | OH | 246,967
Volunteers of America of Greater Ohio, Inc | OH | 79,155
Warren Metropolitan Housing Authority | OH | 184,574
Warren Metropolitan Housing Authority | OH | 390,159
West Side Catholic Center | OH | 120,901
West Side Catholic Center | OH | 19,339
West Side Catholic Center | OH | 127,829
West Side Catholic Center | OH | 97,182
WSOS Community Action Commission, Inc | OH | 53,774
WSOS Community Action Commission, Inc | OH | 435,196
WSOS Community Action Commission, Inc | OH | 293,822
YMCA of Greater Cleveland | OH | 905,203
YMCA of Greater Cleveland | OH | 187,351
Young Women's Christian Association | OH | 162,559
Young Women's Christian Association | OH | 99,015
Young Women's Christian Association of Canton | OH | 47,951
Young Women's Christian Association of Youngstown, Ohio | OH | 55,728
Young Women's Christian Association of Youngstown, Ohio | OH | 136,595
Young Women's Christian Association of Youngstown, Ohio | OH | 89,353
Young Women's Christian Association of Youngstown, Ohio | OH | 105,248
Young Women's Christian Association of Youngstown, Ohio | OH | 132,141
Youngstown Area Goodwill Industries, Inc | OH | 72,063
Youngstown State University | OH | 50,308
YWCA Dayton | OH | 405,799
YWCA Dayton | OH | 860,470
YWCA of Elyria | OH | 116,706
YWCA of Elyria | OH | 120,932
YWCA of Greater Cincinnati | OH | 423,315
YWCA of Greater Cincinnati | OH | 146,067
YWCA of Hamilton Ohio Inc | OH | 119,320
Zanesville Metropolitan Housing Authority | OH | 47,520
Central Oklahoma Community Action Agency, Inc | OK | 34,075
Central Oklahoma Community Action Agency, Inc | OK | 63,932
Central Oklahoma Community Action Agency, Inc | OK | 34,571
Central Oklahoma Community Action Agency, Inc | OK | 67,882
City of Oklahoma City | OK | 134,840
City of Oklahoma City | OK | 173,100
City of Oklahoma City | OK | 16,824
City of Oklahoma City | OK | 185,762
City of Oklahoma City | OK | 69,240
City of Oklahoma City | OK | 240,815
City of Oklahoma City | OK | 134,647
City of Oklahoma City | OK | 134,840
City of Oklahoma City | OK | 51,710
City of Oklahoma City | OK | 299,999
City of Oklahoma City | OK | 89,872
City of Oklahoma City | OK | 66,424
City of Oklahoma City | OK | 79,999
City of Oklahoma City | OK | 162,500
City of Oklahoma City | OK | 73,001
City of Oklahoma City | OK | 124,999
City of Oklahoma City | OK | 358,654
Community Action Resource & Development, Inc | OK | 13,718
Community Crisis Center, Inc | OK | 50,129
Community Service Council of Greater Tulsa | OK | 123,113
Domestic Violence Intervention Services, Inc | OK | 149,369
Domestic Violence Program of North Central Oklahoma, Inc | OK | 70,613
East Main Place, Inc | OK | 43,895
Food & Shelter for Friends | OK | 23,875
Food & Shelter for Friends | OK | 51,337
Freedom From Addiction Through Christ | OK | 199,646
Freedom From Addiction Through Christ | OK | 43,632
Housing Authority of the City of Norman | OK | 81,072
Lawton Housing Authority | OK | 22,050
Lawton Housing Authority | OK | 47,417
Legal Aid Services of Oklahoma, Inc | OK | 111,919
Mental Health Association in Tulsa, Inc | OK | 88,456
Mental Health Association in Tulsa, Inc | OK | 87,500
Mental Health Association in Tulsa, Inc | OK | 23,625
Mental Health Association in Tulsa, Inc | OK | 222,768
Mental Health Association in Tulsa, Inc | OK | 121,046
Mental Health Association in Tulsa, Inc | OK | 223,133
Mental Health Association in Tulsa, Inc | OK | 252,008
Mental Health Association in Tulsa, Inc | OK | 213,113
Northeast Oklahoma Community Action Agency, Inc | OK | 26,708
Northeast Oklahoma Community Action Agency, Inc | OK | 31,370
Northwest Domestic Crisis Services, Inc | OK | 118,544
Oklahoma Mental Health Council d/b/a Red Rock | OK | 162,451
Southern Territorial Headquarters of the Salvation Army, The | OK | 336,679
Southern Territorial Headquarters of the Salvation Army, The | OK | 110,431
State of Oklahoma | OK | 48,468
State of Oklahoma | OK | 179,976
United Way of Ponca City, Inc | OK | 44,765
Volunteers of America of Oklahoma, Inc | OK | 77,914
Volunteers of America of Oklahoma, Inc | OK | 125,481
Volunteers of America of Oklahoma, Inc | OK | 103,663
Volunteers of America of Oklahoma, Inc | OK | 211,941
Waynoka Mental Health Authority | OK | 224,439
ACCESS, Inc | OR | 10,901
Bradley-Angle House | OR | 73,987
Cascadia Behavioral HealthCare | OR | 15,384
Cascadia Behavioral HealthCare | OR | 698,336
Cascadia Behavioral HealthCare | OR | 271,872
Cascadia Behavioral HealthCare | OR | 125,582
Central City Concern | OR | 104,772
Central City Concern | OR | 160,602
Central City Concern | OR | 223,014
Central City Concern | OR | 236,968
City of Portland | OR | 241,074
City of Portland | OR | 271,986
Clackamas County Department of Human Services | OR | 114,200
Clackamas County Department of Human Services | OR | 184,229
Clackamas County Department of Human Services | OR | 102,154
Clackamas County Department of Human Services | OR | 64,057
Clackamas County Department of Human Services | OR | 29,977
Clackamas Women's Services | OR | 81,290
Clatsop Community Action | OR | 17,951
Community Action | OR | 165,218
Community Action Program of East Central Oregon | OR | 72,574
Community Action Team, Inc | OR | 28,996
Community Action Team, Inc | OR | 99,110
Community Action Team, Inc | OR | 26,767
Community Action Team, Inc | OR | 67,594
Community Connection of Northeast Oregon, Inc | OR | 37,748
Community Connection of Northeast Oregon, Inc | OR | 56,658
Community Services Consortium | OR | 76,122
Community Works | OR | 119,700
County of Multnomah | OR | 12,635
County of Multnomah | OR | 462,083
County of Multnomah | OR | 1,150,995
County of Multnomah | OR | 142,142
County of Multnomah | OR | 45,801
County of Multnomah | OR | 278,736
Eastern Oregon Alcoholism Foundation, Inc | OR | 35,467
Housing and Community Services Agency of Lane County | OR | 423,132
Housing Authority of Clackamas County | OR | 332,640
Housing Authority of Clackamas County | OR | 71,886
Housing Authority of Portland | OR | 268,164
Housing Authority of Portland | OR | 1,944,384
Housing Authority of Portland | OR | 483,696
Housing Authority of Portland | OR | 511,272
Housing Authority of Portland | OR | 399,684
Housing Authority of Portland | OR | 470,592
Human Solutions, Inc | OR | 51,905
Human Solutions, Inc | OR | 104,928
Lane County | OR | 30,835
Lane County | OR | 174,549
Lane County | OR | 527,903
Lane County | OR | 131,705
Lane County | OR | 323,346
Lane County | OR | 96,260
Lincoln County Council on Alcohol & Drug Abuse, Inc | OR | 43,311
Linn-Benton Housing Authority | OR | 66,578
Mid-Columbia Community Action Council Inc | OR | 11,605
Mid-Columbia Community Action Council Inc | OR | 58,248
Mid-Willamette Valley Community Action Agency | OR | 83,572
Mid-Willamette Valley Community Action Agency | OR | 30,394
Mid-Willamette Valley Community Action Agency | OR | 306,901
Neighborhood House | OR | 276,770
NeighborImpact | OR | 302,996
Northwest Human Services, Inc | OR | 67,268
Northwest Human Services, Inc | OR | 235,025
Northwest Pilot Project, Inc | OR | 122,879
Open Door Counseling Center | OR | 38,095
Oregon Coast Community Action | OR | 14,910
Oregon Coast Community Action | OR | 97,387
Oregon Coast Community Action | OR | 22,025
Oregon Coast Community Action | OR | 26,463
Oregon Coast Community Action | OR | 14,314
Oregon Coast Community Action | OR | 82,535
Oregon Housing and Community Services | OR | 32,081
Oregon Human Development Corporation | OR | 41,820
Oregon State Department of Human Services | OR | 17,496
Oregon State Department of Human Services | OR | 82,006
Oregon State Department of Human Services | OR | 24,645
Portland Impact, Inc | OR | 115,737
Rogue Valley Council of Governments | OR | 136,957
Shangri-La Corporation | OR | 37,800
Shangri-La Corporation | OR | 153,860
St. Vincent de Paul Society of Lane County, Inc | OR | 249,736
St. Vincent de Paul Society of Lane County, Inc | OR | 88,470
St. Vincent de Paul Society of Lane County, Inc | OR | 56,904
St. Vincent de Paul Society of Lane County, Inc | OR | 222,219
The Inn-Home for Boys | OR | 33,870
The Inn-Home for Boys | OR | 244,192
The Salvation Army | OR | 39,375
The Salvation Army, A California Corp | OR | 50,000
The Salvation Army, A California Corporation | OR | 125,769
The Salvation Army, A California Corporation | OR | 539,104
Tillamook Co. Community Action Resource Enterprises, Inc | OR | 25,061
Tillamook Co. Community Action Resource Enterprises, Inc | OR | 112,175
Transition Projects, Inc | OR | 277,367
Transition Projects, Inc | OR | 116,302
Transition Projects, Inc | OR | 243,041
United Community Action Network | OR | 42,525
United Community Action Network | OR | 35,555
United Community Action Network | OR | 59,368
United Community Action Network | OR | 80,425
Washington County Department of Housing Services | OR | 119,465
Washington County Department of Housing Services | OR | 136,523
Washington County Department of Housing Services | OR | 83,868
Washington County Department of Housing Services | OR | 291,867
Washington County Department of Housing Services | OR | 39,000
Washington County Department of Housing Services | OR | 31,027
Washington County Department of Housing Services | OR | 134,460
Washington County Department of Housing Services | OR | 1,074,780
Washington County Department of Housing Services | OR | 14,496
Yamhill Community Action Partnerships | OR | 41,046
1260 Housing Development Corporation | PA | 144,900
1260 Housing Development Corporation | PA | 201,685
1260 Housing Development Corporation | PA | 528,524
1260 Housing Development Corporation | PA | 260,604
1260 Housing Development Corporation | PA | 67,686
AchieveAbility | PA | 161,700
AchieveAbility | PA | 42,000
AchieveAbility | PA | 210,000
ActionAIDS, Inc | PA | 249,417
ActionAIDS, Inc | PA | 178,750
Adams County Housing Authority | PA | 39,745
AIDS Care Group | PA | 361,877
Allegheny County Department of Human Services | PA | 838,500
Allegheny County Department of Human Services | PA | 350,870
Allegheny County Department of Human Services | PA | 64,890
Allegheny County Department of Human Services | PA | 606,630
Allegheny County Department of Human Services | PA | 177,471
Allegheny County Department of Human Services | PA | 242,611
Allegheny County Department of Human Services | PA | 99,378
Allegheny County Department of Human Services | PA | 55,282
Allegheny County Department of Human Services | PA | 105,875
Allegheny County Department of Human Services | PA | 27,384
Allegheny County Department of Human Services | PA | 91,862
Allegheny County Department of Human Services | PA | 106,050
Allegheny County Department of Human Services | PA | 68,404
Allegheny County Department of Human Services | PA | 251,514
Allegheny County Department of Human Services | PA | 173,157
Allegheny County Department of Human Services | PA | 120,750
Allegheny County Department of Human Services | PA | 107,841
Allegheny County Department of Human Services | PA | 193,696
Allegheny County Department of Human Services | PA | 737,100
Allegheny County Department of Human Services | PA | 195,223
Allegheny County Department of Human Services | PA | 215,526
Allegheny County Department of Human Services | PA | 362,820
Allegheny County Department of Human Services | PA | 868,329
Allegheny County Department of Human Services | PA | 87,995
Allegheny County Department of Human Services | PA | 251,286
Allegheny County Department of Human Services | PA | 39,454
Allegheny County Department of Human Services | PA | 386,977
Allegheny County Department of Human Services | PA | 259,638
Allegheny County Department of Human Services | PA | 73,143
Allegheny County Department of Human Services | PA | 55,556
Allegheny County Department of Human Services | PA | 68,355
Allegheny County Department of Human Services | PA | 174,237
Allegheny County Department of Human Services | PA | 2,184,420
Allegheny County Department of Human Services | PA | 190,890
Allegheny County Department of Human Services | PA | 152,566
Allegheny County Department of Human Services | PA | 2,304,000
Allegheny County Department of Human Services | PA | 224,833
Allegheny County Department of Human Services | PA | 133,992
Allegheny County Department of Human Services | PA | 109,440
Allegheny County Department of Human Services | PA | 393,828
American Red Cross, The | PA | 80,905
American Rescue Workers Inc | PA | 116,793
Armstrong County Community Action Agency | PA | 126,728
Armstrong County Community Action Agency | PA | 121,082
Asociacion Puertoriquenos en Marcha, Inc | PA | 129,778
Asociacion Puertoriquenos en Marcha, Inc | PA | 149,711
Berks Counseling Center, Inc | PA | 170,019
Berks Counseling Center, Inc | PA | 79,135
Berks Counseling Center, Inc | PA | 39,660
Berks Counseling Center, Inc | PA | 133,745
Berks Counseling Center, Inc | PA | 99,960
Berks Counseling Center, Inc | PA | 70,570
Berks County Women in Crises | PA | 28,000
Bethesda Project | PA | 223,761
Bethesda Project | PA | 160,900
Blair County Community Action Program | PA | 357,374
Blair County Community Action Program | PA | 104,630
Brethren Housing Association | PA | 132,199
Bucks County Housing Group, Inc | PA | 160,407
Calcutta House | PA | 75,455
Calcutta House | PA | 115,943
Cameron and Elk Counties MH/MR Program | PA | 67,732
CAPSEA, Inc | PA | 93,581
Carson Valley Children's Aid | PA | 353,396
Catherine McAuley Center | PA | 113,700
Catherine McAuley Center | PA | 138,399
CATHOLIC CHARITIES OF THE DIOCESE OF ALLENTOWN, INC | PA | 212,175
Catholic Social Services | PA | 87,780
Catholic Social Services | PA | 120,749
Catholic Social Services | PA | 60,245
Catholic Social Services | PA | 102,229
Catholic Social Services | PA | 88,200
Catholic Social Services | PA | 202,085
Catholic Social Services of the Diocese of Scranton, Inc | PA | 212,700
Catholic Social Services of the Diocese of Scranton, Inc | PA | 375,502
Catholic Social Services of the Diocese of Scranton, Inc | PA | 125,924
Catholic Social Services of the Diocese of Scranton, Inc | PA | 210,118
Catholic Social Services of the Diocese of Scranton, Inc | PA | 125,401
Catholic Social Services of the Diocese of Scranton, Inc | PA | 141,825
Catholic Social Services of the Diocese of Scranton, Inc | PA | 39,871
Catholic Youth Center | PA | 318,101
Centre County Youth Service Bureau | PA | 52,870
Changing The World, Inc | PA | 198,502
Chester County | PA | 83,868
Chester County | PA | 17,304
Chester County | PA | 100,000
Chester County | PA | 133,020
Chester County | PA | 56,832
Chester County | PA | 112,907
Chester County | PA | 105,000
Chester County | PA | 305,640
Chester County | PA | 106,560
Christian Churches United | PA | 311,280
City Mission-Living Stones, Inc | PA | 133,417
City Mission-Living Stones, Inc | PA | 108,581
City of Philadelphia | PA | 116,496
City of Philadelphia | PA | 73,799
City of Philadelphia | PA | 873,612
City of Philadelphia | PA | 147,924
City of Philadelphia | PA | 430,920
City of Philadelphia | PA | 106,560
City of Philadelphia | PA | 221,550
City of Philadelphia | PA | 14,208
City of Philadelphia | PA | 129,384
City of Philadelphia | PA | 449,736
City of Philadelphia | PA | 315,094
City of Philadelphia | PA | 182,448
City of Philadelphia | PA | 313,416
City of Philadelphia | PA | 63,936
City of Philadelphia | PA | 317,340
City of Philadelphia | PA | 1,183,500
City of Philadelphia | PA | 955,404
City of Philadelphia | PA | 167,088
City of Philadelphia | PA | 85,248
City of Philadelphia | PA | 71,040
City of Philadelphia | PA | 381,001
City of Philadelphia | PA | 432,000
City of Philadelphia | PA | 99,272
City of Philadelphia | PA | 381,144
City of Philadelphia | PA | 707,544
City of Philadelphia | PA | 133,476
City of Philadelphia | PA | 296,172
City of Philadelphia | PA | 28,416
City of Philadelphia | PA | 378,000
City of Philadelphia | PA | 108,000
City of Philadelphia | PA | 812,340
City of Philadelphia | PA | 108,000
Clearfield-Jefferson MH/MR Program | PA | 88,237
COMHAR | PA | 285,805
COMHAR | PA | 509,646
Commission on Economic Opportunity | PA | 187,682
Commission on Economic Opportunity | PA | 203,236
Commission on Economic Opportunity | PA | 110,224
Commission on Economic Opportunity | PA | 179,869
Commission on Economic Opportunity | PA | 171,124
Commission on Economic Opportunity | PA | 164,485
Commission on Economic Opportunity | PA | 80,255
Commission on Economic Opportunity | PA | 260,818
Committee For Dignity and Fairness For the Homeless Housing | PA | 122,253
Committee For Dignity and Fairness For the Homeless Housing | PA | 30,569
Committee For Dignity and Fairness For the Homeless Housing | PA | 212,306
Commonwealth of Pennsylvania | PA | 234,949
Community Action Agency of Delaware County, Inc | PA | 438,961
Community Action Agency of Delaware County, Inc | PA | 340,865
Community Action Committee of the Lehigh Valley | PA | 69,999
Community Action Partnership of mercer County | PA | 51,498
Community Action Partnership of mercer County | PA | 60,257
Community Action Program Of Lancaster County | PA | 80,905
Community Action Southwest | PA | 36,228
Community Action, Inc | PA | 67,165
Community Action, Inc | PA | 86,567
Community Alliance and Reinvestment Endeavor, Inc | PA | 37,262
Community Basics, Inc | PA | 175,879
Community Basics, Inc | PA | 116,443
Community Housing Services | PA | 92,209
Community Housing Services | PA | 116,539
Community Housing Services | PA | 113,761
Community Housing Services | PA | 44,982
Community Services of Venango County, Inc | PA | 54,268
Community, Youth and Women's Alliance, Inc | PA | 44,593
Connect, Inc | PA | 259,346
Connect, Inc | PA | 121,579
Council on Chemical Abuse | PA | 106,824
Council on Chemical Abuse | PA | 54,602
Council on Chemical Abuse | PA | 82,869
County of Bucks | PA | 108,796
County of Bucks | PA | 108,000
County of Butler | PA | 83,975
County of Butler | PA | 165,376
County of Butler | PA | 329,798
County of Delaware | PA | 125,604
County of Delaware | PA | 205,800
County of Erie | PA | 492,319
County of Erie | PA | 142,044
County of Erie | PA | 210,180
County of Erie | PA | 360,600
County of Erie | PA | 136,368
County of Erie | PA | 254,457
County of Erie | PA | 177,297
County of Erie | PA | 341,712
County of Franklin | PA | 94,588
County of Greene | PA | 134,315
County of Greene | PA | 86,751
County of Lancaster | PA | 556,762
County of Venango | PA | 177,120
County of Washington | PA | 65,415
County of Washington | PA | 61,765
County of Washington | PA | 225,654
County of Washington | PA | 70,875
County of Washington | PA | 170,880
County of Washington | PA | 141,147
County of Washington | PA | 93,816
County of Washington | PA | 202,210
County of Washington | PA | 165,950
County of Washington | PA | 145,812
County of York | PA | 122,062
Crawford County Coalition on Housing Needs, Inc | PA | 40,759
Crawford County Commissioners | PA | 161,616
Crawford County Mental Health Awareness Program, Inc | PA | 91,783
Crawford County Mental Health Awareness Program, Inc | PA | 121,800
Crisis Shelter of Lawrence County | PA | 83,121
Dedicated HMIS Project | PA | 136,639
Delaware County Housing Authority | PA | 159,660
Delaware County Housing Authority | PA | 137,485
Delaware County Housing Authority | PA | 149,652
Delaware County Housing Authority | PA | 450,588
Delaware County Housing Authority | PA | 131,220
Delaware County Housing Authority | PA | 212,724
Delaware County Housing Authority | PA | 136,133
Domestic Abuse Project of Delaware County, Inc | PA | 150,903
Domestic Violence Center of Chester County | PA | 89,302
Domestic Violence Intervention of Lebanon County, Inc | PA | 290,090
Domestic Violence Service Center, Inc | PA | 57,015
Drueding Center | PA | 1,081,414
DUBOIS HOUSING AUTHORITY | PA | 347,388
Easy Does It, Inc | PA | 338,270
Easy Does It, Inc | PA | 65,333
Easy Does It, Inc | PA | 31,040
EMDB d/b/a New Bethany Ministries | PA | 114,853
Episcopal Community Services | PA | 647,203
Family and Community Service of Delaware County | PA | 108,069
Family Planning Council, Inc | PA | 127,661
Family Services of Montgomery County | PA | 188,614
Family Services of Montgomery County | PA | 245,355
Fayette County Community Action Agency, Inc | PA | 65,695
Fayette County Community Action Agency, Inc | PA | 62,982
Fitzmaurice Community Services, Inc | PA | 130,807
Fitzmaurice Community Services, Inc | PA | 143,000
Futures Community Support Services | PA | 35,882
Gaudenzia Inc | PA | 233,175
Gaudenzia Inc | PA | 65,953
Gaudenzia Inc | PA | 138,601
Harbor Point Housing, Inc | PA | 82,564
Hedwig House, Inc | PA | 186,490
HELP Development Corporation | PA | 487,622
Holcomb Associates, Inc | PA | 116,999
Home Nursing Agency Community Services | PA | 210,216
Horizon House | PA | 226,223
Horizon House | PA | 351,217
Horizon House | PA | 347,215
Horizon House | PA | 404,384
Horizon House | PA | 801,713
Horizon House | PA | 228,199
Horizon House | PA | 644,582
Horizon House | PA | 96,201
Housing Authority of Centre County | PA | 69,024
Housing Authority of Monroe County | PA | 170,760
Housing Authority of the City of Lancaster | PA | 240,840
Housing Authority of the City of Lancaster | PA | 141,216
Housing Authority of the County of Beaver | PA | 37,879
Housing Authority of the County of Butler Inc | PA | 52,447
Housing Authority of the County of Butler Inc | PA | 141,750
Housing Authority of the County of Butler Inc | PA | 62,651
Housing Authority of the County of Cumberland | PA | 302,245
Housing Authority of the County of Cumberland | PA | 63,555
Housing Authority of the County of Cumberland | PA | 229,995
Housing Authority of the County of Cumberland | PA | 395,280
Housing Authority of the County of Dauphin | PA | 242,124
Housing Authority of the County of Lebanon | PA | 117,470
Housing Development Corporation of NEPA | PA | 181,642
Housing Development Corporation of NEPA | PA | 169,223
Housing Development Corporation of NEPA | PA | 136,087
Housing Development Corporation of NEPA | PA | 99,128
Housing Development Corporation of NEPA | PA | 221,543
Human Services Center | PA | 60,195
Impact Services Corporation | PA | 624,728
Impact Services Corporation | PA | 268,304
Indiana County Community Action Program, Inc | PA | 31,896
Indiana County Community Action Program, Inc | PA | 82,842
Indiana County Community Action Program, Inc | PA | 13,393
Interfaith Housing Development Corporation of Bucks County | PA | 344,844
Keystone Opportunity Center, Inc | PA | 29,410
Keystone Opportunity Center, Inc | PA | 44,989
Lawrence County Social Services, Inc | PA | 88,928
Lawrence County Social Services, Inc | PA | 76,650
Lawrence County Social Services, Inc | PA | 42,593
Lawrence County Social Services, Inc | PA | 126,936
Lebanon County Community Action Partnership | PA | 26,234
Lehigh County Conference of Churches | PA | 203,542
Lehigh County Conference of Churches | PA | 168,716
Lehigh County Housing Authority | PA | 207,648
Luzerne Intermediate Unit #18 | PA | 63,210
Lyc-Clint Counties Comm for Community Action (STEP), Inc | PA | 184,010
MARANATHA | PA | 105,138
MARANATHA | PA | 261,796
Mechling-Shakley Veterans Center | PA | 28,551
Mental Health Association of Southeastern Pennsylvania | PA | 174,351
Mental Health Association of Southeastern Pennsylvania | PA | 140,034
Mental Health Association of Southeastern Pennsylvania | PA | 186,634
MERCER COUNTY HOUSING AUTHORITY | PA | 80,724
Methodist Family Services of Philadelphia | PA | 250,354
Methodist Family Services of Philadelphia | PA | 181,227
MidPenn Legal Services | PA | 39,999
Montgomery County Community Action Development Commission (C | PA | 59,216
Montgomery County, PA, BH/DD | PA | 271,341
Montgomery County, PA, BH/DD | PA | 196,791
Neighborhood Services of Lancaster, inc | PA | 42,880
NHS Human Services of PA | PA | 67,543
Northampton County Housing Authority | PA | 100,440
Northern Cambria Community Development Corporation | PA | 51,209
Northern Cambria Community Development Corporation | PA | 63,414
Northern Cambria Community Development Corporation | PA | 69,232
Northern Cambria Community Development Corporation | PA | 131,843
Northumberland County MH/MR | PA | 78,131
Opportunity House | PA | 102,504
Opportunity House | PA | 84,000
Opportunity House | PA | 58,997
Opportunity House | PA | 42,827
Opportunity House | PA | 30,654
Overington House, Inc | PA | 225,959
Pathways to Housing Inc | PA | 1,098,000
Penn Foundation, Inc | PA | 66,272
Penndel Mental Health Center, Inc | PA | 83,239
Penndel Mental Health Center, Inc | PA | 72,904
People's Emergency Center | PA | 369,810
People's Emergency Center | PA | 98,188
People's Emergency Center | PA | 496,362
People's Emergency Center | PA | 34,815
People's Emergency Center | PA | 78,995
People's Emergency Center | PA | 103,670
People's Emergency Center | PA | 53,384
People's Emergency Center | PA | 241,083
Philadelphia Housing Authority | PA | 71,040
Philadelphia Housing Authority | PA | 42,624
Prince of Peace Center | PA | 103,612
Project HOME | PA | 124,922
Project HOME | PA | 773,964
Redevelopment Authority of the County of Lancaster | PA | 68,977
Redevelopment Authority of the County of Lancaster | PA | 50,307
Resources for Human Development, Inc | PA | 486,335
Resources for Human Development, Inc | PA | 166,378
Resources for Human Development, Inc | PA | 257,887
Resources for Human Development, Inc | PA | 326,308
Resources for Human Development, Inc | PA | 225,435
Schuylkill Women in Crisis | PA | 52,810
Schuylkill Women in Crisis | PA | 33,328
Scranton Primary Health Care Center, Inc | PA | 55,125
St. Joseph's Center | PA | 107,075
Supportive Services, Inc | PA | 164,430
Supportive Services, Inc | PA | 175,561
Supportive Services, Inc | PA | 391,422
Tabor Community Services Inc | PA | 115,972
Tabor Community Services Inc | PA | 43,157
Tabor Community Services Inc | PA | 85,116
The Community Intervention Center of Lackawanna County | PA | 137,733
The Lighthouse Foundation | PA | 39,274
The Lodge, Inc. of Pennsylvania | PA | 161,860
The Philadelphia Veterans Multi-Service & Education Center | PA | 301,698
THE PROGRAM for Women and Families, Inc | PA | 110,408
The Salvation Army | PA | 70,024
The Salvation Army | PA | 159,570
The Salvation Army | PA | 183,193
The Salvation Army | PA | 60,375
The Salvation Army | PA | 207,199
The Salvation Army | PA | 286,812
The Salvation Army | PA | 86,135
The Salvation Army | PA | 99,806
The Salvation Army | PA | 203,440
The Salvation Army | PA | 181,941
The Salvation Army | PA | 278,869
The Salvation Army | PA | 95,485
Tioga Co. Housing Authority | PA | 67,860
Travelers Aid Society of Philadelphia | PA | 359,951
Travelers Aid Society of Philadelphia | PA | 131,428
Travelers Aid Society of Philadelphia | PA | 255,735
Turning Point Interfaith Mission | PA | 204,155
Turning Point Interfaith Mission | PA | 113,111
Turning Point Interfaith Mission | PA | 140,919
Union Mission of Latrobe, Inc | PA | 202,337
United Christian Ministries, Inc | PA | 87,959
United Christian Ministries, Inc | PA | 90,403
United Neighborhood Centers of Northeastern Pennsylvania | PA | 169,913
United Neighborhood Centers of Northeastern Pennsylvania | PA | 59,556
United Neighborhood Centers of Northeastern Pennsylvania | PA | 213,919
United Neighborhood Centers of Northeastern Pennsylvania | PA | 135,954
United Neighborhood Centers of Northeastern Pennsylvania | PA | 136,437
Valley Housing Development Corporation | PA | 120,626
Valley Housing Development Corporation | PA | 215,964
Valley Housing Development Corporation | PA | 131,770
Valley Youth House Committee, Inc | PA | 468,880
Valley Youth House Committee, Inc | PA | 236,273
Valley Youth House Committee, Inc | PA | 497,322
Victim Outreach Intervention Center | PA | 87,178
Victim Outreach Intervention Center | PA | 300,835
Volunteers of America | PA | 291,572
Volunteers Of America Delaware Valley Inc | PA | 114,744
W.C. Atkinson Memorial Community Service Center, Inc | PA | 15,927
Warren-Forest EOC | PA | 61,675
Waynesboro New Hope Shelter INC | PA | 521,940
Wesley House Community Corporation, Inc | PA | 26,199
Westmoreland Community Action | PA | 466,388
Westmoreland Community Action | PA | 40,950
Women Against Abuse, Inc | PA | 181,225
Women's Community Revitalization Project | PA | 288,230
Women's Resource Center, Inc | PA | 133,423
YMCA of Reading & Berks County | PA | 98,568
YMCA of York and York County | PA | 88,987
Young Women's Christian Association | PA | 396,601
Young Women's Christian Association of York | PA | 148,050
YWCA OF GREATER HARRISBURG | PA | 259,312
YWCA OF GREATER HARRISBURG | PA | 100,000
YWCA OF GREATER HARRISBURG | PA | 78,071
YWCA OF GREATER HARRISBURG | PA | 58,729
YWCA OF GREATER HARRISBURG | PA | 96,199
Albergue El Paraiso, Corp | PR | 283,970
CASA PROTEGIDA JULIA DE BURGOS, INC | PR | 405,460
Centro de Ayuda al Menesteroso, Inc | PR | 379,956
Centro Deambulantes Cristo Pobre, Inc., | PR | 188,188
Centro Deambulantes Cristo Pobre, Inc., | PR | 1,437,855
Coalicion de Apoyo Continuo a Personas sin Hogar en San Juan | PR | 516,705
Coalicion de Coaliciones Pro Personas Sin Hogar de PR, Inc | PR | 780,625
Coalicion de Coaliciones Pro Personas Sin Hogar de PR, Inc | PR | 2,061,050
Coalition Of Guaynabo | PR | 202,491
CORDA DE PR, INC | PR | 483,546
Corp. La Fondita de Jesus | PR | 657,039
Corp. La Fondita de Jesus | PR | 463,000
Corporacion Milagros del Amor | PR | 201,122
COSSMA, INC | PR | 148,137
Estancia Corazon, Inc | PR | 99,855
Estancia Corazon, Inc | PR | 197,803
Estancia Corazon, Inc | PR | 288,179
Estancia Corazon, Inc | PR | 232,745
Fundacion de Desarrollo Comunal de P.R., Inc “FUNDESCO“ | PR | 154,795
Fundacion de Desarrollo Comunal de P.R., Inc “FUNDESCO“ | PR | 135,477
Fundacion de Desarrollo Comunal de P.R., Inc “FUNDESCO“ | PR | 221,244
Hogar del Buen Pastor, Inc | PR | 237,609
Hogar Luz de Vida, Inc | PR | 784,650
HOGAR NUEVA MUJER SANTA MARIA DE LA MERCED, INC | PR | 688,548
Hogar Resurreccion,Inc | PR | 207,650
INSTITUTO PRE-VOCACIONAL E INDUSTRIAL DE PUERTO RICO, INC | PR | 149,964
La Perla de Gran Precio | PR | 118,738
La Perla de Gran Precio | PR | 145,637
La Tierra Prometida, Inc | PR | 267,578
Lucha Contra el SIDA, Inc | PR | 882,000
Lucha Contra el SIDA, Inc | PR | 77,086
Lucha Contra el SIDA, Inc | PR | 575,880
Lucha Contra el SIDA, Inc | PR | 180,963
Mental Health & Anti-Addiction Services Adm. | PR | 1,978,515
Municipality Autonomous of Ponce | PR | 726,000
Municipality of Carolina | PR | 308,569
Municipality of Cayey | PR | 220,320
Municipality of Mayagüez | PR | 611,520
Municipality of Naranjito | PR | 423,396
Municipality of Naranjito | PR | 88,816
Municipality of San Juan-Family & Community Department | PR | 330,939
Municipality of San Juan-Family & Community Department | PR | 282,043
Municipality of San Juan-Family & Community Department | PR | 974,700
Municipality of San Juan-Family & Community Department | PR | 300,354
Municipality of San Juan-Family & Community Department | PR | 314,286
Municipality of San Juan-Family & Community Department | PR | 298,510
Municipality of San Juan-Family & Community Department | PR | 477,084
Municipality of Toa Baja | PR | 430,532
Municipality of Vega Alta | PR | 425,560
Municipality of Vega Baja | PR | 240,219
Municipality of Vega Baja | PR | 153,417
Municipality of Yauco | PR | 157,920
Municipality of Yauco | PR | 1,029,150
Municipio Autonomo de Guayama | PR | 460,800
Municipio de Humacao | PR | 389,100
Programa Guara Bi, Inc | PR | 597,450
Programa Guara Bi, Inc | PR | 594,112
Family Resources Community Action | RI | 32,428
Newport County Community Mental Health Center | RI | 8,204
Rhode Island Housing and Mortgage Finance Corporation | RI | 90,029
Rhode Island Housing and Mortgage Finance Corporation | RI | 117,959
Rhode Island Housing and Mortgage Finance Corporation | RI | 45,299
Rhode Island Housing and Mortgage Finance Corporation | RI | 82,625
Rhode Island Housing and Mortgage Finance Corporation | RI | 95,250
Rhode Island Housing and Mortgage Finance Corporation | RI | 78,000
Rhode Island Housing and Mortgage Finance Corporation | RI | 166,666
Rhode Island Housing and Mortgage Finance Corporation | RI | 26,517
Rhode Island Housing and Mortgage Finance Corporation | RI | 71,332
Rhode Island Housing and Mortgage Finance Corporation | RI | 17,864
Rhode Island Housing and Mortgage Finance Corporation | RI | 232,131
Rhode Island Housing and Mortgage Finance Corporation | RI | 125,517
Rhode Island Housing and Mortgage Finance Corporation | RI | 120,220
Rhode Island Housing and Mortgage Finance Corporation | RI | 26,705
Rhode Island Housing and Mortgage Finance Corporation | RI | 88,334
Rhode Island Housing and Mortgage Finance Corporation | RI | 178,087
Rhode Island Housing and Mortgage Finance Corporation | RI | 107,716
Rhode Island Housing and Mortgage Finance Corporation | RI | 22,880
Rhode Island Housing and Mortgage Finance Corporation | RI | 57,424
Rhode Island Housing and Mortgage Finance Corporation | RI | 161,879
Rhode Island Housing and Mortgage Finance Corporation | RI | 32,800
Rhode Island Housing and Mortgage Finance Corporation | RI | 67,916
Rhode Island Housing and Mortgage Finance Corporation | RI | 32,456
Rhode Island Housing and Mortgage Finance Corporation | RI | 30,924
Rhode Island Housing and Mortgage Finance Corporation | RI | 47,482
Rhode Island Housing and Mortgage Finance Corporation | RI | 1,169,832
Rhode Island Housing and Mortgage Finance Corporation | RI | 23,605
Rhode Island Housing and Mortgage Finance Corporation | RI | 253,752
Rhode Island Housing and Mortgage Finance Corporation | RI | 64,692
Rhode Island Housing and Mortgage Finance Corporation | RI | 60,897
Rhode Island Housing and Mortgage Finance Corporation | RI | 126,393
Rhode Island Housing and Mortgage Finance Corporation | RI | 93,779
Rhode Island Housing and Mortgage Finance Corporation | RI | 11,248
Rhode Island Housing and Mortgage Finance Corporation | RI | 539,880
Rhode Island Housing and Mortgage Finance Corporation | RI | 149,797
Rhode Island Housing and Mortgage Finance Corporation | RI | 190,474
Rhode Island Housing and Mortgage Finance Corporation | RI | 32,340
Rhode Island Housing and Mortgage Finance Corporation | RI | 619,140
Rhode Island Housing and Mortgage Finance Corporation | RI | 63,813
Rhode Island Housing and Mortgage Finance Corporation | RI | 24,712
Rhode Island Housing and Mortgage Finance Corporation | RI | 129,639
Rhode Island Housing and Mortgage Finance Corporation | RI | 55,000
The Providence Center | RI | 41,133
Washington Square Services Corporation | RI | 103,217
Any Length Recovery, Inc | SC | 78,746
Any Length Recovery, Inc | SC | 80,326
Citizens Opposed to Domestic Abuse | SC | 176,937
City of Charleston | SC | 283,500
Community Development Corporation of Marlboro County | SC | 69,698
Crisis Ministries | SC | 71,598
Crisis Ministries | SC | 45,765
Crisis Ministries | SC | 101,136
Crisis Ministries | SC | 73,336
Crisis Ministries | SC | 67,741
Crisis Ministries | SC | 77,752
Eastern Carolina Homelessness Organization | SC | 126,360
Eastern Carolina Homelessness Organization | SC | 122,550
Family Services Inc | SC | 199,206
Family Services Inc | SC | 143,072
Florence Crittenton Programs of South Carolina | SC | 49,946
Greenville Area Interfaith Hospitality Network | SC | 21,775
Growing Home Southeast, Inc | SC | 26,250
Healing Properties, Inc | SC | 36,750
Healing Properties, Inc | SC | 68,645
Home Alliance, Inc | SC | 23,332
Home Alliance, Inc | SC | 98,650
Home Alliance, Inc | SC | 68,606
Home Alliance, Inc | SC | 128,000
Homes of Hope, Inc | SC | 55,866
MEG's House Shelter for Abused Women and Children | SC | 223,358
MEG's House Shelter for Abused Women and Children | SC | 160,089
MEG's House Shelter for Abused Women and Children | SC | 159,563
Mental Illness Recovery Center, Inc | SC | 429,641
Myrtle Beach Housing Authority | SC | 219,396
New Promise Permanent Housing Program | SC | 75,913
Our Daily Rest | SC | 315,000
Pee Dee Community Action Agency | SC | 179,098
Pee Dee Community Action Partnership | SC | 46,552
Project Care, Inc | SC | 166,667
Project Care, Inc | SC | 160,566
Richland County | SC | 80,544
Sistercare Inc | SC | 77,664
Sistercare Inc | SC | 110,380
Sistercare Inc | SC | 91,366
South Carolina Department of Mental Health | SC | 124,764
South Carolina Department of Mental Health | SC | 113,760
South Carolina Department of Mental Health | SC | 193,716
South Carolina Department of Mental Health | SC | 280,308
South Carolina Department of Mental Health | SC | 219,708
Sunbelt Human Advancement Resources, Inc. (SHARE) | SC | 721,300
The ACCESS Network, Inc | SC | 52,090
The ACCESS Network, Inc | SC | 100,076
The Housing Authority of the City of Columbia, SC | SC | 144,825
The Housing Authority of the City of Columbia, SC | SC | 208,477
The Housing Authority of the City of Columbia, SC | SC | 68,996
The Samaritan House of Orangeburg, Inc | SC | 101,812
Trinity Housing Corporation | SC | 80,316
United Way of Kershaw County | SC | 83,100
Upstate Homeless Coalition of South Carolina | SC | 110,000
Upstate Homeless Coalition of South Carolina | SC | 158,818
Upstate Homeless Coalition of South Carolina | SC | 133,875
Upstate Homeless Coalition of South Carolina | SC | 160,163
Upstate Homeless Coalition of South Carolina | SC | 184,305
Upstate Homeless Coalition of South Carolina | SC | 642,151
Williamsburg Enterprise Community Commission, Inc | SC | 128,041
cornerstone rescue mission | SD | 73,704
Inter-Lakes Community Action Partnership | SD | 319,373
Lewis & Clark Behavioral Health Services, Inc | SD | 126,978
Pennington County Housing and Redevelopment Commission | SD | 459,060
Pennington County Housing and Redevelopment Commission | SD | 183,108
Sioux Falls Housing and Redevelopment Commission | SD | 130,320
Sioux Falls Housing and Redevelopment Commission | SD | 288,516
South Dakota Housing Development Authority | SD | 40,443
AGAPE Child & Family Services, Inc | TN | 193,040
AGAPE Child & Family Services, Inc | TN | 245,477
AIM Housing, Inc | TN | 154,726
Alpha Omega Veterans Services, Inc | TN | 165,900
Alpha Omega Veterans Services, Inc | TN | 142,158
Alpha Omega Veterans Services, Inc | TN | 106,888
Alpha Omega Veterans Services, Inc | TN | 93,424
Appalachian Regional Coalition on Homelessness | TN | 102,952
Area Releif Ministries, Inc | TN | 20,702
Beech Bluff United Pentecostal Church | TN | 72,775
Behavioral Health Initiatives, Inc | TN | 78,750
Buffalo Valley, Inc | TN | 73,047
Buffalo Valley, Inc | TN | 228,444
Buffalo Valley, Inc | TN | 445,651
Buffalo Valley, Inc | TN | 24,850
Buffalo Valley, Inc | TN | 72,836
Buffalo Valley, Inc | TN | 49,575
Buffalo Valley, Inc | TN | 444,151
Buffalo Valley, Inc | TN | 131,539
Buffalo Valley, Inc | TN | 71,375
Campus for Human Development | TN | 132,370
Carey Counseling Center, Inc | TN | 61,595
Carey Counseling Center, Inc | TN | 25,107
Carey Counseling Center, Inc | TN | 17,150
Case Management Incorporated | TN | 87,173
Case Management Incorporated | TN | 13,537
Catholic Charities of East Tennessee | TN | 135,899
Catholic Charities of East Tennessee, Inc | TN | 116,698
Catholic Charities of East Tennessee, Inc | TN | 84,180
Catholic Charities, Inc | TN | 490,963
Catholic Charities, Inc | TN | 454,894
Catholic Charities, Inc | TN | 296,565
Chattanooga Church Ministries Inc | TN | 90,873
Chattanooga Church Ministries Inc | TN | 94,827
Chattanooga Church Ministries Inc | TN | 105,874
Chattanooga Homeless Coalition | TN | 34,240
Chattanooga Homeless Coalition | TN | 100,558
Chattanooga Housing Authority | TN | 322,080
Chattanooga Housing Authority | TN | 81,528
Chattanooga Housing Authority | TN | 36,600
Child & Family Tennessee | TN | 268,697
City of Chattanooga | TN | 201,936
City of Clarksville | TN | 128,880
City of Memphis, Tennessee | TN | 131,856
City of Memphis, Tennessee | TN | 318,240
City of Memphis, Tennessee | TN | 196,416
Cocaine & Alcohol Awareness Program, Inc | TN | 168,748
Community Alliance for the Homeless | TN | 46,514
Community Alliance for the Homeless | TN | 100,170
Community Alliance for the Homeless | TN | 37,572
Cumberland Regional Development Corporation | TN | 57,580
Cumberland Regional Development Corporation | TN | 88,338
Damascus Road, Inc | TN | 36,426
Damascus Road, Inc | TN | 49,257
Damascus Road, Inc | TN | 65,352
Domestic Violence Program Inc | TN | 30,766
Door of Hope, Inc | TN | 435,294
Door of Hope, Inc | TN | 158,237
Fairview Housing Management Corporation | TN | 123,499
Fayette Cares, Inc | TN | 38,369
Fortwood Center, Inc | TN | 138,649
Frayser Millington North Shelby Mental Health Center, Inc | TN | 217,500
Genesis House, Inc | TN | 64,161
Greenhouse Ministries | TN | 39,183
Greenhouse Ministries | TN | 25,061
Helen Ross McNabb Center | TN | 61,209
Henry County, Tennessee | TN | 187,764
Hope House Maury County Center Against Domestic Violence | TN | 74,212
Housing Opportunities and People Enterprises, Inc | TN | 78,357
Housing Opportunities and People Enterprises, Inc | TN | 19,202
Interfaith Hospitality Network of Greater Johnson City | TN | 81,608
Interfaith Hospitality Network of Greater Kingsport | TN | 83,166
Jackson Area Council on Alcoholism and Drug Dependency | TN | 63,408
Jackson Housing Authority | TN | 118,464
Kingsport Housing & Redevelopment Authority | TN | 42,732
Kingsport Housing & Redevelopment Authority | TN | 41,613
Kingsport Housing & Redevelopment Authority | TN | 41,004
Kingsport Housing & Redevelopment Authority | TN | 57,000
Kingsport Housing & Redevelopment Authority | TN | 179,436
Kingsport Housing & Redevelopment Authority | TN | 65,761
Kingsport Housing & Redevelopment Authority | TN | 279,420
Knoxville-Knox County Community Action Committee | TN | 139,050
Knoxville-Knox County Community Action Committee | TN | 90,096
Knoxville-Knox County Community Action Committee | TN | 104,580
Legal Aid of East Tennessee, Inc | TN | 17,713
Life Center Foundation, Inc | TN | 129,822
Matthew 25, Inc | TN | 37,041
Memphis Family Shelter | TN | 197,886
Metropolitan Development & Housing Agency | TN | 58,161
Metropolitan Development & Housing Agency | TN | 60,144
Metropolitan Development & Housing Agency | TN | 1,721,352
Metropolitan Development & Housing Agency | TN | 45,504
Metropolitan Development & Housing Agency | TN | 103,440
Metropolitan Inter-Faith Association | TN | 145,621
Metropolitan Inter-Faith Association | TN | 497,674
Murfreesboro Housing Authority | TN | 70,020
Murfreesboro Housing Authority | TN | 295,980
Murfreesboro Housing Authority | TN | 15,718
Operation Stand Down Nashville, Inc | TN | 50,000
Park Center | TN | 124,080
Partnership for Families, Children and Adults | TN | 27,978
Peace Unlimited in Recovery | TN | 51,861
Positively Living | TN | 70,204
Professional Care Services Of West Tn., Inc | TN | 9,000
Quinco Community Mental Health Center, Inc | TN | 68,595
Renewal House, Inc | TN | 60,443
Safe Haven Family Shelter | TN | 75,728
Safe Haven Family Shelter | TN | 56,910
Shelby County Government | TN | 228,782
Southeast Tennessee Human Resource Agency | TN | 240,504
Southeast Tennessee Human Resource Agency | TN | 549,435
T.A.M.B. of Jackson, Inc | TN | 39,549
Tennessee Homeless Solutions | TN | 55,956
Tennessee Homeless Solutions | TN | 45,017
Tennessee Homeless Solutions | TN | 111,185
Tennessee Valley Coalition to End Homelessness, Inc | TN | 71,384
The Council for Alcohol and Drug Abuse Services, Inc | TN | 211,254
The Journey Home | TN | 35,361
The Journey Home | TN | 48,301
The Mary Parrish Center | TN | 34,330
The Next Door, Inc | TN | 117,400
The Salvation Army, a Georgia Corporation | TN | 385,192
The Salvation Army, A Georgia Corporation | TN | 207,648
The Salvation Army, a Georgia Corporation | TN | 70,099
The Salvation Army, a Georgia Corporation | TN | 229,565
The University of Tennessee | TN | 132,282
Town of Crossville Housing Authority | TN | 30,564
Town of Crossville Housing Authority | TN | 71,400
Town of Crossville Housing Authority | TN | 160,643
Town of Crossville Housing Authority | TN | 72,744
Town of Crossville Housing Authority | TN | 105,853
Urban Housing Solutions | TN | 168,705
Urban Housing Solutions | TN | 119,000
Urban Housing Solutions | TN | 255,300
Urban Housing Solutions | TN | 61,125
Volunteer Ministry Center | TN | 50,000
Welcome Home Ministries, Inc | TN | 47,981
Wo/Men's Resource and Rape Assistance Program | TN | 72,976
YWCA of Nashville and Middle Tennessee | TN | 173,769
ACH Child and Family Services | TX | 113,922
AIDS Foundation Houston, Inc | TX | 409,192
AIDS Foundation Houston, Inc | TX | 963,357
AIDS Foundation Houston, Inc | TX | 613,230
AIDS Foundation Houston, Inc | TX | 396,314
Alternative Building Concepts Group | TX | 56,883
Alternative Building Concepts Group | TX | 384,720
Arlington Life Shelter | TX | 83,686
Arlington Life Shelter | TX | 63,471
Austin Travis County Mental Health Mental Retardation Center | TX | 348,007
Austin Travis County Mental Health Mental Retardation Center | TX | 28,893
Austin Travis County Mental Health Mental Retardation Center | TX | 78,533
Bay Area Homeless Services Inc | TX | 234,005
Bay Area Turning Point, Inc | TX | 107,210
Brighter Tomorrows, Inc | TX | 176,876
Buckner Children and Family Services, Inc | TX | 35,016
Career and Recovery Resources, Inc | TX | 117,110
Caritas of Austin | TX | 303,712
Caritas of Austin | TX | 196,492
Caritas of Austin | TX | 401,884
Caritas of Austin | TX | 198,885
Catholic Charities Diocese of Fort Worth | TX | 333,435
Catholic Charities of the Archdiocese Galveston-Houston | TX | 183,655
Catholic Charities of the Archdiocese Galveston-Houston | TX | 1,174,633
Center Against Family Violence | TX | 82,929
Centro San Vicente | TX | 139,998
Change HAPPENS! | TX | 337,959
Change HAPPENS! | TX | 88,293
Change HAPPENS! | TX | 120,750
City of Amarillo | TX | 206,564
City of Amarillo | TX | 346,452
City of Beaumont | TX | 109,680
City of Corpus Christi | TX | 128,394
City of Corpus Christi | TX | 134,971
City of Corpus Christi | TX | 160,255
City of Corpus Christi | TX | 122,673
City of Corpus Christi | TX | 142,720
City of Corpus Christi | TX | 142,569
City of Corpus Christi | TX | 181,142
City of Dallas | TX | 257,606
City of Dallas | TX | 154,027
City of Dallas | TX | 384,000
City of Dallas | TX | 903,960
City of Dallas | TX | 470,880
City of Dallas | TX | 88,560
City of Dallas | TX | 701,906
City of Longview | TX | 285,684
City of San Antonio | TX | 25,211
City of San Antonio | TX | 136,335
City of San Antonio | TX | 429,597
City of San Antonio | TX | 268,738
City of San Antonio | TX | 93,954
City of San Antonio | TX | 171,729
City of San Antonio | TX | 138,909
City of San Antonio | TX | 216,048
City of San Antonio | TX | 352,562
City of San Antonio | TX | 210,000
City of San Antonio | TX | 385,718
City of San Antonio | TX | 382,764
City of San Antonio | TX | 387,273
City of San Antonio | TX | 398,126
City of San Antonio | TX | 358,268
City of San Antonio | TX | 364,296
City of San Antonio | TX | 131,250
City of San Antonio | TX | 392,021
City of San Antonio | TX | 91,974
City of San Antonio | TX | 614,811
City of San Antonio | TX | 194,864
City of Texarkana | TX | 907,635
City of Waco | TX | 63,709
CitySquare | TX | 610,110
CitySquare | TX | 504,983
CitySquare | TX | 185,117
Coalition for the Homeless of Houston/Harris County, Inc | TX | 167,709
Coalition for the Homeless of Houston/Harris County, Inc | TX | 185,480
Coalition for the Homeless of Houston/Harris County, Inc | TX | 603,707
Collin County Mental Health Mental Retardation Center | TX | 169,445
Community Enrichment Center, Inc | TX | 222,846
Community Partnership for the Homeless DBA Green Doors | TX | 65,985
Compassion Ministries of Waco | TX | 161,275
Covenant House Texas | TX | 394,932
Cross Culture Experiences | TX | 181,996
Dental Health Programs, Inc | TX | 146,632
Denton County Mental Health Mental Retardation Center | TX | 264,318
East Bell County Interfaith Hospitality Network, Family Prom | TX | 356,143
El Paso Coalition for the Homeless | TX | 107,902
El Paso Human Services, Inc | TX | 347,986
El Paso MHMR | TX | 176,761
El Paso MHMR | TX | 203,982
Family Abuse Center, Inc | TX | 268,902
Family Abuse Center, Inc | TX | 146,446
Family Gateway, Inc | TX | 198,018
Family Gateway, Inc | TX | 42,438
Family Gateway, Inc | TX | 523,900
Family Gateway, Inc | TX | 150,701
Family Services of Southeast Texas, Inc | TX | 150,977
Fort Bend County Women's Center, Inc | TX | 668,360
Front Steps, Inc | TX | 94,668
Harmony House, Inc | TX | 133,571
Harmony House, Inc | TX | 358,470
Harris County | TX | 36,816
Harris County | TX | 82,836
Harris County | TX | 186,180
Harris County | TX | 124,320
Harris County | TX | 2,381,340
Harris County | TX | 160,656
Harris County | TX | 470,184
Harris County | TX | 589,548
Harris County | TX | 291,576
Harvest Life Foundation | TX | 196,407
Health Services of North Texas, Inc | TX | 243,812
HELP Development Corporation | TX | 439,456
HOPE, Inc | TX | 67,333
HOPE, Inc | TX | 33,873
Hope's Door Inc | TX | 161,710
Hope's Door Inc | TX | 69,345
Housing Authority of the City of Arlington | TX | 156,168
Housing Authority of the City of Arlington | TX | 262,378
Housing Authority of the City of Austin | TX | 179,112
Housing Authority of the City of Austin | TX | 361,116
Housing Authority of the City of El Paso | TX | 94,140
Housing Authority of the City of Fort Worth | TX | 1,623,252
Housing Authority of the City of Fort Worth | TX | 1,965,180
Housing Authority of the City of Fort Worth | TX | 352,272
Housing Authority of the City of Fort Worth | TX | 283,776
Housing Authority of the City of San Antonio | TX | 707,664
Housing Crisis Center | TX | 532,944
Housing Crisis Center | TX | 194,271
Housing Crisis Center | TX | 188,196
Housing Crisis Center | TX | 106,200
Housing Crisis Center | TX | 334,321
Housing Crisis Center | TX | 650,000
Houston Area Community Services, Inc | TX | 665,647
Houston Area Community Services, Inc | TX | 646,747
Houston Area Women's Center | TX | 291,402
Houston Area Women's Center | TX | 610,858
Houston Area Women's Center | TX | 79,194
Interfaith Housing Coalition | TX | 348,885
International AIDS Empowerment, Inc | TX | 43,898
La Posada Home, Inc | TX | 89,026
La Posada Home, Inc | TX | 53,544
Legal Aid of NorthWest Texas | TX | 142,932
LifeNet Community Behavioral Healthcare | TX | 1,318,381
Mental Health and Mental Retardation Authority of Harris Cou | TX | 350,446
Mental Health and Mental Retardation of Tarrant County | TX | 295,780
Metro Dallas Homeless Alliance | TX | 169,395
Metrocare Services | TX | 280,240
Metrocare Services | TX | 168,588
Metrocare Services | TX | 792,229
Metrocare Services | TX | 413,004
MHMR of Tarrant County—Addiction Services | TX | 67,435
Mid-Coast Family Services, Inc | TX | 164,345
Montgomery County Homeless Coalition | TX | 47,050
Montgomery County Emergency Assistance, Inc | TX | 27,331
Montgomery County Emergency Assistance, Inc | TX | 101,753
Montrose Counseling Center, Inc | TX | 105,259
Neighborhood Development Corp | TX | 148,604
New Beginning Center, Inc | TX | 192,928
Northwest Assistance Ministries | TX | 501,892
Northwest Assistance Ministries | TX | 300,730
Odessa Links, Inc | TX | 735,060
Opportunity Center for the Homeless | TX | 78,721
Opportunity Center for the Homeless | TX | 161,091
Opportunity Center for the Homeless | TX | 108,551
Opportunity Center for the Homeless | TX | 250,734
Opportunity Center for the Homeless | TX | 115,136
Opportunity Center for the Homeless | TX | 132,870
Opportunity Center for the Homeless | TX | 171,920
Perpetual Help Home | TX | 92,983
Perpetual Help Home | TX | 46,368
Perpetual Help Home | TX | 33,111
Port Cities Rescue Mission Ministries | TX | 175,037
Presbyterian Night Shelter | TX | 712,008
Presbyterian Night Shelter | TX | 181,077
Promise House, Inc | TX | 269,737
Promise House, Inc | TX | 220,986
PWA Coalition of Dallas, Inc. d/b/a AIDS Services of Dallas | TX | 574,389
Rainbow Days, Inc | TX | 257,237
Recovery Resource Council | TX | 234,831
Recue Mission of El Paso, Inc | TX | 46,796
Sabine Valley Center | TX | 123,480
Sabine Valley Center | TX | 124,226
San Antonio Metropolitan Ministry Inc | TX | 104,596
Santa Maria Hostel, Inc | TX | 487,280
SEARCH | TX | 330,673
SEARCH | TX | 96,520
Shared Housing Center, Inc | TX | 93,390
Some Other Place, Inc | TX | 111,888
Southeast Texas Regional Planning Commission | TX | 23,008
Southern Territorial Headquarters of The Salvation Army, The | TX | 349,188
Star of Hope Mission | TX | 1,154,460
Star of Hope Mission | TX | 207,406
Star of Hope Mission | TX | 1,041,806
Tarrant County | TX | 24,237
Tarrant County | TX | 21,815
Tarrant County | TX | 166,404
Tarrant County | TX | 106,864
Tarrant County | TX | 212,663
Tarrant County | TX | 103,445
Tarrant County | TX | 1,063,427
Tarrant County | TX | 124,665
Tarrant County | TX | 322,293
Tarrant County | TX | 145,435
Tarrant County | TX | 50,680
Tarrant County | TX | 97,293
Tarrant County | TX | 85,617
Tarrant County | TX | 108,491
Tarrant County | TX | 333,435
Tarrant County Homeless Coalition | TX | 276,849
Temenos Community Development Center | TX | 633,666
Texas ReEntry Services, Inc | TX | 104,482
Texas Rio Grande Legal Aid, Inc | TX | 124,908
The Bridge Over Troubled Waters, Inc | TX | 932,248
The Children's Center, Inc | TX | 160,000
The Children's Center, Inc | TX | 170,495
The Children's Center, Inc | TX | 192,237
The El Paso Alliance, Inc | TX | 477,452
The Family Place | TX | 981,236
The Gulf Coast Center | TX | 216,499
The Gulf Coast Center | TX | 525,537
The Gulf Coast Center | TX | 60,942
The Gulf Coast Center | TX | 120,271
The Housing Authority of the City of Dallas | TX | 150,552
The Housing Authority of Travis County | TX | 547,392
The Housing Authority of Travis County | TX | 198,096
The Salvation Army | TX | 245,903
The Salvation Army, A Georgia Corporation | TX | 538,081
The Salvation Army, a Georgia Corporation | TX | 845,113
The Salvation Army, A Georgia Corporation | TX | 137,777
The Women's Home | TX | 126,717
Travis County DV & SA Survival Center, dba SafePlace | TX | 613,002
Twin City Mission, Inc | TX | 165,991
Twin City Mission, Inc | TX | 61,363
Twin City Mission, Inc | TX | 230,234
Twin City Mission, Inc | TX | 32,332
United States Veterans Initiative | TX | 489,977
United States Veterans Initiative | TX | 110,441
Vogel Alcove | TX | 166,441
Volunteers of America Texas, Inc | TX | 212,069
Wellsprings Village, Inc | TX | 77,293
Women Opting for More Affordable Housing Now, Inc. (WOMAN), Inc | TX | 104,168
Youth and Family Alliance dba LifeWorks | TX | 212,969
YWCA El Paso del Norte Region | TX | 229,728
YWCA El Paso del Norte Region | TX | 270,616
Bear River Association of Governments | UT | 49,564
Cedar City Housing Authority | UT | 13,912
Center for Women and Children in Crisis, Inc | UT | 51,692
Center for Women and Children in Crisis, Inc | UT | 16,252
Community Action Services and Food Bank, Inc | UT | 34,926
Community Action Services and Food Bank, Inc | UT | 228,653
Davis Behavioral Health Inc | UT | 104,036
Family Connection Center | UT | 171,149
Family Support Center | UT | 32,844
Family Support Center | UT | 13,003
Family Support Center | UT | 67,698
Golden Spike Treatment Ranch, Inc | UT | 35,056
Housing Authority of Salt Lake City | UT | 365,532
Housing Authority of Salt Lake City | UT | 39,648
Housing Authority of Salt Lake City | UT | 181,320
Housing Authority of the County of Salt Lake | UT | 824,496
Housing Authority of the County of Salt Lake | UT | 411,000
Housing Authority of the County of Salt Lake | UT | 348,600
Housing Authority of the County of Salt Lake | UT | 82,200
Housing Authority of the County of Salt Lake | UT | 308,280
Housing Authority of Utah County | UT | 14,688
Housing Authority of Utah County | UT | 278,436
I Promise Foundation | UT | 70,307
Mountainlands Community Housing Trust | UT | 124,913
Provo City Housing Authority | UT | 264,384
Provo City Housing Authority | UT | 21,379
Southwest Behavioral Health Center | UT | 27,182
The Erin Kimball Memorial Foundation, Inc | UT | 75,091
The Road Home | UT | 111,209
The Road Home | UT | 36,850
The Road Home | UT | 25,495
Uintah Basin Association of Governments | UT | 26,985
Utah Department of Community and Culture | UT | 128,047
Utah Department of Community and Culture | UT | 95,104
Utah Department of Community and Culture | UT | 17,455
Utah Department of Community and Culture | UT | 50,741
Utah Department of Community and Culture | UT | 29,904
Utah Department of Community and Culture | UT | 29,899
Utah Department of Community and Culture | UT | 8,220
Utah Nonprofit Housing Corporation | UT | 34,913
Valley Mental Health, Inc | UT | 52,545
Volunteers of America, Utah | UT | 833,556
Volunteers of America, Utah | UT | 99,750
Volunteers of America, Utah | UT | 118,696
West Valley City Housing Authority | UT | 205,500
Young Womens Christian Assn of Salt Lake City | UT | 155,989
Your Community Connection of Ogden/Northern Utah | UT | 67,023
AIDS/HIV Services Group | VA | 60,004
Alexandria Community Services Board | VA | 54,608
Alexandria Community Services Board | VA | 29,812
Alexandria Community Services Board | VA | 98,150
Alexandria Community Services Board | VA | 131,643
Arlington County Government | VA | 102,963
Arlington County Government | VA | 94,872
Arlington County Government | VA | 222,324
Arlington County Government | VA | 102,024
Arlington County Government | VA | 139,212
Arlington Street People's Assistance Network, Inc | VA | 90,248
Arlington Street People's Assistance Network, Inc | VA | 211,446
Arlington Street People's Assistance Network, Inc | VA | 166,058
Arlington-Alexandria Coalition for the Homeless | VA | 143,238
Avalon: A Center for Women and Children | VA | 64,454
Barrett Haven Inc | VA | 144,913
CANDII, Inc | VA | 168,911
CANDII, Inc | VA | 179,212
CANDII, Inc | VA | 272,097
Chesapeake Community Services Board | VA | 11,580
Christian Relief Services Charities, Inc | VA | 30,943
Christian Relief Services Charities, Inc | VA | 24,885
Christian Relief Services Charities, Inc | VA | 135,673
Christian Relief Services Charities, Inc | VA | 76,220
Christian Relief Services Charities, Inc | VA | 120,676
Christian Relief Services Charities, Inc | VA | 24,885
Christian Relief Services of Virginia, Inc | VA | 291,788
Christian Relief Services of Virginia, Inc | VA | 216,780
City of Lynchburg | VA | 81,168
City of Portsmouth Virginia | VA | 69,013
City of Portsmouth Virginia | VA | 414,768
City of Richmond | VA | 1,051,488
City of Richmond Department of Social Services | VA | 60,480
City of Roanoke | VA | 175,140
City of Roanoke | VA | 137,669
City of Roanoke | VA | 174,900
Commonwealth of Virginia | VA | 26,250
Commonwealth of Virginia | VA | 60,855
Community Alternatives Management Group, Inc | VA | 111,014
Community Alternatives Management Group, Inc | VA | 79,049
Community Alternatives Management Group, Inc | VA | 366,954
Council of Community Services | VA | 80,232
Council of Community Services | VA | 17,457
County of Loudoun | VA | 106,429
County of Loudoun | VA | 64,386
Danville Redevelopment and Housing Authority | VA | 67,200
Emergency Shelter, Inc | VA | 544,806
Emergency Shelter, Inc | VA | 99,960
Fairfax County Department of Family Services | VA | 431,580
Fairfax County Department of Family Services | VA | 453,346
Fairfax County Department of Housing and Community Development | VA | 172,212
Fairfax County Department of Housing and Community Development | VA | 61,872
Fairfax County Department of Housing and Community Development | VA | 511,488
Fairfax County Department of Housing and Community Development | VA | 458,892
Fairfax County Department of Housing and Community Development | VA | 331,020
Fairfax-Falls Church Community Services Board | VA | 254,652
ForKids inc | VA | 149,166
ForKids inc | VA | 23,434
ForKids inc | VA | 264,687
ForKids inc | VA | 125,038
ForKids inc | VA | 103,804
ForKids inc | VA | 46,426
ForKids inc | VA | 242,043
ForKids inc | VA | 42,884
George Washington Regional Commission | VA | 59,305
Hampton-Newport News Community Services Board | VA | 287,796
Hampton-Newport News Community Services Board | VA | 57,446
Harrisonburg Redevelopment and Housing Authority | VA | 42,000
Helping Overcome Poverty's Existence, Inc | VA | 83,818
Helping Overcome Poverty's Existence, Inc | VA | 144,845
Hilliard House | VA | 262,917
Homestretch Inc | VA | 150,727
Homeward | VA | 15,802
Homeward | VA | 21,654
Homeward | VA | 26,745
Judeo-Christian Outreach Center | VA | 56,247
Kurdish Human Rights Watch, Inc. (KHRW) | VA | 438,973
Link of Hampton Roads, Inc | VA | 323,934
Link of Hampton Roads, Inc | VA | 80,359
Link of Hampton Roads, Inc | VA | 114,872
Link of Hampton Roads, Inc | VA | 256,582
Lynchburg Community Action Group, Inc | VA | 44,665
Lynchburg Neighborhood Development Foundation | VA | 64,748
Micah Ecumenical Ministries | VA | 27,031
Micah Ecumenical Ministries | VA | 62,988
Miriam's House, Inc | VA | 87,252
Miriam's House, Inc | VA | 21,357
New Hope Housing, Inc | VA | 245,541
New Hope Housing, Inc | VA | 121,850
New Hope Housing, Inc | VA | 58,850
New Hope Housing, Inc | VA | 221,122
Newport News Redevelopment and Housing Authority | VA | 92,640
Norfolk Community Services Board | VA | 25,000
Norfolk Community Services Board | VA | 130,641
Norfolk Community Services Board | VA | 330,739
Norfolk Community Services Board | VA | 556,968
Northern Shenandoah Valley Regional Commission | VA | 36,750
Northern Shenandoah Valley Regional Commission | VA | 57,101
Northwestern Community Services | VA | 61,299
Northwestern Community Services | VA | 234,312
NOVACO Inc | VA | 111,492
Oasis Commission on Social Ministry of Portsmouth/Chesapeake | VA | 250,069
Our House Families | VA | 109,798
Pathway Homes, Inc | VA | 153,657
Pathway Homes, Inc | VA | 157,788
People Incorporated of Virginia | VA | 186,700
People Incorporated of Virginia | VA | 24,751
Portsmouth Area Resources Coalition, Inc | VA | 122,421
Portsmouth Area Resources Coalition, Inc | VA | 45,123
Portsmouth Area Resources Coalition, Inc | VA | 53,550
Portsmouth Area Resources Coalition, Inc | VA | 104,832
Portsmouth Christian Outreach Ministries | VA | 79,309
Portsmouth Volunteers for the Homeless | VA | 55,650
Prince William Department of Social Services | VA | 91,900
Prince William Department of Social Services | VA | 7,094
Prince William Department of Social Services | VA | 141,156
Prince William Department of Social Services | VA | 126,463
Prince William Department of Social Services | VA | 134,032
Prince William Department of Social Services | VA | 143,585
Prince William Department of Social Services | VA | 36,230
PRS, Inc | VA | 168,450
Rappahannock Refuge, Inc | VA | 57,918
Region Ten Community Services Board | VA | 146,160
Region Ten Community Services Board | VA | 122,772
Residential Options, Inc | VA | 69,237
Rush Lifetime Homes, Inc | VA | 51,100
Samaritan House, Inc | VA | 109,848
Samaritan House, Inc | VA | 36,887
Sheltered Homes of Alexandria | VA | 77,748
Sheltered Homes of Alexandria | VA | 89,288
South River Development Corporation | VA | 38,033
St. Columba Ecumenical Ministries, Inc | VA | 130,179
St. Joseph's Villa | VA | 272,000
The Daily Planet, Inc | VA | 208,171
The Daily Planet, Inc | VA | 90,300
The Planning Council | VA | 50,533
The Planning Council | VA | 54,090
The Salvation Army, a Georgia Corporation | VA | 94,505
The Salvation Army. A Georgia Corporation | VA | 282,604
Total Action Against Poverty in Roanoke Valley | VA | 26,074
Total Action Against Poverty in Roanoke Valley | VA | 264,316
Transitions Family Violence Services | VA | 137,852
Trust, Roanoke Valley Trouble Center, Inc. d/b/a Trust House | VA | 56,551
United Community Ministries, Inc | VA | 138,216
Urban League of Greater Richmond | VA | 70,350
Virginia Beach Community Development Corporation | VA | 122,018
Virginia Beach Community Development Corporation | VA | 75,084
Virginia Beach Community Development Corporation | VA | 4,620
Virginia Beach Community Development Corporation | VA | 371,406
Virginia Supportive Housing | VA | 39,860
Virginia Supportive Housing | VA | 48,466
Virginia Supportive Housing | VA | 313,769
Virginia Supportive Housing | VA | 421,688
Volunteers of America Chesapeake, Inc | VA | 306,441
Waynesboro Redevelopment and Housing Authority | VA | 38,154
Young Women's Christian Association of South Hampton Roads | VA | 38,516
Methodist Training & Outreach Center, Inc | VI | 168,352
Methodist Training & Outreach Center, Inc | VI | 65,938
Addison County Community Action Group | VT | 145,045
Brattleboro Housing Authority | VT | 219,144
Burlington Housing Authority | VT | 81,516
Burlington Housing Authority | VT | 116,460
Burlington Housing Authority | VT | 76,824
Burlington Housing Authority | VT | 76,824
Champlain Valley Office of Economic Opportunity | VT | 222,440
Howard Center, Inc | VT | 200,402
Howard Center, Inc | VT | 181,146
Vermont State Housing Authority | VT | 62,733
Vermont State Housing Authority | VT | 38,535
Vermont State Housing Authority | VT | 128,400
Vermont State Housing Authority | VT | 1,470,384
Vermont State Housing Authority | VT | 30,000
Vermont State Housing Authority | VT | 55,524
Vermont State Housing Authority | VT | 74,592
Vermont State Housing Authority | VT | 37,247
Vermont State Housing Authority | VT | 90,455
Vermont State Housing Authority | VT | 71,642
Vermont State Housing Authority | VT | 26,568
Vermont State Housing Authority | VT | 122,136
Vermont State Housing Authority | VT | 8,427
Vermont State Housing Authority | VT | 55,939
Vermont State Housing Authority | VT | 69,904
Vermont State Housing Authority | VT | 148,815
Archdiocesan Housing Authority | WA | 197,739
Archdiocesan Housing Authority | WA | 105,422
Auburn Youth Resources | WA | 123,286
Bellingham Housing Authority | WA | 222,144
Bellingham Housing Authority | WA | 863,388
Benton and Franklin Counties Department of Human Services | WA | 95,976
Benton Franklin Community Action Committee | WA | 74,472
Benton Franklin Community Action Committee | WA | 125,704
Benton Franklin Community Action Committee | WA | 128,308
Benton Franklin Community Action Committee | WA | 180,369
Blue Mountain Action Council | WA | 142,724
Building Changes | WA | 387,191
Catholic Community Services | WA | 201,576
Catholic Community Services | WA | 110,000
Child Care Resources | WA | 529,095
Church Council of Greater Seattle | WA | 57,278
City of Bremerton | WA | 110,712
City of Bremerton | WA | 50,136
City of Bremerton | WA | 39,744
City of Seattle Human Services Department | WA | 105,000
City of Seattle Human Services Department | WA | 548,598
City of Seattle Human Services Department | WA | 326,054
City of Seattle Human Services Department | WA | 462,500
City of Seattle Human Services Department | WA | 80,012
City of Seattle Human Services Department | WA | 121,545
City of Seattle Human Services Department | WA | 30,000
City of Seattle Human Services Department | WA | 838,688
City of Seattle Human Services Department | WA | 183,540
City of Seattle Human Services Department | WA | 181,306
City of Seattle Human Services Department | WA | 25,422
City of Seattle Human Services Department | WA | 517,251
City of Seattle Human Services Department | WA | 492,048
City of Seattle Human Services Department | WA | 443,471
City of Seattle Human Services Department | WA | 79,906
City of Seattle Human Services Department | WA | 114,450
City of Seattle Human Services Department | WA | 168,153
City of Seattle Human Services Department | WA | 294,978
City of Seattle Human Services Department | WA | 586,377
City of Seattle Human Services Department | WA | 81,370
City of Seattle Human Services Department | WA | 1,129,355
City of Seattle Human Services Department | WA | 507,350
City of Seattle Human Services Department | WA | 915,072
City of Seattle Human Services Department | WA | 116,397
City of Seattle Human Services Department | WA | 545,049
City of Seattle Human Services Department | WA | 696,732
City of Spokane | WA | 44,028
City of Spokane | WA | 51,424
City of Spokane | WA | 77,484
City of Spokane | WA | 38,215
City of Spokane | WA | 38,802
City of Spokane | WA | 113,220
City of Spokane | WA | 6,660
City of Spokane | WA | 85,723
City of Spokane | WA | 106,003
City of Spokane | WA | 27,739
City of Spokane | WA | 280,581
City of Spokane | WA | 118,908
City of Spokane | WA | 14,917
City of Spokane | WA | 77,175
City of Spokane | WA | 56,251
City of Spokane | WA | 88,698
City of Spokane | WA | 106,082
City of Spokane | WA | 42,621
City of Spokane | WA | 187,365
City of Spokane | WA | 169,684
City of Spokane | WA | 169,687
City of Spokane | WA | 149,232
City of Spokane | WA | 167,591
City of Spokane | WA | 67,164
City of Spokane | WA | 381,960
City of Spokane | WA | 27,799
City of Spokane | WA | 89,932
Columbia Gorge Housing Authority | WA | 34,332
Columbia River Mental Health Services | WA | 122,414
Community Action Center | WA | 19,152
Community Psychiatric Clinic | WA | 75,171
Community Psychiatric Clinic | WA | 348,156
Community Services Northwest | WA | 91,700
Community Services Northwest | WA | 51,578
Community Youth Services | WA | 151,516
Compass Health | WA | 57,259
Compass Health | WA | 34,600
Compass Health | WA | 41,393
Compass Housing Alliance | WA | 26,284
Council for the Homeless | WA | 72,697
Development Association of the Goodwill Baptist Church | WA | 56,642
Development Association of the Goodwill Baptist Church | WA | 28,596
El Centro de la Raza | WA | 17,603
Friends of Youth | WA | 123,062
HopeSource | WA | 46,346
Housing Authority City of Kelso | WA | 90,720
Housing Authority of Island County | WA | 41,040
Housing Authority of Snohomish County | WA | 2,928,744
Housing Authority of the City of Bremerton | WA | 136,450
Housing Authority of the City of Tacoma | WA | 62,880
Housing Authority of the City of Vancouver | WA | 137,664
Housing Authority of Thurston County | WA | 133,921
Housing Hope | WA | 29,828
Housing Hope | WA | 80,315
Joint City of Republic-Ferry County Housing Authority | WA | 36,316
Kent Youth and Family Services | WA | 38,134
King County Department of Community and Human Services | WA | 624,566
King, County of | WA | 939,036
King, County of | WA | 389,052
King, County of | WA | 99,739
King, County of | WA | 140,085
King, County of | WA | 63,258
King, County of | WA | 303,975
King, County of | WA | 121,939
King, County of | WA | 74,613
King, County of | WA | 5,525,304
King, County of | WA | 251,744
Kitsap County Consolidated Housing Authority | WA | 24,938
Lewis County | WA | 108,814
Low Income Housing Institute | WA | 398,285
Low Income Housing Institute | WA | 36,141
Low Income Housing Institute | WA | 56,085
Low Income Housing Institute | WA | 31,500
Mason County Shelter | WA | 98,299
Multi-Service Center | WA | 26,724
Next Step Housing | WA | 46,835
Northwest Youth Services | WA | 261,785
Olympic Community Action Programs | WA | 135,599
Opportunity Council | WA | 84,130
Opportunity Council | WA | 225,514
Opportunity Council | WA | 140,868
Pierce County | WA | 190,188
Pierce County | WA | 59,885
Pierce County | WA | 76,855
Pierce County | WA | 340,986
Pierce County | WA | 32,444
Pierce County | WA | 111,377
Pierce County | WA | 143,477
Pierce County | WA | 66,539
Pierce County | WA | 89,527
Pierce County | WA | 167,339
Pierce County | WA | 29,512
Pierce County | WA | 45,150
Pierce County | WA | 165,201
Pierce County | WA | 34,701
Pierce County | WA | 201,499
Pierce County | WA | 24,324
Pierce County | WA | 24,741
Pierce County | WA | 162,335
Pierce County | WA | 259,033
Pierce County | WA | 136,799
Pierce County | WA | 312,900
Pierce County | WA | 94,032
Pierce County | WA | 34,106
Pierce County | WA | 54,023
Pierce County | WA | 36,902
Pierce County | WA | 89,568
Seattle Housing Authority | WA | 9,896
Second Step Housing | WA | 164,101
Second Step Housing | WA | 92,365
Serenity House of Clallam County | WA | 142,951
Serenity House of Clallam County | WA | 138,769
Serenity House of Clallam County | WA | 78,481
Share | WA | 83,229
Share | WA | 61,267
Share | WA | 34,429
Skagit County Community Action Agency | WA | 50,054
Skagit County Community Action Agency | WA | 136,987
Snohomish, County of | WA | 70,369
Snohomish, County of | WA | 175,532
Snohomish, County of | WA | 124,476
Snohomish, County of | WA | 161,634
Snohomish, County of | WA | 109,270
Snohomish, County of | WA | 87,928
Snohomish, County of | WA | 75,435
Snohomish, County of | WA | 164,820
Snohomish, County of | WA | 60,349
Snohomish, County of | WA | 43,636
Snohomish, County of | WA | 87,585
Snohomish, County of | WA | 163,659
Snohomish, County of | WA | 35,931
Snohomish, County of | WA | 58,203
Snohomish, County of | WA | 23,609
Snohomish, County of | WA | 81,523
Snohomish, County of | WA | 101,356
Solid Ground Washington | WA | 158,620
Spokane Neighborhood Action Partners | WA | 134,839
Spokane Neighborhood Action Partners | WA | 133,448
Sun Community Service | WA | 36,013
The Family Support Center of South Sound | WA | 54,810
The Salvation Army | WA | 77,838
The Salvation Army | WA | 253,988
Triumph Treatment Services | WA | 158,792
United Indians of All Tribes Foundation | WA | 343,565
Vietnam Veterans Leadership Program | WA | 23,579
WA State Department of Commerce | WA | 143,082
Walla Walla County | WA | 66,101
Washington Gorge Action Programs | WA | 109,986
Womens Resource Center of North Central Washington | WA | 38,758
Yakima County | WA | 10,815
Yakima County | WA | 48,188
Yakima County | WA | 61,468
Yakima County | WA | 60,879
Yakima County | WA | 69,191
Yakima County | WA | 10,568
YouthCare | WA | 105,602
YouthCare | WA | 151,856
YWCA of Seattle-King County-Snohomish County | WA | 78,878
YWCA of Seattle-King County-Snohomish County | WA | 167,867
YWCA of Seattle-King County-Snohomish County | WA | 29,683
YWCA of Seattle-King County-Snohomish County | WA | 103,619
YWCA of Seattle-King County-Snohomish County | WA | 57,319
YWCA of Seattle-King County-Snohomish County | WA | 85,614
YWCA of Seattle-King County-Snohomish County | WA | 42,540
YWCA of Seattle-King County-Snohomish County | WA | 72,245
ADVOCAP, Inc | WI | 197,658
ADVOCAP, Inc | WI | 158,583
ADVOCAP, Inc | WI | 110,216
CAP Services, Inc | WI | 105,025
Catherine Marian Housing, Inc | WI | 55,053
Center for Veterans Issues, Ltd | WI | 132,021
Center for Veterans Issues, Ltd | WI | 170,568
Center for Veterans Issues, Ltd | WI | 94,831
Center for Veterans Issues, Ltd | WI | 947,043
Center for Veterans Issues, Ltd | WI | 415,911
Central Wisconsin Community Action Council, Inc | WI | 262,322
City of Appleton | WI | 51,513
City of Appleton | WI | 177,763
Community Action Coalition for South Central Wisconsin, Inc | WI | 226,190
Community Action Coalition for South Central Wisconsin, Inc | WI | 165,020
Community Action, Inc. of Rock & Walworth Counties | WI | 517,583
Community Advocates, Inc | WI | 428,544
Community Advocates, Inc | WI | 120,514
Community Advocates, Inc | WI | 693,053
Community Advocates, Inc | WI | 403,631
Community Development Partners, Inc | WI | 97,815
Community Development Partners, Inc | WI | 126,721
Couleecap, Inc | WI | 366,316
Couleecap, Inc | WI | 254,126
Couleecap, Inc | WI | 737,846
Dane County, WI | WI | 815,028
Family Services of Northeast Wisconsin | WI | 159,800
Forward Service Corporation | WI | 402,991
Guest House of Milwaukee, Inc | WI | 837,503
Guest House of Milwaukee, Inc | WI | 235,625
Guest House of Milwaukee, Inc | WI | 180,454
Guest House of Milwaukee, Inc | WI | 196,230
Health Care for the Homeless of Milwaukee, Inc | WI | 255,068
Health Care for the Homeless of Milwaukee, Inc | WI | 450,454
Hebron House of Hospitality, Inc | WI | 167,071
Hebron House of Hospitality, Inc | WI | 116,535
Homeless Assistance Leadership Organization, Inc | WI | 304,934
Homeless Assistance Leadership Organization, Inc | WI | 114,804
Homeless Assistance Leadership Organization, Inc | WI | 114,428
Hope House of Milwaukee, Inc | WI | 579,715
Hope House of Milwaukee, Inc | WI | 65,514
Hope House of Milwaukee, Inc | WI | 30,679
HOPES Center of Racine, INC | WI | 51,969
Housing Initiatives, Inc | WI | 11,659
Kenosha Human Development Services, Inc | WI | 126,651
Kenosha Human Development Services, Inc | WI | 141,095
Lakeshore CAP, Inc | WI | 117,663
Legal Action of WI, Inc | WI | 80,536
Legal Action of Wisconsin | WI | 111,300
Legal Action of Wisconsin, Inc | WI | 16,000
Meta House, Inc | WI | 130,385
Meta House, Inc | WI | 328,031
Meta House, Inc | WI | 121,092
Milwaukee County of | WI | 419,979
Milwaukee County of | WI | 2,841,696
My Home, Your Home, Inc | WI | 183,547
North Central Community Action Program, Inc | WI | 177,165
Northwest Wisconsin Community Services Agency Inc | WI | 92,612
Northwest Wisconsin Community Services Agency Inc | WI | 113,670
Porchlight, Inc | WI | 123,827
Porchlight, Inc | WI | 62,194
Porchlight, Inc | WI | 61,820
Porchlight, Inc | WI | 162,742
Porchlight, Inc | WI | 50,768
Porchlight, Inc | WI | 111,373
Porchlight, Inc | WI | 344,766
Project New Life, CDC | WI | 152,028
Racine Vocational Ministry, Inc | WI | 28,941
Richard's Place Inc | WI | 112,555
Richard's Place Inc | WI | 144,841
St. Aemilian-Lakeside, Inc | WI | 167,828
St. Catherine Residence, Inc | WI | 144,379
Starting Points, Inc | WI | 182,179
Starting Points, Inc | WI | 509,525
Starting Points, Inc | WI | 117,400
State of Wisconsin | WI | 364,486
State of Wisconsin | WI | 244,404
Tellurian UCAN, Inc | WI | 155,106
Tellurian UCAN, Inc | WI | 66,415
Tellurian UCAN, Inc | WI | 249,165
Tellurian UCAN, Inc | WI | 64,575
The Road Home Dane County | WI | 54,995
The Salvation Army | WI | 38,193
The Salvation Army | WI | 42,500
The Salvation Army | WI | 31,473
The Salvation Army | WI | 229,270
WALKER'S POINT YOUTH AND FAMILY CENTER | WI | 195,781
Walworth County Housing Authority | WI | 85,079
West Central Wisconsin Community Action Agency, Inc | WI | 434,523
Western Dairyland Economic Opportunity Council, Inc | WI | 264,926
Women and Children's Horizons Inc | WI | 220,566
Women's Resource Center of Racine | WI | 16,963
Women's Resource Center of Racine | WI | 19,066
Young Women's Christian Association of the Coulee Region | WI | 73,322
YWCA Greater Milwaukee | WI | 116,549
YWCA of Madison, Inc | WI | 375,095
Bartlett House, Inc | WV | 423,400
Cabell-Huntington Coalition for the Homeless, Inc | WV | 130,846
Cabell-Huntington Coalition for the Homeless, Inc | WV | 211,811
Caritas House, Inc | WV | 131,157
Charleston-Kanawha Housing | WV | 118,800
Charleston-Kanawha Housing | WV | 118,800
City of Charleston | WV | 99,144
Clarksburg Housing Authority | WV | 151,452
Community Networks, Inc | WV | 76,756
Greater Wheeling Coalition for the Homeless | WV | 250,272
Greater Wheeling Coalition for the Homeless | WV | 11,200
Greater Wheeling Coalition for the Homeless | WV | 26,536
Greater Wheeling Coalition for the Homeless | WV | 135,796
Housing Authority of Mingo County | WV | 81,220
Huntington West Virginia Housing Authority | WV | 90,720
Huntington West Virginia Housing Authority | WV | 389,460
Huntington West Virginia Housing Authority | WV | 38,274
Huntington West Virginia Housing Authority | WV | 29,760
Huntington West Virginia Housing Authority | WV | 327,504
Huntington West Virginia Housing Authority | WV | 376,524
Huntington West Virginia Housing Authority | WV | 59,520
Huntington West Virginia Housing Authority | WV | 37,495
Kanawha Valley Colective, Inc | WV | 50,000
Kanawha Valley Colective, Inc | WV | 13,999
Mid-Ohio Valley Fellowship Home, Inc | WV | 9,838
Opportunity House, Inc | WV | 50,281
Opportunity House, Inc | WV | 285,240
Parkersburg Housing Authority | WV | 144,720
Prestera Center for Mental Health Services | WV | 138,002
Prestera Center for Mental Health Services | WV | 133,562
Raleigh County Community Action Association, Incorporated | WV | 320,153
Religious Coalition for Community Renewal | WV | 72,513
Roark-Sullivan Lifeway Center | WV | 250,071
Stop Abusive Family Environments, Inc | WV | 135,799
Telamon Corporation | WV | 70,209
Telamon Corporation | WV | 138,457
West Virginia Coalition to End Homelessness | WV | 293,905
West Virginia Coalition to End Homelessness | WV | 90,930
Westbrook Health Services, Inc | WV | 32,628
Worthington Mental Health Services, Inc | WV | 46,857
Young Women's Christian Association | WV | 174,126
Young Women's Christian Association of Charleston, WV | WV | 29,858
Young Women's Christian Association of Charleston, WV | WV | 62,697
Community Action Partnership of Natrona County | WY | 113,175
Council of Community Services | WY | 61,016
Self Help Center, Inc | WY | 97,660
Wyoming Community Network | WY | 66,666
Total |  | 1,628,387,474

[FR Doc. 2012-3016 Filed 2-9-12; 8:45 am]

BILLING CODE 4210-67-P